DEPARTMENT OF JUSTICE

Drug Enforcement Administration

[Docket No. DEA-372]

Exempt Chemical Preparations Under the Controlled Substances Act

AGENCY: Drug Enforcement Administration, Department of Justice.

ACTION: Order with opportunity for comment.

SUMMARY: The applications for exempt chemical preparations received by the Drug Enforcement Administration between March 1, 2023, and March 31, 2025, as listed below, were accepted for filing and have been approved or denied as indicated.

DATES: Comments must be submitted electronically or postmarked on or before September 2, 2025.

ADDRESSES: Interested persons may file written comments on this order in accordance with 21 CFR 1308.23(e). The electronic Federal Docket Management System will not accept comments after 11:59 p.m. Eastern Time on the last day of the comment period. To ensure proper handling of comments, please reference “Docket No. DEA-372” on all correspondence, including any attachments.

• Electronic comments: The Drug Enforcement Administration (DEA) encourages that all comments be submitted through the Federal eRulemaking Portal, which provides the ability to type short comments directly into the comment field on the web page or to attach a file for lengthier comments. Please go to http://www.regulations.gov and follow the online instructions at that site for submitting comments. Upon completion of your submission, you will receive a Comment Tracking Number for your comment. Please be aware that submitted comments are not instantaneously available for public view on Regulations.gov. If you have received a comment tracking number, your comment has been successfully submitted and there is no need to resubmit the same comment.

• Paper comments: Paper comments that duplicate the electronic submission are not necessary and are discouraged. Should you wish to mail a comment in lieu of an electronic comment, it should be sent via regular or express mail to: Drug Enforcement Administration, Attention: DEA Federal Register Representative/DRW, 8701 Morrissette Drive, Springfield, Virginia 22152.

• Paperwork Reduction Act Comments: All comments concerning collections of information under the Paperwork Reduction Act must be submitted to the Office of Information and Regulatory Affairs, OMB, Attention: Desk Officer for DOJ, Washington, DC 20503. Please state that your comment refers to Docket No. DEA-1189.

FOR FURTHER INFORMATION CONTACT: Terrence L. Boos, Ph.D., Diversion Control Division, Drug Enforcement Administration; Mailing Address: 8701 Morrissette Drive, Springfield, Virginia 22152; Telephone: (571) 362-8201.

SUPPLEMENTARY INFORMATION:

Posting of Public Comments

Please note that all comments received in response to this docket are considered part of the public record. DEA will make comments available for public inspection online at http://www.regulations.gov. Such information includes personal or business identifiers (such as name, address, state or Federal identifiers, etc.) voluntarily submitted by the commenter. Generally, all information voluntarily submitted by the commenter, unless clearly marked as Confidential Information in the method described below, will be publicly posted. Comments may be submitted anonymously. The Freedom of Information Act applies to all comments received.

Commenters submitting comments which include personal identifying information (PII), confidential, or proprietary business information that the commenter does not want made publicly available should submit two copies of the comment. One copy must be marked “CONTAINS CONFIDENTIAL INFORMATION” and should clearly identify all PII or business information the commenter does not want to be made publicly available, including any supplemental materials. DEA will review this copy, including the claimed PII and confidential business information, in its consideration of comments. The second copy should be marked “TO BE PUBLICLY POSTED” and must have all claimed confidential PII and business information already redacted. DEA will post only the redacted comment on http://www.regulations.gov for public inspection.

For easy reference, an electronic copy of this document and supplemental information to this proposed scheduling action are available at http://www.regulations.gov.

Legal Authority

Section 201 of the Controlled Substances Act (CSA) (21 U.S.C. 811) authorizes the Attorney General, by regulation, to exempt from certain provisions of the CSA certain compounds, mixtures, or preparations containing a controlled substance, if he finds that such compounds, mixtures, or preparations meet the requirements detailed in 21 U.S.C. 811(g)(3)(B).¹ DEA regulations at 21 CFR 1308.23 and 1308.24 further detail the criteria by which the DEA Assistant Administrator may exempt a chemical preparation or mixture from certain provisions of the CSA. The Assistant Administrator may, pursuant to 21 CFR 1308.23(f), modify or revoke the criteria by which exemptions are granted and modify the scope of exemptions at any time.

¹ This authority has been delegated from the Attorney General to the DEA Administrator by 28 CFR 0.100, and subsequently redelegated to the Deputy Assistant Administrator pursuant to 28 CFR 0.104 and Section 7 of the appendix to subpart R of part 0.

Exempt Chemical Preparation Applications Submitted Between March 1, 2023, and March 31, 2025

DEA received applications between March 1, 2023, and March 31, 2025, requesting exempt chemical preparation status detailed in 21 CFR 1308.23. This publication addresses preparations through September 30, 2023, that were not included in previous Federal Register notices, and it does not affect preparations that have been previously published. Pursuant to the criteria stated in 21 U.S.C. 811(g)(3)(B) and in 21 CFR 1308.23, the Assistant Administrator has found that each of the compounds, mixtures, and preparations described in Chart I below is intended for laboratory, industrial, educational, or special research purposes and not for general administration to a human being or animal and either: (1) contains no narcotic controlled substance and is packaged in such a form or concentration that the packaged quantity does not present any significant potential for abuse; or (2) contains either a narcotic or non-narcotic controlled substance and one or more adulterating or denaturing agents in such a manner, combination, quantity, proportion, or concentration that the preparation or mixture does not present any potential for abuse and, if the preparation or mixture contains a narcotic controlled substance, is formulated in such a manner that it incorporates methods of denaturing or other means so that the preparation or mixture is not liable to be abused or have ill effects, if abused, and so that the narcotic substance cannot in practice be removed.

Accordingly, pursuant to 21 U.S.C. 811(g)(3)(B), 21 CFR 1308.23, and 21 CFR 1308.24, the Assistant Administrator has determined that each of the chemical preparations or mixtures generally described in Chart I below and specifically described in the application materials received by DEA is exempt, to the extent described in 21 CFR 1308.24, from application of sections 302, 303, 305, 306, 307, 308, 309, 1002, 1003, and 1004 (21 U.S.C. 822-823, 825-829, and 952-954) of the CSA, and 21 CFR 1301.74, as of the date that was provided in the approval letters to the individual requesters.

Scope of Approval

The exemptions are applicable only to the precise preparation or mixture described in the application submitted to DEA in the form(s) listed in this order and only for those above mentioned sections of the CSA and the CFR. In accordance with 21 CFR 1308.24(h), any change in the quantitative or qualitative composition of the preparation or mixture, or change in the trade name or other designation of the preparation or mixture after the date of application requires a new application. The requirements set forth in 21 CFR 1308.24(b)-(e) apply to the exempted materials. In accordance with 21 CFR 1308.24(g), DEA may prescribe requirements other than those set forth in 21 CFR 1308.24(b)-(e) on a case-by-case basis for materials exempted in bulk quantities. Accordingly, in order to limit opportunities for diversion from the larger bulk quantities, DEA has determined that each of the exempted bulk products listed in this order may only be used in-house by the manufacturer, and may not be distributed for any purpose, or transported to other facilities.

Additional exempt chemical preparation requests received between March 1, 2023, and March 31, 2025, and not otherwise referenced in this order, may remain under consideration until DEA receives additional information required, pursuant to 21 CFR 1308.23(d), as detailed in separate correspondence to individual requesters. DEA's order on such requests will be communicated to the public in a future Federal Register publication.

DEA also notes that these exemptions are limited to exemption from only those sections of the CSA and the CFR that are specifically identified in 21 CFR 1308.24(a). All other requirements of the CSA and the CFR apply, including registration as an importer as required by 21 U.S.C. 957.

Chart I
Supplier name | Product name | Form | Application date
(AAB-MLE) American Association of Bioanalysts-Medical Laboratory Evaluation | (AAB-MLE) Chemistry | Amber vial: 5 mL | 8/7/2024
(API) American Proficiency Institute | (API) Chemistry | Amber vial: 5 mL | 8/7/2024
(API) American Proficiency Institute | (API) Remedial Chemistry | Amber vial: 5 mL | 8/7/2024
(WSLH) Wisconsin Laboratory of Hygeine | (WSLH) Chemistry/Endocrinology/TDM | Amber vial: 5 mL | 8/7/2024
(WSLH) Wisconsin Laboratory of Hygeine | (WSLH) Chemistry-Waived | Amber vial: 5 mL | 8/7/2024
Aalto Scientific, Ltd. | Eatonton | Linearity FD Immunoassay for Abbott Systems | Kit: 5 vials, 5 mL each | 8/22/2024
Aalto Scientific, Ltd. | Eatonton | Linearity FD Immunoassay for Abbott Systems Level A | Glass vial: 5 mL | 8/22/2024
Aalto Scientific, Ltd. | Eatonton | Linearity FD Immunoassay for Abbott Systems Level B | Glass vial: 5 mL | 8/22/2024
Aalto Scientific, Ltd. | Eatonton | Linearity FD Immunoassay for Abbott Systems Level C | Glass vial: 5 mL | 8/22/2024
Aalto Scientific, Ltd. | Eatonton | Linearity FD Immunoassay for Abbott Systems Level D | Glass vial: 5 mL | 8/22/2024
Aalto Scientific, Ltd. | Eatonton | Linearity FD Immunoassay for Abbott Systems Level E | Glass vial: 5 mL | 8/22/2024
Absolute Standards, Inc | (+/−)-Amphetamine PT, 1-1000 µg/mL, in Methanol | Glass ampoule: 1 mL | 7/30/2024
Absolute Standards, Inc | (+/−)-Amphetamine-D5 PT, 1-1000 ug/mL, in Methanol | Glass ampoule: 1 mL | 7/30/2024
Absolute Standards, Inc | (+/−)-MDA PT, 1-1000 µg/mL, in Methanol | Glass ampoule: 1 mL | 7/30/2024
Absolute Standards, Inc | (+/−)-MDA-D5 PT, 1-1000 ug/mL, in Methanol | Glass ampoule: 1 mL | 7/30/2024
Absolute Standards, Inc | (+/−)-MDMA-D5 PT, 1-1000 ug/mL, in Methanol | Glass ampoule: 1 mL | 7/30/2024
Absolute Standards, Inc | (+/−)-Methamphetamine PT, 1-1000 µg/mL, in Methanol | Glass ampoule: 1 mL | 7/30/2024
Absolute Standards, Inc | (+/−)-Methamphetamine-D5 PT, 1-1000 ug/mL, in Methanol | Glass ampoule: 1 mL | 7/30/2024
Absolute Standards, Inc | (6aR,9S)-Δ10-THC, 10 ug/g, in Hemp oil:Acetone:Acetonitrile [5:4:1] | Glass ampoule: 1 mL | 11/21/2024
Absolute Standards, Inc | 6-Acetylmorphine PT, 1-1000 ug/mL, in Methanol | Glass ampoule: 1 mL | 7/30/2024
Absolute Standards, Inc | 6-Acetylmorphine-D3 PT, 1-1000 ug/mL, in Methanol | Glass ampoule: 1 mL | 7/30/2024
Absolute Standards, Inc | Alprazolam PT, 1-100 µg/mL, in Methanol | Glass ampoule: 1 mL | 12/6/2024
Absolute Standards, Inc | Alprazolam-D5 PT, 1-100 ug/mL, in Methanol | Glass ampoule: 1 mL | 12/6/2024
Absolute Standards, Inc | Amobarbital PT, 1-1000 ug/mL, in Methanol | Glass ampoule: 1 mL | 7/30/2024
Absolute Standards, Inc | Benzoylecgonine PT, 1-1000 µg/mL, in Methanol | Glass ampoule: 1 mL | 7/30/2024
Absolute Standards, Inc | Benzoylecgonine-D3 PT, 1-1000 ug/mL, in Methanol | Glass ampoule: 1 mL | 7/30/2024
Absolute Standards, Inc | Buprenorphine PT, 1-1000 ug/mL, in Methanol | Glass ampoule: 1 mL | 7/30/2024
Absolute Standards, Inc | Buprenorphine, 10 ug/mL, in Methanol | Glass ampoule: 1 ml | 6/21/2024
Absolute Standards, Inc | Buprenorphine, 100 ug/mL, in Methanol | Glass ampoule: 1 ml | 6/21/2024
Absolute Standards, Inc | Buprenorphine, 1000 ug/mL, in Methanol | Glass ampoule: 1 ml | 6/21/2024
Absolute Standards, Inc | Butabarbital PT, 1-1000 ug/mL, in Methanol | Glass ampoule: 1 mL | 7/30/2024
Absolute Standards, Inc | Butalbital PT, 1-1000 ug/mL, in Methanol | Glass ampoule: 1 mL | 7/30/2024
Absolute Standards, Inc | CA CRM Standard Mix 1—Acids/Acetates, 10 ug/g, in Hemp oil:Acetone:Acetonitrile [5:4:1] | Glass vial: 1 g | 11/21/2024
Absolute Standards, Inc | CA CRM Standard Mix 1—Acids/Acetates, 10 ug/mL, in Acetonitrile | Glass ampoule: 1 mL | 11/21/2024
Absolute Standards, Inc | CA CRM Standard Mix 1—Acids/Acetates, 18 ug/mL, in Acetonitrile | Glass ampoule: 1 mL | 11/21/2024
Absolute Standards, Inc | CA CRM Standard Mix 2—Neutrals, 10 ug/g, in Hemp oil:Acetone:Acetonitrile [5:4:1] | Glass ampoule: 1 mL | 11/21/2024
Absolute Standards, Inc | CA CRM Standard Mix 2—Neutrals, 10 ug/mL, in Methanol | Glass vial: 1 g | 11/21/2024
Absolute Standards, Inc | CA CRM Standard Mix 2—Neutrals, 18 ug/mL, in Methanol | Glass ampoule: 1 mL | 11/21/2024
Absolute Standards, Inc | Calibrator Mix, Varied ug/L, in Methanol | Glass vial: 1 g | 11/21/2024
Absolute Standards, Inc | Cannabis PT in Hemp Oil, Varied ug/g, in Hemp Oil:Acetone:Acetonitrile [5:4:1] | Glass ampoule: 1 g | 6/21/2024
Absolute Standards, Inc | Carfentanil PT, 1-100 ug/mL, in Methanol | Glass ampoule: 1 mL | 7/30/2024
Absolute Standards, Inc | Carfentanil, 100 ug/mL, in Methanol | Glass ampoule: 1 mL | 11/21/2024
Absolute Standards, Inc | Chlordiazepoxide PT, 1-1000 ug/mL, in Acetonitrile | Glass ampoule: 1 mL | 7/30/2024
Absolute Standards, Inc | cis-Δ9-THC, 10 ug/g, in Hemp oil:Acetone:Acetonitrile [5:4:1] | Glass vial: 1 g | 11/21/2024
Absolute Standards, Inc | cis-Δ9-THC, 100 ug/mL, in Acetonitrile | Glass vial: 1 g | 11/21/2024
Absolute Standards, Inc | Clonazepam PT, 1-100 µg/mL, in Methanol | Glass ampoule: 1 mL | 12/6/2024
Absolute Standards, Inc | Clonazepam-D4 PT, 1-100 ug/mL, in Methanol | Glass ampoule: 1 mL | 12/6/2024
Absolute Standards, Inc | Cocaethylene PT, 1-1000 ug/mL, in Acetonitrile | Glass ampoule: 1 mL | 7/30/2024
Absolute Standards, Inc | Cocaine PT, 1-100 µg/mL, in Acetonitrile | Glass ampoule: 1 mL | 7/30/2024
Absolute Standards, Inc | Cocaine-D3 PT, 1-100 ug/mL, in Methanol | Glass ampoule: 1 mL | 7/30/2024
Absolute Standards, Inc | Codeine PT, 1-1000 ug/mL, in Methanol | Glass ampoule: 1 mL | 7/30/2024
Absolute Standards, Inc | Codeine-6-β-D-glucuronide PT, 1-1000 ug/mL, in Acetonitrile:Water [1:1] | Glass ampoule: 1 mL | 7/30/2024
Absolute Standards, Inc | Codeine-D3 PT, 1-1000 ug/mL, in Ethanol | Glass ampoule: 1 mL | 7/30/2024
Absolute Standards, Inc | d,l-MDMA PT, 1-1000 µg/mL, in Methanol | Glass ampoule: 1 mL | 7/30/2024
Absolute Standards, Inc | d,l-Methadone PT, 1-1000 µg/mL, in Methanol | Glass ampoule: 1 mL | 7/30/2024
Absolute Standards, Inc | d,l-Methadone-D3 PT, 1-1000 ug/mL, in Methanol | Glass ampoule: 1 mL | 7/30/2024
Absolute Standards, Inc | Diazepam PT, 1-1000 µg/mL, in Methanol | Glass ampoule: 1 mL | 7/30/2024
Absolute Standards, Inc | Diazepam-D5 PT, 1-1000 ug/mL, in Methanol | Glass ampoule: 1 mL | 7/30/2024
Absolute Standards, Inc | Dihydrocodeine, 10 ug/mL, in Methanol | Glass ampoule: 1 ml | 6/21/2024
Absolute Standards, Inc | Dihydrocodeine, 1000 ug/mL, in Methanol | Glass ampoule: 1 ml | 6/21/2024
Absolute Standards, Inc | Diphenoxylate hydrochloride, 100 ug/mL, in Methanol | Glass ampoule: 1 mL | 11/21/2024
Absolute Standards, Inc | d-Propoxyphene PT, 1-1000 ug/mL, in Methanol | Glass ampoule: 1 mL | 7/30/2024
Absolute Standards, Inc | Estazolam PT, 1-1000 ug/mL, in Methanol | Glass ampoule: 1 mL | 7/30/2024
Absolute Standards, Inc | Ethylmorphine PT, 1-1000 ug/mL, in Methanol | Glass ampoule: 1 mL | 7/30/2024
Absolute Standards, Inc | Etonitazene PT, 1-100 ug/mL, in Acetonitrile | Glass ampoule: 1 mL | 7/30/2024
Absolute Standards, Inc | Etonitazene, 100 ug/mL, in Acetonitrile | Glass ampoule: 1 mL | 11/21/2024
Absolute Standards, Inc | exo-THC PT, Varied µg/mL in Methanol | Glass ampoule: 1 mL | 12/8/2023
Absolute Standards, Inc | exo-THC, 100 µg/mL in Methanol | Glass ampoule: 1 mL | 12/8/2023
Absolute Standards, Inc | Fentanyl PT, 1-100 µg/mL, in Methanol | Glass ampoule: 1 mL | 7/30/2024
Absolute Standards, Inc | Fentanyl, 10 ug/mL, in Methanol | Glass ampoule: 1 ml | 6/21/2024
Absolute Standards, Inc | Fentanyl, Cocaine, & Xylazine PT, Varied µg/mL, in Methanol | Glass ampoule: 1 mL | 7/30/2024
Absolute Standards, Inc | Fentanyl-D5 PT, 1-100 ug/mL, in Methanol | Glass ampoule: 1 mL | 7/30/2024
Absolute Standards, Inc | Flunitrazepam PT, 1-1000 ug/mL, in Methanol | Glass ampoule: 1 mL | 7/30/2024
Absolute Standards, Inc | Flunitrazepam-D7 PT, 1-1000 ug/mL, in Methanol | Glass ampoule: 1 mL | 7/30/2024
Absolute Standards, Inc | Gamma Hydroxybutyrate (GHB) PT, 1-1000 ug/mL, in Methanol | Glass ampoule: 1 mL | 7/30/2024
Absolute Standards, Inc | Heroin PT, 1-1000 µg/mL, in Acetonitrile | Glass ampoule: 1 mL | 7/30/2024
Absolute Standards, Inc | Hexobarbital PT, 1-1000 ug/mL, in Methanol | Glass ampoule: 1 mL | 7/30/2024
Absolute Standards, Inc | Hydrocodone (+)-bitartrate salt PT, 1-1000 µg/mL, in Methanol | Glass ampoule: 1 mL | 7/30/2024
Absolute Standards, Inc | Hydrocodone PT, 1-1000 µg/mL, in Methanol | Glass ampoule: 1 mL | 7/30/2024
Absolute Standards, Inc | Hydrocodone-D3 PT, 1-1000 µg/mL, in Methanol | Glass ampoule: 1 mL | 7/30/2024
Absolute Standards, Inc | Hydromorphone PT, 1-1000 µg/mL, in Methanol | Glass ampoule: 1 mL | 7/30/2024
Absolute Standards, Inc | Hydromorphone-D3 PT, 1-1000 µg/mL, in Methanol Glass ampoule | Glass ampoule: 1 mL | 7/30/2024
Absolute Standards, Inc | Isotonitazene PT, 1-100 ug/mL, in Methanol | Glass ampoule: 1 mL | 7/30/2024
Absolute Standards, Inc | Isotonitazene, 100 ug/mL, in Methanol | Glass ampoule: 1 mL | 11/21/2024
Absolute Standards, Inc | Ketamine PT, 1-1000 ug/mL, in Methanol | Glass ampoule: 1 mL | 7/30/2024
Absolute Standards, Inc | Lorazepam PT, 1-100 ug/mL, in Acetonitrile | Glass ampoule: 1 mL | 12/6/2024
Absolute Standards, Inc | Meperidine PT, 1-1000 ug/mL, in Methanol | Glass ampoule: 1 mL | 7/30/2024
Absolute Standards, Inc | Methaqualone PT, 1-1000 ug/mL, in Methanol | Glass ampoule: 1 mL | 7/30/2024
Absolute Standards, Inc | Methaqualone-D7 PT, 1-1000 ug/mL, in Methanol | Glass ampoule: 1 mL | 11/21/2024
Absolute Standards, Inc | Methohexital PT, 1-1000 ug/mL, in Methanol | Glass ampoule: 1 mL | 7/30/2024
Absolute Standards, Inc | Methylphenidate PT, 1-1000 ug/mL, in Methanol | Glass ampoule: 1 mL | 7/30/2024
Absolute Standards, Inc | Metonitazene PT, 1-100 ug/mL, in Acetonitrile | Glass ampoule: 1 mL | 11/21/2024
Absolute Standards, Inc | Metonitazene, 100 ug/mL, in Acetonitrile | Glass ampoule: 1 mL | 11/21/2024
Absolute Standards, Inc | Midazolam PT, 1-1000 ug/mL, in Methanol | Glass ampoule: 1 mL | 7/30/2024
Absolute Standards, Inc | Morphine PT, 1-1000 µg/mL, in Methanol | Glass ampoule: 1 mL | 7/30/2024
Absolute Standards, Inc | Morphine, 100 ug/mL, in Methanol | Glass ampoule: 1 ml | 6/21/2024
Absolute Standards, Inc | Morphine, 1000 ug/mL, in Methanol | Glass ampoule: 1 mL | 6/21/2024
Absolute Standards, Inc | Morphine-6-β-D-glucuronide PT, 1-1000 ug/mL, in Acetonitrile:Water [1:1] | Glass ampoule: 1 mL | 7/30/2024
Absolute Standards, Inc | Morphine-6-β-D-glucuronide, 100 ug/mL, in Acetonitrile:Water [1:1] | Glass ampoule: 1 ml | 6/21/2024
Absolute Standards, Inc | Morphine-6-β-D-glucuronide, 1000 ug/mL, in Acetonitrile:Water [1:1] | Glass ampoule: 1 ml | 6/21/2024
Absolute Standards, Inc | Morphine-D3 PT, 1-1000 ug/mL, in Methanol | Glass ampoule: 1 mL | 7/30/2024
Absolute Standards, Inc | Morphine-D3, 10 ug/mL, in Methanol | Glass ampoule: 1 ml | 6/21/2024
Absolute Standards, Inc | Morphine-D3, 1000 ug/mL, in Methanol | Glass ampoule: 1 ml | 6/21/2024
Absolute Standards, Inc | Norbuprenorphine PT, 1-1000 ug/mL, in Methanol | Glass ampoule: 1 mL | 7/30/2024
Absolute Standards, Inc | Norbuprenorphine, 10 ug/mL, in Methanol | Glass ampoule: 1 ml | 6/21/2024
Absolute Standards, Inc | Norbuprenorphine, 100 ug/mL, in Methanol | Glass ampoule: 1 ml | 6/21/2024
Absolute Standards, Inc | Norbuprenorphine, 1000 ug/mL, in Methanol | Glass ampoule: 1 mL | 6/21/2024
Absolute Standards, Inc | Norbuprenorphine-D3 PT, 1-1000 ug/mL, in Methanol | Glass ampoule: 1 mL | 7/30/2024
Absolute Standards, Inc | Norcocaine, 1000 ug/mL, in Acetonitrile | Glass ampoule: 1 mL | 6/21/2024
Absolute Standards, Inc | Nordiazepam PT, 1-1000 ug/mL, in Methanol | Glass ampoule: 1 mL | 7/30/2024
Absolute Standards, Inc | Norfentanyl PT, 1-100 µg/mL, in Methanol | Glass ampoule: 1 mL | 7/30/2024
Absolute Standards, Inc | Norfentanyl, 10 ug/mL, in Methanol | Glass ampoule: 1 ml | 6/21/2024
Absolute Standards, Inc | Norfentanyl, 100 ug/mL, in Methanol | Glass ampoule: 1 ml | 6/21/2024
Absolute Standards, Inc | Norfentanyl, 1000 ug/mL, in Methanol | Glass ampoule: 1 ml | 6/21/2024
Absolute Standards, Inc | Norhydrocodone, 10 ug/mL, in Methanol | Glass ampoule: 1 ml | 6/21/2024
Absolute Standards, Inc | Norhydrocodone, 100 ug/mL, in Methanol | Glass ampoule: 1 ml | 6/21/2024
Absolute Standards, Inc | Norhydrocodone, 1000 ug/mL, in Methanol | Glass ampoule: 1 ml | 6/21/2024
Absolute Standards, Inc | Noroxycodone, 10 ug/mL, in Methanol | Glass ampoule: 1 ml | 6/21/2024
Absolute Standards, Inc | Noroxycodone, 100 ug/mL, in Methanol | Glass ampoule: 1 ml | 6/21/2024
Absolute Standards, Inc | Noroxycodone, 1000 ug/mL, in Methanol | Glass ampoule: 1 ml | 6/21/2024
Absolute Standards, Inc | Oxazepam PT, 1-1000 ug/mL, in Acetonitrile | Glass ampoule: 1 mL | 7/30/2024
Absolute Standards, Inc | Oxazepam-D5 PT, 1-1000 ug/mL, in Acetonitrile | Glass ampoule: 1 mL | 7/30/2024
Absolute Standards, Inc | Oxycodone PT, 1-1000 µg/mL, in Methanol | Glass ampoule: 1 mL | 7/30/2024
Absolute Standards, Inc | Oxycodone-D6 PT, 1-1000 ug/mL, in Methanol | Glass ampoule: 1 mL | 7/30/2024
Absolute Standards, Inc | Oxymorphone PT, 1-1000 ug/mL, in Methanol | Glass ampoule: 1 mL | 7/30/2024
Absolute Standards, Inc | Oxymorphone-D3 PT, 1-1000 ug/mL, in Methanol | Glass ampoule: 1 mL | 7/30/2024
Absolute Standards, Inc | Pentobarbital PT, 1-100 ug/mL, in Methanol | Glass ampoule: 1 mL | 7/30/2024
Absolute Standards, Inc | Pentobarbital-D5 PT, 1-100 ug/mL, in Methanol | Glass ampoule: 1 mL | 7/30/2024
Absolute Standards, Inc | Phencyclidine (PCP) PT, 1-1000 µg/mL, in Methanol | Glass ampoule: 1 mL | 7/30/2024
Absolute Standards, Inc | Phencyclidine-D5 PT, 1-1000 ug/mL, in Methanol | Glass ampoule: 1 mL | 7/30/2024
Absolute Standards, Inc | Phenobarbital PT, 1-1000 ug/mL, in Methanol | Glass ampoule: 1 mL | 7/30/2024
Absolute Standards, Inc | Phentermine PT, 1-1000 ug/mL, in Methanol | Glass ampoule: 1 mL | 7/30/2024
Absolute Standards, Inc | Prazepam PT, 1-1000 ug/mL, in Methanol | Glass ampoule: 1 mL | 7/30/2024
Absolute Standards, Inc | Protonitazene PT, 1-100 ug/mL, in Methanol | Glass ampoule: 1 mL | 11/21/2024
Absolute Standards, Inc | Protonitazene, 100 ug/mL, in Methanol | Glass ampoule: 1 mL | 11/21/2024
Absolute Standards, Inc | R(−)-Amphetamine PT, 1-1000 ug/mL, in Methanol | Glass ampoule: 1 mL | 7/30/2024
Absolute Standards, Inc | R(−)-Methamphetamine PT, 1-1000 ug/mL, in Methanol | Glass ampoule: 1 mL | 7/30/2024
Absolute Standards, Inc | S(+)-Amphetamine PT, 1-1000 ug/mL, in Methanol | Glass ampoule: 1 mL | 7/30/2024
Absolute Standards, Inc | S(+)-Methamphetamine PT, 1-1000 µg/mL, in Methanol | Glass ampoule: 1 mL | 7/30/2024
Absolute Standards, Inc | SC Labs Drug Mix, Varied ug/L, in Methanol | Glass ampoule: 1 mL | 11/21/2024
Absolute Standards, Inc | Secobarbital PT, 1-1000 ug/mL, in Methanol | Glass ampoule: 1 mL | 7/30/2024
Absolute Standards, Inc | Secobarbital-D5 PT, 1-1000 ug/mL, in Methanol | Glass ampoule: 1 mL | 7/30/2024
Absolute Standards, Inc | Tapentadol, 10 ug/mL, in Methanol | Glass ampoule: 1 mL | 11/21/2024
Absolute Standards, Inc | Tapentadol, 100 ug/mL, in Methanol | Glass ampoule: 1 mL | 11/21/2024
Absolute Standards, Inc | Tapentadol, 1000 ug/mL, in Methanol | Glass ampoule: 1 mL | 11/21/2024
Absolute Standards, Inc | Tapentadol-D3, 10 ug/mL, in Methanol | Glass ampoule: 1 mL | 11/21/2024
Absolute Standards, Inc | Tapentadol-D3, 100 ug/mL, in Methanol | Glass ampoule: 1 mL | 11/21/2024
Absolute Standards, Inc | Tapentadol-D5, 10 ug/mL, in Acetonitrile | Glass ampoule: 1 mL | 11/21/2024
Absolute Standards, Inc | Tapentadol-D5, 100 ug/mL, in Acetonitrile | Glass ampoule: 1 mL | 11/21/2024
Absolute Standards, Inc | Temazepam PT, 1-1000 ug/mL, in Methanol | Glass ampoule: 1 mL | 7/30/2024
Absolute Standards, Inc | Temazepam-D5 PT, 1-1000 ug/mL, in Methanol | Glass ampoule: 1 mL | 7/30/2024
Absolute Standards, Inc | Total THC Calibration in Hemp Oil-Acids, 100 ug/g, in Hemp oil:Acetone:Acetonitrile [5:4:1] | Glass vial: 1 g | 11/21/2024
Absolute Standards, Inc | Total THC Calibration in Hemp Oil-Neutrals, 100 ug/g, in Hemp oil:Acetone:Methanol [5:4:1] | Glass ampoule: 1 mL | 11/21/2024
Absolute Standards, Inc | Tramadol PT, 1-1000 µg/mL, in Methanol | Glass ampoule: 1 mL | 7/30/2024
Absolute Standards, Inc | Triazolam PT, 1-100 ug/mL, in Methanol | Glass ampoule: 1 mL | 12/6/2024
Absolute Standards, Inc | Zolpidem PT, 1-1000 ug/mL, in Methanol | Glass ampoule: 1 mL | 7/30/2024
Absolute Standards, Inc | Zolpidem, 10 ug/mL, in Methanol | Glass ampoule: 1 ml | 6/21/2024
Absolute Standards, Inc | Δ8-iso-THC, 10 ug/g, in Hemp oil:Acetone:Acetonitrile [5:4:1] | Glass ampoule: 1 mL | 11/21/2024
Absolute Standards, Inc | Δ8-iso-THC, 100 ug/mL, in Acetonitrile | Glass vial: 1 g | 11/21/2024
ARK Diagnostics, Inc | ARK HS Benzodiazepine II 100 Cutoff Calibrator (Kit Reference Number 5073-0002-02) | Kit: 2 Dropper vials, 10 mL each | 12/18/2023
ARK Diagnostics, Inc | ARK HS Benzodiazepine II 200 Cutoff Calibrator (Kit Reference Number 5073-0002-03) | Kit: 2 Dropper vials, 10 mL each | 12/18/2023
ARK Diagnostics, Inc | ARK HS Benzodiazepine II Calibrator (Kit Reference Number 5073-0002-00) | Kit: 5 Dropper vials, 10 mL each | 12/18/2023
ARK Diagnostics, Inc | ARK HS Benzodiazepine II Control (150/250) (Kit Reference Number 5073-0003-01) | Kit: 4 Droppers vials, 10 mL each | 12/18/2023
ARK Diagnostics, Inc | ARK HS Benzodiazepine II Control (75/125) (Kit Reference Number 5073-0003-00) | Kit: 4 Dropper vials, 10 mL each | 12/18/2023
Ark Diagnostics, Inc | ARK™ Zopiclone Calibrator (Kit Reference Number 5043-0002-00) | 5 Dropper Vials, 10 ml each | 7/8/2024
ARK Diagnostics, Inc | ARK™ Zopiclone Calibrator (Kit Reference Number 5043-0002-00R) | 5 Dropper Vials, 10 ml each | 7/8/2024
ARK Diagnostics, Inc | ARK™ Zopiclone Calibrator A-E | Kit: 5 Dropper Vials, 10 ml each | 2/10/2025
ARK Diagnostics, Inc | ARK™ Zopiclone Calibrator C (Cutoff) | Kit: 2 Dropper Vials, 10 ml each | 2/10/2025
ARK Diagnostics, Inc | ARK™ Zopiclone Calibrator C (Cutoff) (Kit Reference Number 5043-0002-02) | 2 Dropper Vials, 10 ml each | 7/8/2024
ARK Diagnostics, Inc | ARK™ Zopiclone Calibrator C (Cutoff) (Kit Reference Number 5043-0002-02R) | 2 Dropper Vials, 10 ml each | 7/8/2024
ARK Diagnostics, Inc | ARK™ Zopiclone Control | Kit: 4 Dropper Vials, 10 ml each | 2/10/2025
ARK Diagnostics, Inc | ARK™ Zopiclone Control (Kit Reference Number 5043-0003-00) | 4 Dropper Vials, 10 ml each Kit: 2 Dropper Vials, 10 ml each | 7/8/2024
ARK Diagnostics, Inc | ARK™ Zopiclone Control (Kit Reference Number 5043-0003-00R) | 4 Dropper Vials, 10 ml each | 7/8/2024
Audit MicroControls | Linearity FLQ Fertility Siemens Atellica | Kit: 10 vials, 2 mL each | 10/9/2023
Audit MicroControls | Linearity FLQ Fertility Siemens Atellica Set 2 Level A | Vial: 2 mL | 10/9/2023
Audit MicroControls | Linearity FLQ Fertility Siemens Atellica Set 2 Level B | Vial: 2 mL | 10/9/2023
Audit MicroControls | Linearity FLQ Fertility Siemens Atellica Set 2 Level C | Vial: 2 mL | 10/9/2023
Audit MicroControls | Linearity FLQ Fertility Siemens Atellica Set 2 Level D | Vial: 2 mL | 10/9/2023
Audit MicroControls | Linearity FLQ Fertility Siemens Atellica Set 2 Level E | Vial: 2 mL | 10/9/2023
Audit MicroControls, Inc | Control FD Immunoassay | Kit: 6 glass vials, 3 mL each | 2/25/2025
Audit MicroControls, Inc | Control FD Immunoassay Level 1 | 2 glass vials, 3 mL each | 2/25/2025
Audit MicroControls, Inc | Control FD Immunoassay Level 2 | 2 glass vials, 3 mL each | 2/25/2025
Audit MicroControls, Inc | Control FD Immunoassay Level 3 | 2 glass vials, 3 mL each | 2/25/2025
Audit MicroControls, Inc | Linearity FD Fertility Siemens Atellica | Kit: 10 vials; 3 mL each | 10/11/2024
Audit MicroControls, Inc | Linearity FD Fertility Siemens Atellica, Set 2 Level A | Glass vial: 3 mL | 10/11/2024
Audit MicroControls, Inc | Linearity FD Fertility Siemens Atellica, Set 2 Level B | Glass vial: 3 mL | 10/11/2024
Audit MicroControls, Inc | Linearity FD Fertility Siemens Atellica, Set 2 Level C | Glass vial: 3 mL | 10/11/2024
Audit MicroControls, Inc | Linearity FD Fertility Siemens Atellica, Set 2 Level D | Glass vial: 3 mL | 10/11/2024
Audit MicroControls, Inc | Linearity FD Fertility Siemens Atellica, Set 2 Level E | Glass vial: 3 mL | 10/11/2024
Audit MicroControls, Inc | Linearity FLQ TDM for Beckman AU | Kit: 5 vials, 4 mL each | 12/18/2023
Audit MicroControls, Inc | Linearity FLQ TDM for Beckman AU Level A | Vial: 4 mL | 12/18/2023
Audit MicroControls, Inc | Linearity FLQ TDM for Beckman AU Level B | Vial: 4 mL | 12/18/2023
Audit MicroControls, Inc | Linearity FLQ TDM for Beckman AU Level C | Vial: 4 mL | 12/18/2023
Audit MicroControls, Inc | Linearity FLQ TDM for Beckman AU Level D | Vial: 4 mL | 12/18/2023
Audit MicroControls, Inc | Linearity FLQ TDM for Beckman AU Level E | Vial: 4 mL | 12/18/2023
Biochemical Diagnostics, Inc | Detectabuse Custom Liquid Control Urine, MC288 | Glass vial/Plastic bottle: 5 mL, 10 mL, 20 mL, 25 mL, 50 mL | 11/29/2023
Biochemical Diagnostics, Inc | Salivabuse Custom Liquid Control Oral Fluid OF30 | Glass vial/Plastic bottle: 5 mL, 10 mL, 20 mL, 25 mL, 50 mL | 11/29/2023
Cayman Chemical Company | (±)-Methadone-d9 (CRM) 1 mg/ml in Methanol | Glass ampule: 1.0 mL | 8/1/2023
Cayman Chemical Company | (±)-Methadone-d9 (CRM) 100 µg/ml in Methanol | Glass ampule: 1.0 mL | 8/1/2023
Cayman Chemical Company | 1 mg/ml Chlordiazepoxide-D5 in Methanol | Glass ampule: 1.0 mL | 8/1/2023
Cayman Chemical Company | 100 µg/ml Chlordiazepoxide-D5 in Methanol | Glass ampule: 1.0 mL | 8/1/2023
Cayman Chemical Company | 1-Testosterone (exempt preparation) 1.0 mg/mL in acetonitrile | Glass vial: 1 mL | 7/25/2024
Cayman Chemical Company | 1-Testosterone (exempt preparation) 1.0 mg/mL in methanol | Glass vial: 1 mL | 7/25/2024
Cayman Chemical Company | 2-methyl AP-237 (hydrochloride) (CRM) 1.0 mg/mL in methanol | Glass Ampule: 1 mL | 3/12/2025
Cayman Chemical Company | 2-methyl AP-237-d7 (hydrochloride) (CRM) 100 ug/mL in methanol | Glass Ampule: 1 mL | 3/12/2025
Cayman Chemical Company | 3,4-Methylenedioxy-α-Cyclohexylaminopropiophenone (hydrochloride) (exempt preparation) 1 mg/ml in Methanol | Glass ampule: 1.0 mL | 8/1/2023
Cayman Chemical Company | 3,4-Methylenedioxy-α-propylaminobutiophenone (hydrochloride) (exempt preparation) 1 mg/ml in Methanol | Glass ampule: 1.0 mL | 8/1/2023
Cayman Chemical Company | 4-fluoro MDMB-BUTINACA (CRM) 1 mg/mL in Methanol | Glass ampule: 1 mL | 1/23/2024
Cayman Chemical Company | 4-fluoro MDMB-BUTINACA-d4 (exempt preparation) 1 mg/mL in Methanol | Glass ampule: 1 mL | 1/23/2024
Cayman Chemical Company | ADB-4en-PINACA (CRM) 1 mg/mL in methanol | Glass Ampule: 1 mL | 3/12/2025
Cayman Chemical Company | ADB-4en-PINACA-d4 (CRM) 1 mg/mL in methanol | Glass Ampule: 1 mL | 3/12/2025
Cayman Chemical Company | ADB-4en-PINACA-d4 (CRM) 100 ug/mL in methanol | Glass Ampule: 1 mL | 3/12/2025
Cayman Chemical Company | ADB-BUTINACA-d9 (CRM) 1 mg/mL in methanol | Glass Ampule: 1 mL | 3/12/2025
Cayman Chemical Company | ADB-FUBINACA (exempt preparation) 1.0 mg/mL in acetonitrile | Glass Ampule: 1 mL | 5/20/2024
Cayman Chemical Company | ADB-FUBINACA (exempt preparation) 1.0 mg/mL in methanol | Glass Ampule: 1 mL | 5/20/2024
Cayman Chemical Company | Allopregnanolone (exempt preparation) 1 mg/mL in Acetonitrile | Glass ampule: 1 mL | 1/23/2024
Cayman Chemical Company | Allopregnanolone (exempt preparation) 1 mg/mL in Methanol | Glass ampule: 1 mL | 1/23/2024
Cayman Chemical Company | Anhydroecgonine methyl ester (exempt preparation) 1.0 mg/mL in acetonitrile | Glass vial: 1 mL | 7/25/2024
Cayman Chemical Company | Anhydroecgonine methyl ester (exempt preparation) 1.0 mg/mL in methanol | Glass vial: 1 mL | 7/25/2024
Cayman Chemical Company | Boldenone (exempt preparation) 1.0 mg/mL in acetonitrile | Glass vial: 1 mL | 7/25/2024
Cayman Chemical Company | Boldenone (exempt preparation) 1.0 mg/mL in methanol | Glass vial: 1 mL | 7/25/2024
Cayman Chemical Company | Butonitazene (exempt preparation) 1 mg/mL in Acetonitrile | Glass ampule: 1 mL | 1/23/2024
Cayman Chemical Company | Butonitazene (exempt preparation) 1 mg/mL in Methanol | Glass ampule: 1 mL | 1/23/2024
Cayman Chemical Company | Chloral hydrate (exempt preparation) 1 mg/mL in Acetonitrile | Glass ampule: 1 mL | 1/23/2024
Cayman Chemical Company | Chloral hydrate (exempt preparation) 1 mg/mL in Methanol | Glass ampule: 1 mL | 1/23/2024
Cayman Chemical Company | Chlordiazepoxide (CRM) 1 mg/ml in Methanol | Glass ampule: 1.0 mL | 8/1/2023
Cayman Chemical Company | Chlordiazepoxide (CRM) 100 µg/ml in Methanol | Glass ampule: 1.0 mL | 8/1/2023
Cayman Chemical Company | Clobazam (CRM) 1 mg/mL in methanol | Glass Ampule: 1 mL | 3/12/2025
Cayman Chemical Company | Clobazam (CRM) 100 ug/mL in methanol | Glass Ampule: 1 mL | 3/12/2025
Cayman Chemical Company | Clonazolam (CRM) 1 mg/mL in Acetonitrile | Glass ampule: 1 mL | 1/23/2024
Cayman Chemical Company | Clonazolam (CRM) 100 µg in Acetonitrile | Glass ampule: 1 mL | 1/23/2024
Cayman Chemical Company | Clonazolam-d4 (CRM) 1 mg/mL in Acetonitrile | Glass ampule: 1 mL | 1/23/2024
Cayman Chemical Company | Clonazolam-d4 (CRM) 100 µg/mL in Acetonitrile | Glass ampule: 1 mL | 1/23/2024
Cayman Chemical Company | Clonitazene (exempt preparation) 1 mg/mL in Acetonitrile | Glass ampule: 1 mL | 1/23/2024
Cayman Chemical Company | Clonitazene (exempt preparation) 1 mg/mL in Methanol | Glass ampule: 1 mL | 1/23/2024
Cayman Chemical Company | D-Amphetamine (CRM) 1 mg/mL in Methanol | Glass ampule: 1 mL | 1/23/2024
Cayman Chemical Company | Delorazepam (CRM) 100 µg/mL in acetonitrile | Glass vial: 1 mL | 7/25/2024
Cayman Chemical Company | Delorazepam-13C-d4 (CRM) 100 µg/mL in acetonitrile | Glass Ampule: 1 mL | 5/20/2024
Cayman Chemical Company | Delorazepam-d4 (CRM) 100 µg/mL in acetonitrile | Glass Ampule: 1 mL | 5/20/2024
Cayman Chemical Company | Diclazepam (CRM) 1 mg/mL in Acetonitrile | Glass ampule: 1 mL | 1/23/2024
Cayman Chemical Company | Diclazepam (CRM) 100 µg/mL in Acetonitrile | Glass ampule: 1 mL | 1/23/2024
Cayman Chemical Company | Diclazepam-13C2-d4 (CRM) 1 mg/mL in Acetonitrile | Glass ampule: 1 mL | 1/23/2024
Cayman Chemical Company | Diclazepam-13C2-d4 (CRM) 100 µg/mL in Acetonitrile | Glass ampule: 1 mL | 1/23/2024
Cayman Chemical Company | Diclazepam-d4 (CRM) 1 mg/mL in Acetonitrile | Glass ampule: 1 mL | 1/23/2024
Cayman Chemical Company | Diclazepam-d4 (CRM) 100 µg/mL in Acetonitrile | Glass ampule: 1 mL | 1/23/2024
Cayman Chemical Company | Drostanolone (exempt preparation) 1.0 mg/mL in acetonitrile | Glass vial: 1 mL | 7/25/2024
Cayman Chemical Company | Drostanolone (exempt preparation) 1.0 mg/mL in methanol | Glass vial: 1 mL | 7/25/2024
Cayman Chemical Company | Etizolam (CRM) 1 mg/mL in Methanol | Glass ampule: 1 mL | 1/23/2024
Cayman Chemical Company | Etizolam (CRM) 100 µg/mL in Methanol | Glass ampule: 1 mL | 1/23/2024
Cayman Chemical Company | Etizolam-13C2-d4 (CRM) 1 mg/mL in Methanol | Glass ampule: 1 mL | 1/23/2024
Cayman Chemical Company | Etizolam-13C2-d4 (CRM) 100 µg/mL in Methanol | Glass ampule: 1 mL | 1/23/2024
Cayman Chemical Company | Etizolam-d4 (CRM) 1 mg/mL in Methanol | Glass ampule: 1 mL | 1/23/2024
Cayman Chemical Company | Etizolam-d4 (CRM) 100 µg/mL in Methanol | Glass ampule: 1 mL | 1/23/2024
Cayman Chemical Company | Etodesnitazene (CRM) 1 mg/mL in Acetonitrile | Glass ampule: 1 mL | 2/11/2025
Cayman Chemical Company | Etodesnitazene (CRM) 1 mg/mL in Methanol | Glass ampule: 1 mL | 2/11/2025
Cayman Chemical Company | Etodesnitazene-d5 (citrate) (CRM) 1 mg/mL in Methanol | Glass ampule: 1 mL | 1/23/2024
Cayman Chemical Company | Etodesnitazene-d5 (citrate) (CRM) 100 µg/mL in Methanol | Glass ampule: 1 mL | 1/23/2024
Cayman Chemical Company | Etodesnitazene-d5 (CRM) 1 mg/mL in Acetonitrile | Glass ampule: 1 mL | 2/11/2025
Cayman Chemical Company | Etodesnitazene-d5 (CRM) 1 mg/mL in Methanol | Glass ampule: 1 mL | 2/11/2025
Cayman Chemical Company | Etodesnitazene-d5 100 µg/mL in Acetonitrile | Glass ampule: 1 mL | 2/11/2025
Cayman Chemical Company | Etodesnitazene-d5 100 µg/mL in Methanol | Glass ampule: 1 mL | 2/11/2025
Cayman Chemical Company | Etodesnitazene-d5 100 µg/mL in Methanol | Glass ampule: 1 mL | 2/11/2025
Cayman Chemical Company | Etonitazene (CRM) 1 mg/mL in Methanol | Glass ampule: 1 mL | 1/23/2024
Cayman Chemical Company | Etonitazene-d5 (CRM) 1 mg/mL in Methanol | Glass ampule: 1 mL | 1/23/2024
Cayman Chemical Company | Etonitazene-d5 (CRM) 100 µg/mL in Methanol | Glass ampule: 1 mL | 1/23/2024
Cayman Chemical Company | Etonitazene-d5 (hydrochloride) (CRM) 1 mg/mL in Methanol | Glass ampule: 1 mL | 1/23/2024
Cayman Chemical Company | Etonitazene-d5 (hydrochloride) (CRM) 100 µg/mL in Methanol | Glass ampule: 1 mL | 1/23/2024
Cayman Chemical Company | Eutylone-d5 (hydrochloride) (CRM) 1 mg/mL in Methanol | Glass ampule: 1 mL | 1/23/2024
Cayman Chemical Company | Eutylone-d5 (hydrochloride) (CRM) 100 µg/mL in Methanol | Glass ampule: 1 mL | 1/23/2024
Cayman Chemical Company | exo-Tetrahydrocannabiphorol (exo-THCP) (exempt preparation) 1 mg/mL in Methanol | Glass Vial: 1.0 mL | 7/22/2024
Cayman Chemical Company | exo-Tetrahydrocannabiphorol (exo-THCP) (exempt preparation) 100 µg/mL in Methanol | Glass Vial: 1.0 mL | 7/22/2024
Cayman Chemical Company | exo-Tetrahydrocannabivarin (exempt preparation) 1 mg/mL in Methanol | Glass Vial: 1.0 mL | 7/22/2024
Cayman Chemical Company | exo-Tetrahydrocannabivarin (exempt preparation) 100 µg in Methanol | Glass Vial: 1.0 mL | 7/22/2024
Cayman Chemical Company | Flualprazolam (CRM) 1 mg/mL in Methanol | Glass ampule: 1 mL | 1/23/2024
Cayman Chemical Company | Flualprazolam (CRM) 100 µg/mL in Methanol | Glass ampule: 1 mL | 1/23/2024
Cayman Chemical Company | Flualprazolam-d4 (CRM) 1 mg/mL in Methanol | Glass ampule: 1 mL | 1/23/2024
Cayman Chemical Company | Flualprazolam-d4 (CRM) 100 µg/mL in Methanol | Glass ampule: 1 mL | 1/23/2024
Cayman Chemical Company | Flubromazolam (CRM) 1 mg/mL in Methanol | Glass ampule: 1 mL | 1/23/2024
Cayman Chemical Company | Flubromazolam (CRM) 100 µg/mL in Methanol | Glass ampule: 1 mL | 1/23/2024
Cayman Chemical Company | Flubromazolam-13C2-d4 (CRM) 1 mg/mL in Methanol | Glass ampule: 1 mL | 1/23/2024
Cayman Chemical Company | Flubromazolam-13C2-d4 (CRM) 100 µg/mL in Methanol | Glass ampule: 1 mL | 1/23/2024
Cayman Chemical Company | Flubromazolam-d4 (CRM) 1 mg/mL in Methanol | Glass ampule: 1 mL | 1/23/2024
Cayman Chemical Company | Flubromazolam-d4 (CRM) 100 µg/mL in Methanol | Glass ampule: 1 mL | 1/23/2024
Cayman Chemical Company | Flunitrazepam (CRM) 1 mg/mL in acetonitrile | Glass Ampule: 1 mL | 5/20/2024
Cayman Chemical Company | Flunitrazepam (CRM) 1 mg/mL in methanol | Glass Ampule: 1 mL | 5/20/2024
Cayman Chemical Company | Flunitrazepam (CRM) 500 µg/mL in acetonitrile | Glass Ampule: 1 mL | 5/20/2024
Cayman Chemical Company | Flunitrazepam (CRM) 500 µg/mL in methanol | Glass Ampule: 1 mL | 5/20/2024
Cayman Chemical Company | Ibogaine (hydrochloride) (CRM) 1 mg/ml in Methanol | Glass ampule: 1.0 mL | 8/1/2023
Cayman Chemical Company | Ibogaine (hydrochloride) (CRM) 100 µg/ml in Methanol | Glass ampule: 1.0 mL | 8/1/2023
Cayman Chemical Company | Isopregnanolone (exempt preparation) 1 mg/mL in Acetonitrile | Glass ampule: 1 mL | 1/23/2024
Cayman Chemical Company | Isopregnanolone (exempt preparation) 1 mg/mL in Methanol | Glass ampule: 1 mL | 1/23/2024
Cayman Chemical Company | Ketamine-d4 (CRM) 1 mg/ml in Methanol | Glass ampule: 1.0 mL | 8/1/2023
Cayman Chemical Company | Ketamine-d4 (CRM) 100 µg/ml in Methanol | Glass ampule: 1.0 mL | 8/1/2023
Cayman Chemical Company | Lorazepam (CRM) 1.0 mg/mL in acetonitrile | Glass Ampule: 1 mL | 5/20/2024
Cayman Chemical Company | Lorazepam (CRM) 500 µg/mL in acetonitrile | Glass Ampule: 1 mL | 5/20/2024
Cayman Chemical Company | Lormetazepam (CRM) 100 ug/mL in methanol | Glass Ampule: 1 mL | 3/12/2025
Cayman Chemical Company | LSB (exempt preparation) 25 µg/ml in Acetonitrile | Glass ampule: 1.0 mL | 8/1/2023
Cayman Chemical Company | LSB (exempt preparation) 50 µg/ml in Acetonitrile | Glass ampule: 1.0 mL | 8/1/2023
Cayman Chemical Company | MDMB-4en-PINACA (CRM) 1.0 mg/mL in methanol | Glass Ampule: 1 mL | 3/12/2025
Cayman Chemical Company | MDMB-4en-PINACA-d4 (CRM) 1.0 mg/mL in methanol | Glass Ampule: 1 mL | 3/12/2025
Cayman Chemical Company | Mesterolone (exempt preparation) 1.0 mg/mL in acetonitrile | Glass vial: 1 mL | 7/25/2024
Cayman Chemical Company | Mesterolone (exempt preparation) 1.0 mg/mL in methanol | Glass vial: 1 mL | 7/25/2024
Cayman Chemical Company | Methiopropamine (hydrochloride) (exempt preparation) 1 mg/mL in Methanol | Glass ampule: 1 mL | 1/23/2024
Cayman Chemical Company | Methohexital (exempt preparation) 1 mg/ml in Acetonitrile | Glass ampule: 1.0 mL | 8/1/2023
Cayman Chemical Company | Methohexital (exempt preparation) 1 mg/ml in Methanol | Glass ampule: 1.0 mL | 8/1/2023
Cayman Chemical Company | Methylnortestosterone (exempt preparation) 1.0 mg/mL in acetonitrile | Glass vial: 1 mL | 7/25/2024
Cayman Chemical Company | Methylnortestosterone (exempt preparation) 1.0 mg/mL in methanol | Glass vial: 1 mL | 7/25/2024
Cayman Chemical Company | Metodesnitazene (hydrochloride) (CRM) 1 mg/mL in Methanol | Glass ampule: 1 mL | 1/23/2024
Cayman Chemical Company | Metodesnitazene (hydrochloride) (CRM) 100 µg/mL in Methanol | Glass ampule: 1 mL | 1/23/2024
Cayman Chemical Company | Metodesnitazene-d3 (hydrochloride) (CRM) 1 mg/mL in Methanol | Glass ampule: 1 mL | 1/23/2024
Cayman Chemical Company | Metodesnitazene-d3 (hydrochloride) (CRM) 100 µg/mL in Methanol | Glass ampule: 1 mL | 1/23/2024
Cayman Chemical Company | Metonitazene-d3 (citrate) (CRM) 1 mg/mL in Methanol | Glass ampule: 1 mL | 1/23/2024
Cayman Chemical Company | Metonitazene-d3 (citrate) (CRM) 100 µg/mL in Methanol | Glass ampule: 1 mL | 1/23/2024
Cayman Chemical Company | Metonitazene-d3 (CRM) 100 ug/mL in methanol | Glass Ampule: 1 mL | 3/12/2025
Cayman Chemical Company | MMB-CHMICA (exempt preparation) 1.0 mg/mL in acetonitrile | Glass Ampule: 1 mL | 5/20/2024
Cayman Chemical Company | MMB-CHMICA (exempt preparation) 1.0 mg/mL in methanol | Glass Ampule: 1 mL | 5/20/2024
Cayman Chemical Company | N,N-Dimethylpentylone (hydrochloride) (CRM) 1 mg/mL in Methanol | Glass ampule: 1 mL | 1/23/2024
Cayman Chemical Company | N,N-Dimethylpentylone-d6 (hydrochloride) (CRM) 1 mg/mL in Methanol(CRM) 1 mg/mL in Methanol | Glass ampule: 1.0 mL | 11/21/2023
Cayman Chemical Company | N,N-Dimethylpentylone-d6 (hydrochloride) (CRM) 100 µg/mL in Methanol | Glass ampule: 1.0 mL | 11/21/2023
Cayman Chemical Company | N-Isopropyl butylone (CRM) 1 mg/mL in Methanol | Glass ampule: 1 mL | 2/11/2025
Cayman Chemical Company | N-Isopropyl butylone (CRM) 100 µg/mL in Methanol | Glass ampule: 1 mL | 2/11/2025
Cayman Chemical Company | N-Isopropyl butylone-d7 (CRM) 1 mg/mL in Methanol | Glass ampule: 1 mL | 2/11/2025
Cayman Chemical Company | N-Isopropyl butylone-d7 (CRM) 100 µg/mL in Methanol | Glass ampule: 1 mL | 2/11/2025
Cayman Chemical Company | Norhydrocodone-d3 (hydrochloride) (CRM) 1 mg/mL in methanol | Glass Ampule: 1 mL | 3/12/2025
Cayman Chemical Company | Norhydrocodone-d3 100 ug/mL in methanol (hydrochloride) (CRM) | Glass Ampule: 1 mL | 3/12/2025
Cayman Chemical Company | Noroxymorphone (hydrochloride) (CRM) 1.0 mg/mL in methanol:DMSO (80:20) | Glass vial: 1 mL | 7/25/2024
Cayman Chemical Company | Noroxymorphone (hydrochloride) (CRM) 1.0 mg/mL in methanol:DMSO (80:20) | Glass vial: 1 mL | 7/25/2024
Cayman Chemical Company | Noroxymorphone-d3 (hydrochloride) (CRM) 1.0 mg/mL in methanol | Glass vial: 1 mL | 7/25/2024
Cayman Chemical Company | Noroxymorphone-d3 (hydrochloride) (CRM) 1.0 mg/mL in methanol:DMSO (80:20) | Glass vial: 1 mL | 7/25/2024
Cayman Chemical Company | Noroxymorphone-d3 (hydrochloride) (CRM) 100 µg/mL in methanol | Glass vial: 1 mL | 7/25/2024
Cayman Chemical Company | Noroxymorphone-d3 (hydrochloride) (CRM) 100 µg/mL in methanol:DMSO (80:20) | Glass vial: 1 mL | 7/25/2024
Cayman Chemical Company | N-Pyrrolidino etonitazene-d5 (CRM) 1.0 mg/mL in methanol | Glass Ampule: 1 mL | 5/20/2024
Cayman Chemical Company | N-Pyrrolidino etonitazene-d5 (CRM) 100 µg/mL in methanol | Glass Ampule: 1 mL | 5/20/2024
Cayman Chemical Company | ortho-methoxy Butyryl fentanyl (hydrochloride) (exempt preparation) 100 µg/ml in Methanol | Glass ampule: 1.0 mL | 8/1/2023
Cayman Chemical Company | ortho-Methylfentanyl-d5 (exempt preparation) 100 µg/mL in methanol | Glass vial: 1 mL | 7/25/2024
Cayman Chemical Company | ortho-Methylfentanyl-d5 (hydrochloride) (exempt preparation) 100 µg/mL in methanol | Glass vial: 1 mL | 7/25/2024
Cayman Chemical Company | Oxymetholone (exempt preparation) 1 mg/mL in acetonitrile | Glass Ampule: 1 mL | 5/20/2024
Cayman Chemical Company | Oxymetholone (exempt preparation) 1 mg/mL in methanol | Glass Ampule: 1 mL | 5/20/2024
Cayman Chemical Company | Para-methylfentanyl (hydrochloride) (exempt preparation) 100 µg/mL in methanol | Glass Ampule: 1 mL | 5/20/2024
Cayman Chemical Company | Pentylone-d3 (hydrochloride) (CRM) 1 mg/mL in Methanol | Glass ampule: 1 mL | 1/23/2024
Cayman Chemical Company | Pentylone-d3 (hydrochloride) (CRM) 100 µg/mL in Methanol | Glass ampule: 1 mL | 1/23/2024
Cayman Chemical Company | Perampanel (CRM) 100 µg/mL in Acetonitrile | Glass ampule: 1 mL | 2/11/2025
Cayman Chemical Company | Perampanel (CRM) 100 µg/mL in Methanol | Glass ampule: 1 mL | 2/11/2025
Cayman Chemical Company | Phytocannabinoid Mixture California Potency (CRM) 1 mg/ml ea in Acetonitrile | Glass ampule: 0.5 mL | 11/21/2023
Cayman Chemical Company | Phytocannabinoid Mixture California Potency (CRM) 500 µg/ml ea in Acetonitrile | Glass ampule: 1.0 mL | 11/21/2023
Cayman Chemical Company | Protonitazene (citrate) (CRM) 1.0 mg/mL in methanol | Glass vial: 1 mL | 7/25/2024
Cayman Chemical Company | Protonitazene (citrate) (CRM) 100 µg/mL in methanol | Glass vial: 1 mL | 7/25/2024
Cayman Chemical Company | Protonitazene (CRM) 1 mg/mL in Acetonitrile | Glass ampule: 1 mL | 2/11/2025
Cayman Chemical Company | Protonitazene-d7 (hydrochloride) (CRM) 1 mg/mL in Methanol | Glass ampule: 1 mL | 1/23/2024
Cayman Chemical Company | Protonitazene-d7 (hydrochloride) (CRM) 100 µg/mL in Methanol | Glass ampule: 1 mL | 1/23/2024
Cayman Chemical Company | Retigabine (exempt preparation) 1 mg/ml in Acetonitrile | Glass ampule: 1.0 mL | 8/1/2023
Cayman Chemical Company | Retigabine (exempt preparation) 1 mg/ml in Methanol | Glass ampule: 1.0 mL | 8/1/2023
Cayman Chemical Company | Retigabine (hydrochloride) (exempt preparation) 1 mg/ml in Acetonitrile | Glass ampule: 1.0 mL | 8/1/2023
Cayman Chemical Company | Retigabine (hydrochloride) (exempt preparation) 1 mg/ml in Methanol | Glass ampule: 1.0 mL | 8/1/2023
Cayman Chemical Company | Triazolam-13C2-d4 (CRM) 100 µg/mL in methanol | Glass Ampule: 1 mL | 5/20/2024
Cayman Chemical Company | Triazolam-d4 (CRM) 100 µg/mL in methanol | Glass Ampule: 1 mL | 5/20/2024
Cayman Chemical Company | Zolpidem-d7 (CRM) 1 mg/mL in Methanol | Glass ampule: 1 mL | 1/23/2024
Cayman Chemical Company | Zolpidem-d7 (CRM) 100 µg/mL in Methanol | Glass ampule: 1 mL | 1/23/2024
Cayman Chemical Company | α-PHP-d8 (hydrochloride) (CRM) 100 µg/mL in Methanol | Glass ampule: 1 mL | 1/23/2024
Cayman Chemical Company | α-PHP-d8 (hydrochloride) 1 mg/mL in Methanol (CRM) | Glass ampule: 1 mL | 1/23/2024
Cayman Chemical Company | α-Pyrrolidinoisohexanophenone 1.0 mg/mL in methanol | Glass Ampule: 1 mL | 3/12/2025
Cayman Chemical Company | Δ10-THC Mixture (CRM) 1 mg/mL in ACN | Glass ampule: 1.0 mL | 7/22/2024
Cayman Chemical Company | Δ10-THC Mixture (CRM) 500 µg/mL ea in ACN | Glass ampule: 1.0 mL | 7/22/2024
Cayman Chemical Company | Δ8-THC Propionate (exempt preparation) 1 mg/mL in Acetonitrile | Glass Vial: 1.0 mL | 7/22/2024
Cayman Chemical Company | Δ8-THC Propionate (exempt preparation) 100 µg/mL in Acetonitrile | Glass Vial: 1.0 mL | 7/22/2024
Cayman Chemical Company | Δ8-THCB Acetate (exempt preparation) 1 mg/mL in Acetonitrile | Glass Vial: 1.0 mL | 7/22/2024
Cayman Chemical Company | Δ8-THCB Acetate (exempt preparation) 100 µg/mL in Acetonitrile | Glass Vial: 1.0 mL | 7/22/2024
Cayman Chemical Company | Δ8-THCBA-A (CRM) 1 mg/mL in acetonitrile | Glass ampule: 1.0 mL | 11/18/2023
Cayman Chemical Company | Δ8-THCBA-A (CRM) 100 µg/mL in acetonitrile | Glass ampule: 1.0 mL | 11/18/2023
Cayman Chemical Company | Δ8-THCH Acetate (exempt preparation) 1 mg/mL in Acetonitrile | Glass Vial: 1.0 mL | 7/22/2024
Cayman Chemical Company | Δ8-THCH Acetate (exempt preparation) 100 µg/mL in Acetonitrile | Glass Vial: 1.0 mL | 7/22/2024
Cayman Chemical Company | Δ8-THCP Acetate (exempt preparation) 1 mg/mL in Acetonitrile | Glass Vial: 1.0 mL | 7/22/2024
Cayman Chemical Company | Δ8-THCP Acetate (exempt preparation) 100 µg/mL in Acetonitrile | Glass Vial: 1.0 mL | 7/22/2024
Cayman Chemical Company | Δ8-THCPA-A (CRM) 1 mg/mL in acetonitrile | Glass ampule: 1.0 mL | 11/18/2023
Cayman Chemical Company | Δ8-THCPA-A (CRM) 100 µg/mL in acetonitrile | Glass ampule: 1.0 mL | 11/18/2023
Cayman Chemical Company | Δ9-THC Propionate (exempt preparation) 1 mg/mL in Acetonitrile | Glass Vial: 1.0 mL | 7/22/2024
Cayman Chemical Company | Δ9-THC Propionate (exempt preparation) 100 µg/mL in Acetonitrile | Glass Vial: 1.0 mL | 7/22/2024
Cayman Chemical Company | Δ9-THCB Acetate (exempt preparation) 1 mg/mL in Acetonitrile | Glass Vial: 1.0 mL | 7/22/2024
Cayman Chemical Company | Δ9-THCB Acetate (exempt preparation) 100 µg/mL in Acetonitrile | Glass Vial: 1.0 mL | 7/22/2024
Cayman Chemical Company | Δ9-THCH Acetate (exempt preparation) 1 mg/mL in Acetonitrile | Glass Vial: 1.0 mL | 7/22/2024
Cayman Chemical Company | Δ9-THCH Acetate (exempt preparation) 100 µg/mL in Acetonitrile | Glass Vial: 1.0 mL | 7/22/2024
Cayman Chemical Company | Δ9-THCP Acetate (exempt preparation) 1 mg/mL in Acetonitrile | Glass Vial: 1.0 mL | 7/22/2024
Cayman Chemical Company | Δ9-THCP Acetate (exempt preparation) 100 µg/mL in Acetonitrile | Glass Vial: 1.0 mL | 7/22/2024
Cerilliant Corporation | 9(S)-delta6a,10a-THC 1.0 mg/mL in 1 mL Solvent | Amber ampule: 1 mL | 3/14/2025
Cerilliant Corporation | Butonitazene-13C6 HCl 0.1 mg/mL as free base in 1 mL Solvent | Amber ampule: 1 mL | 3/14/2025
Cerilliant Corporation | Clonazolam 1.0 mg/mL in 1 mL Solvent | Amber ampule: 1 mL | 7/26/2023
Cerilliant Corporation | Clonazolam-D4 0.1 mg/mL in 1 mL Solvent | Amber ampule: 1 mL | 7/26/2023
Cerilliant Corporation | Delta9-Tetrahydrocannabihexol 1.0 mg/mL in 1 mL Solvent | Amber ampule: 1 mL | 3/14/2025
Cerilliant Corporation | Delta9-Tetrahydrocannabinolic acid B (THCA-B) (1.0 mg/mL) | Amber ampule: 1 mL | 3/1/2023
Cerilliant Corporation | Diclazepam 1.0 mg/mL in 1 mL Solvent | Amber ampule: 1 mL | 7/26/2023
Cerilliant Corporation | Diclazepam-D4 0.1 mg/mL in 1 mL Solvent | Amber ampule: 1 mL | 7/26/2023
Cerilliant Corporation | Etizolam 1.0 mg/mL in 1 mL Solvent | Amber ampule: 1 mL | 7/26/2023
Cerilliant Corporation | Etizolam-D3 0.1 mg/mL in 1 mL Solvent | Amber ampule: 1 mL | 7/26/2023
Cerilliant Corporation | Flualprazolam 1.0 mg/mL in 1 mL Solvent | Amber ampule: 1 mL | 7/26/2023
Cerilliant Corporation | Flualprazolam-D4 0.1 mg/mL in 1 mL Solvent | Amber ampule: 1 mL | 7/26/2023
Cerilliant Corporation | Flubromazolam 1.0 mg/mL in 1 mL Solvent | Amber ampule: 1 mL | 7/26/2023
Cerilliant Corporation | Flubromazolam-13C2,15N 0.1 mg/mL in 1 mL Solvent | Amber ampule: 1 mL | 7/26/2023
Cerilliant Corporation | Flunitazene HCl 1.0 mg/mL as free base in 1 mL Solvent | Amber ampule: 1 mL | 3/14/2025
Cerilliant Corporation | Flunitazene-13C6 HCl 0.1 mg/mL as free base in 1 mL Solvent | Amber ampule: 1 mL | 3/14/2025
Cerilliant Corporation | Levomethorphan 0.1 mg/mL in 1 mL Solvent | Amber ampule: 1 mL | 3/14/2025
Cerilliant Corporation | Metonitazene-13C6 HCl 0.1 mg/mL (as free base) in 1 mL solvent | Amber ampule: 1 mL | 2/20/2024
Cerilliant Corporation | N-piperidinyl etonitazene HCl 1.0 mg/mL (as free base) in l mL solvent | Amber ampule: 1 mL | 1/15/2025
Cerilliant Corporation | N-Piperidinyl etonitazene-13C6 HCl 0.1 mg/mL as free base in 1 mL Solvent | Amber ampule: 1 mL | 3/14/2025
Cerilliant Corporation | Oripavine 1.0 mg/mL in l mL solvent | Amber ampule: 1 mL | 1/15/2025
Cerilliant Corporation | Oripavine-D3 0.1 mg/mL in 1 mL Solvent | Amber ampule: 1 mL | 3/14/2025
Cerilliant Corporation | Protonitazene HCl 1.0 mg/mL in 1 mL Solvent | Amber ampule: 1 mL | 3/14/2025
Cerilliant Corporation | Protonitazene-13C6 HCl 0.1 mg/mL in 1 mL Solvent | Amber ampule: 1 mL | 3/14/2025
Cerilliant Corporation | Thebaine-D3 0.1 mg/mL in 1 mL Solvent | Amber ampule: 1 mL | 3/14/2025
Chemtos, LLC | 2,4-DMMC HCl—Certified Analytical Reference Standard solution | Amber ampule: 1 mL | 3/22/2024
Chemtos, LLC | 2-MEC HCl (1 mg/mL in methanol) | Amber ampule: 1 mL | 1/9/2025
Chemtos, LLC | 2-MEC-d3 HCl (0.1 mg/mL in methanol) | Amber ampule: 1 mL | 1/9/2025
Chemtos, LLC | 2-MEC-d3 HCl (1 mg/mL in methanol) | Amber ampule: 1 mL | 1/9/2025
Chemtos, LLC | 2-MMC HCl (1 mg/mL in methanol) | Amber ampule: 1 mL | 1/9/2025
Chemtos, LLC | 2-MMC-d3 HCl (0.1 mg/mL in methanol) | Amber ampule: 1 mL | 1/9/2025
Chemtos, LLC | 2-MMC-d3 HCl (1 mg/mL in methanol) | Amber ampule: 1 mL | 1/9/2025
Chemtos, LLC | 3,4-Dimethyl-alpha-PVP HCl (1 mg/mL in methanol) | Amber ampule: 1 mL | 1/9/2025
Chemtos, LLC | 3,4-Dimethyl-alpha-PVP-d8 HCl (0.1 mg/mL in methanol) | Amber ampule: 1 mL | 1/9/2025
Chemtos, LLC | 3,4-DMEB HCl—Certified Analytical Reference Standard solution | Amber ampule: 1 mL | 3/22/2024
Chemtos, LLC | 3Et-Methcathinone HCl (1 mg/mL in methanol) | Amber ampule: 1 mL | 1/9/2025
Chemtos, LLC | 3-MePPP HCl 1 mL in 1mg/ml in methanol | Amber ampule: 1 mL | 8/12/2024
Chemtos, LLC | 4Et-PVP HCl 1 mL in 1mg/ml in methanol | Amber ampule: 1 mL | 8/12/2024
Chemtos, LLC | 4-Me-alpha-PiHP HCl—Certified Analytical Reference Standard solution | Amber ampule: 1 mL | 3/22/2024
Chemtos, LLC | 4-Me-iHEX HCl—Certified Analytical Reference Standard solution | Amber ampule: 1 mL | 3/22/2024
Chemtos, LLC | 4-Me-PBP HCl—Certified Analytical Reference Standard solution | Amber ampule: 1 mL | 3/22/2024
Chemtos, LLC | alpha-PiHP HCL 1 mL in 1mg/ml in methanol | Amber ampule: 1 mL | 8/12/2024
Chemtos, LLC | alpha-PiHP-d8 HCl (0.1 mg/mL in methanol) | Amber ampule: 1 mL | 1/9/2025
Chemtos, LLC | alpha-PiHP-d8 HCl (1 mg/mL in methanol) | Amber ampule: 1 mL | 1/9/2025
Chemtos, LLC | ANPP—Certified Analytical Reference Standard solution | Amber ampule: 1 mL | 3/22/2024
Chemtos, LLC | Bufotenine—Certified Analytical Reference Standard solution | Amber ampule: 1 mL | 3/22/2024
Chemtos, LLC | Bufotenine-d6—Certified Analytical Reference Standard solution | Amber ampule: 1 mL | 3/22/2024
Chemtos, LLC | Desomorphine—Certified Analytical Reference Standard solution | Amber ampule: 1 mL | 3/22/2024
Chemtos, LLC | Desomorphine-d3—Certified Analytical Reference Standard solution | Amber ampule: 1 mL | 3/22/2024
Chemtos, LLC | DMPVP HCl—Certified Analytical Reference Standard solution | Amber ampule: 1 mL | 3/22/2024
Chemtos, LLC | Hexylone HCl 1 mL in 1mg/ml in methanol | Amber ampule: 1 mL | 8/12/2024
Chemtos, LLC | MDPT(tBuONE) HCl—Certified Analytical Reference Standard solution | Amber ampule: 1 mL | 3/22/2024
Chemtos, LLC | Methedrone HCl—Certified Analytical Reference Standard solution | Amber ampule: 1 mL | 3/22/2024
Chemtos, LLC | Nabilone 1 mL in 1mg/ml in methanol | Amber ampule: 1 mL | 8/12/2024
Chemtos, LLC | Nabilone-d6 1 mL in 0.1mg/ml in methanol | Amber ampule: 1 mL | 8/12/2024
Chemtos, LLC | Nabilone-d6 1 mL in 1mg/ml in methanol | Amber ampule: 1 mL | 8/12/2024
Chemtos, LLC | NEiH HCl—Certified Analytical Reference Standard solution | Amber ampule: 1 mL | 3/22/2024
Chemtos, LLC | NiPP HCl—Certified Analytical Reference Standard solution | Amber ampule: 1 mL | 3/22/2024
Chemtos, LLC | NiPP-d5 HCl—Certified Analytical Reference Standard solution | Amber ampule: 1 mL | 3/22/2024
Chemtos, LLC | NiPP-d5 HCl (1 mg/mL in methanol) | Amber ampule: 1 mL | 1/9/2025
Chemtos, LLC | NPP HCl—Certified Analytical Reference Standard solution | Amber ampule: 1 mL | 3/22/2024
Chemtos, LLC | N-Propylcathinone HCl—Certified Analytical Reference Standard solution | Amber ampule: 1 mL | 3/22/2024
Chemtos, LLC | Serdexmethylphenidate—Certified Analytical Reference Standard solution | Amber ampule: 1 mL | 3/22/2024
Chemtos, LLC | Serdexmethylphenidate-d6—Certified Analytical Reference Standard solution | Amber ampule: 1 mL | 3/22/2024
Chromsystems | Internal Standard Set Mass Tox® Drugs of Abuse Testing in urine (96046-RUO) | 4 vials, 1 mL each Glass vial: 5 mL | 8/2/2024
Chromsystems | System Check Solution MassTox® Drugs of Abuse Testing in urine (96012-RUO) | Glass vial: 1 mL | 8/2/2024
Chromsystems | Tuning Mix 1 MassTox® Drugs of Abuse Testing Analytes and Internal Standards (96015-RUO) | Glass vial: 1 mL | 8/2/2024
Chromsystems | Tuning Mix 2 MassTox® Drugs of Abuse Testing Analytes and Internal Standards (96016-RUO) | Glass vial: 1 mL | 8/2/2024
Chromsystems | Tuning Mix 3 MassTox® Drugs of Abuse Testing Analytes and Internal Standards (96017-RUO) | Glass vial: 1 mL | 8/2/2024
Cliniqa Corporation | MCC Level 1, Part: 86005 | Vial/Bottle: 5 ml | 1/12/2024
Cliniqa Corporation | MCC Level 1, Part: 86005 | Vial/Bottle: 5 ml | 1/12/2024
Cliniqa Corporation | MCC Level 1, Part: 86011 | Vial/Bottle: 10 ml | 1/12/2024
Cliniqa Corporation | MCC Level 1, Part: 86011 | Vial/Bottle: 10 ml | 1/12/2024
Cliniqa Corporation | MCC Level 1, Part: 86017 | Vial/Bottle: 50 ml | 1/12/2024
Cliniqa Corporation | MCC Level 1, Part: 86017 | Vial/Bottle: 50 ml | 1/12/2024
Cliniqa Corporation | MCC Level 1, Part: 86023 | Vial/Bottle: 100 ml | 1/12/2024
Cliniqa Corporation | MCC Level 1, Part: 86023 | Vial/Bottle: 100 ml | 1/12/2024
Cliniqa Corporation | MCC Level 1, Part: 86029 | Vial/Bottle: 250 ml | 1/12/2024
Cliniqa Corporation | MCC Level 1, Part: 86029 | Vial/Bottle: 250 ml | 1/12/2024
Cliniqa Corporation | MCC Level 1, Part: 86035 | Vial/Bottle: 500 ml | 1/12/2024
Cliniqa Corporation | MCC Level 1, Part: 86035 | Vial/Bottle: 500 ml | 1/12/2024
Cliniqa Corporation | MCC Level 1, Part: 86041 | Vial/Bottle: 1,000 ml | 1/12/2024
Cliniqa Corporation | MCC Level 1, Part: 86041 | Vial/Bottle: 1,000 ml | 1/12/2024
Cliniqa Corporation | MCC Level 1, Part: 86047 | Vial/Bottle: 2,000 ml | 1/12/2024
Cliniqa Corporation | MCC Level 2, Part: 86006 | Vial/Bottle: 5 ml | 1/12/2024
Cliniqa Corporation | MCC Level 2, Part: 86006 | Vial/Bottle: 5 ml | 1/12/2024
Cliniqa Corporation | MCC Level 2, Part: 86012 | Vial/Bottle: 10 ml | 1/12/2024
Cliniqa Corporation | MCC Level 2, Part: 86012 | Vial/Bottle: 10 ml | 1/12/2024
Cliniqa Corporation | MCC Level 2, Part: 86018 | Vial/Bottle: 50 ml | 1/12/2024
Cliniqa Corporation | MCC Level 2, Part: 86018 | Vial/Bottle: 50 ml | 1/12/2024
Cliniqa Corporation | MCC Level 2, Part: 86024 | Vial/Bottle: 100 ml | 1/12/2024
Cliniqa Corporation | MCC Level 2, Part: 86024 | Vial/Bottle: 100 ml | 1/12/2024
Cliniqa Corporation | MCC Level 2, Part: 86030 | Vial/Bottle: 250 ml | 1/12/2024
Cliniqa Corporation | MCC Level 2, Part: 86030 | Vial/Bottle: 250 ml | 1/12/2024
Cliniqa Corporation | MCC Level 2, Part: 86036 | Vial/Bottle: 500 ml | 1/12/2024
Cliniqa Corporation | MCC Level 2, Part: 86036 | Vial/Bottle: 500 ml | 1/12/2024
Cliniqa Corporation | MCC Level 2, Part: 86042 | Vial/Bottle: 1,000 ml | 1/12/2024
Cliniqa Corporation | MCC Level 2, Part: 86042 | Vial/Bottle: 1,000 ml | 1/12/2024
Cliniqa Corporation | MCC Level 2, Part: 86048 | Vial/Bottle: 2,000 ml | 1/12/2024
Cliniqa Corporation | MCC Level 3, Part: 86007 | Vial/Bottle: 5 ml | 1/12/2024
Cliniqa Corporation | MCC Level 3, Part: 86007 | Vial/Bottle: 5 ml | 1/12/2024
Cliniqa Corporation | MCC Level 3, Part: 86013 | Vial/Bottle: 10 ml | 1/12/2024
Cliniqa Corporation | MCC Level 3, Part: 86013 | Vial/Bottle: 10 ml | 1/12/2024
Cliniqa Corporation | MCC Level 3, Part: 86019 | Vial/Bottle: 50 ml | 1/12/2024
Cliniqa Corporation | MCC Level 3, Part: 86019 | Vial/Bottle: 50 ml | 1/12/2024
Cliniqa Corporation | MCC Level 3, Part: 86025 | Vial/Bottle: 100 ml | 1/12/2024
Cliniqa Corporation | MCC Level 3, Part: 86025 | Vial/Bottle: 100 ml | 1/12/2024
Cliniqa Corporation | MCC Level 3, Part: 86031 | Vial/Bottle: 250 ml | 1/12/2024
Cliniqa Corporation | MCC Level 3, Part: 86031 | Vial/Bottle: 250 ml | 1/12/2024
Cliniqa Corporation | MCC Level 3, Part: 86037 | Vial/Bottle: 500 ml | 1/12/2024
Cliniqa Corporation | MCC Level 3, Part: 86037 | Vial/Bottle: 500 ml | 1/12/2024
Cliniqa Corporation | MCC Level 3, Part: 86043 | Vial/Bottle: 1,000 ml | 1/12/2024
Cliniqa Corporation | MCC Level 3, Part: 86043 | Vial/Bottle: 1,000 ml | 1/12/2024
Cliniqa Corporation | MCC Level 3, Part: 86049 | Vial/Bottle: 2,000 ml | 1/12/2024
Cliniqa Corporation | MCC Level 4, Part: 86008 | Vial/Bottle: 5 ml | 1/12/2024
Cliniqa Corporation | MCC Level 4, Part: 86008 | Vial/Bottle: 5 ml | 1/12/2024
Cliniqa Corporation | MCC Level 4, Part: 86014 | Vial/Bottle: 10 ml | 1/12/2024
Cliniqa Corporation | MCC Level 4, Part: 86014 | Vial/Bottle: 10 ml | 1/12/2024
Cliniqa Corporation | MCC Level 4, Part: 86020 | Vial/Bottle: 50 ml | 1/12/2024
Cliniqa Corporation | MCC Level 4, Part: 86020 | Vial/Bottle: 50 ml | 1/12/2024
Cliniqa Corporation | MCC Level 4, Part: 86026 | Vial/Bottle: 100 ml | 1/12/2024
Cliniqa Corporation | MCC Level 4, Part: 86026 | Vial/Bottle: 100 ml | 1/12/2024
Cliniqa Corporation | MCC Level 4, Part: 86032 | Vial/Bottle: 250 ml | 1/12/2024
Cliniqa Corporation | MCC Level 4, Part: 86032 | Vial/Bottle: 250 ml | 1/12/2024
Cliniqa Corporation | MCC Level 4, Part: 86038 | Vial/Bottle: 500 ml | 1/12/2024
Cliniqa Corporation | MCC Level 4, Part: 86038 | Vial/Bottle: 500 ml | 1/12/2024
Cliniqa Corporation | MCC Level 4, Part: 86044 | Vial/Bottle: 1,000 ml | 1/12/2024
Cliniqa Corporation | MCC Level 4, Part: 86050 | Vial/Bottle: 2,000 ml | 1/12/2024
Cliniqa Corporation | MCC Level 5, Part: 86009 | Vial/Bottle: 5 ml | 1/12/2024
Cliniqa Corporation | MCC Level 5, Part: 86009 | Vial/Bottle: 5 ml | 1/12/2024
Cliniqa Corporation | MCC Level 5, Part: 86015 | Vial/Bottle: 10 ml | 1/12/2024
Cliniqa Corporation | MCC Level 5, Part: 86015 | Vial/Bottle: 10 ml | 1/12/2024
Cliniqa Corporation | MCC Level 5, Part: 86021 | Vial/Bottle: 50 ml | 1/12/2024
Cliniqa Corporation | MCC Level 5, Part: 86021 | Vial/Bottle: 50 ml | 1/12/2024
Cliniqa Corporation | MCC Level 5, Part: 86027 | Vial/Bottle: 100 ml | 1/12/2024
Cliniqa Corporation | MCC Level 5, Part: 86027 | Vial/Bottle: 100 ml | 1/12/2024
Cliniqa Corporation | MCC Level 5, Part: 86033 | Vial/Bottle: 250 ml | 1/12/2024
Cliniqa Corporation | MCC Level 5, Part: 86033 | Vial/Bottle: 250 ml | 1/12/2024
Cliniqa Corporation | MCC Level 5, Part: 86039 | Vial/Bottle: 500 ml | 1/12/2024
Cliniqa Corporation | MCC Level 5, Part: 86039 | Vial/Bottle: 500 ml | 1/12/2024
Cliniqa Corporation | MCC Level 5, Part: 86045 | Vial/Bottle: 1,000 ml | 1/12/2024
Cliniqa Corporation | MCC Level 5, Part: 86051 | Vial/Bottle: 2,000 ml | 1/12/2024
Cliniqa Corporation | MCC Level 6, Part: 86010 | Vial/Bottle: 5 ml | 1/12/2024
Cliniqa Corporation | MCC Level 6, Part: 86010 | Vial/Bottle: 5 ml | 1/12/2024
Cliniqa Corporation | MCC Level 6, Part: 86016 | Vial/Bottle: 10 ml | 1/12/2024
Cliniqa Corporation | MCC Level 6, Part: 86016 | Vial/Bottle: 10 ml | 1/12/2024
Cliniqa Corporation | MCC Level 6, Part: 86022 | Vial/Bottle: 50 ml | 1/12/2024
Cliniqa Corporation | MCC Level 6, Part: 86022 | Vial/Bottle: 50 ml | 1/12/2024
Cliniqa Corporation | MCC Level 6, Part: 86028 | Vial/Bottle: 100 ml | 1/12/2024
Cliniqa Corporation | MCC Level 6, Part: 86028 | Vial/Bottle: 100 ml | 1/12/2024
Cliniqa Corporation | MCC Level 6, Part: 86034 | Vial/Bottle: 250 ml | 1/12/2024
Cliniqa Corporation | MCC Level 6, Part: 86034 | Vial/Bottle: 250 ml | 1/12/2024
Cliniqa Corporation | MCC Level 6, Part: 86040 | Vial/Bottle: 500 ml | 1/12/2024
Cliniqa Corporation | MCC Level 6, Part: 86040 | Vial/Bottle: 500 ml | 1/12/2024
Cliniqa Corporation | MCC Level 6, Part: 86046 | Vial/Bottle: 1,000 ml | 1/12/2024
cliniqa Corporation | Multi Constituent Calibrator (MCC) Level 1 | Bottle/vial: 5 mL to 2000 mL | 1/21/2025
cliniqa Corporation | Multi Constituent Calibrator (MCC) Level 2 | Bottle/vial: 5 mL to 2000 mL | 1/21/2025
cliniqa Corporation | Multi Constituent Calibrator (MCC) Level 3 | Bottle/vial: 5 mL to 2000 mL | 1/21/2025
cliniqa Corporation | Multi Constituent Calibrator (MCC) Level 4 | Bottle/vial: 5 mL to 2000 mL | 1/21/2025
cliniqa Corporation | Multi Constituent Calibrator (MCC) Level 5 | Bottle/vial: 5 mL to 2000 mL | 1/21/2025
cliniqa Corporation | Multi Constituent Calibrator (MCC) Level 6 | Bottle/vial: 5 mL to 2000 mL | 1/21/2025
Cliniqa Corporation | TDM + MTX Control Level 1, Part: 83737-M | Vial: 5 ml | 1/8/2024
Cliniqa Corporation | TDM + MTX Control Level 2, Part: 83738-M | Vial: 5 ml | 1/8/2024
Cliniqa Corporation | TDM + MTX Control Level 3, Part: 83739-M | Vial: 5 ml | 1/8/2024
College of American Pathologists (CAP) | 2025 NOB-01 | HDPE bottles: 15 mL | 8/13/2024
College of American Pathologists (CAP) | 2025 NOB-02 | HDPE bottles: 15 mL | 8/13/2024
College of American Pathologists (CAP) | 2025 NOB-03 | HDPE bottles: 15 mL | 8/13/2024
College of American Pathologists (CAP) | 2025 NOB-04 | HDPE bottles: 15 mL | 8/13/2024
College of American Pathologists (CAP) | 2025 NOB-05 | HDPE bottles: 15 mL | 8/13/2024
College of American Pathologists (CAP) | 2025 NOB-06 | HDPE bottles: 15 mL | 8/13/2024
College of American Pathologists (CAP) | 2025 SCDD-01 | HDPE bottles: 10 mL | 8/13/2024
College of American Pathologists (CAP) | 2025 SCDD-02 | HDPE bottles: 10 mL | 8/13/2024
College of American Pathologists (CAP) | 2025 SCDD-03 | HDPE bottles: 10 mL | 8/13/2024
College of American Pathologists (CAP) | 2025 SCDD-04 | HDPE bottles: 10 mL | 8/13/2024
College of American Pathologists (CAP) | 2025 SCDD-05 | HDPE bottles: 10 mL | 8/13/2024
College of American Pathologists (CAP) | 2025 SCDD-06 | HDPE bottles: 10 mL | 8/13/2024
Fisher Diagnostics | ARCH PCT Ref CAL A JY6P22A-REF | LDPE Bottle: 4.42 mL | 11/14/2024
irvine Scientific | HH-4 Cell Culture Medium | Plastic bottle, 1 L, Drum, 200 L | 2/24/2025
LGC | (LGC) Chemistry | Amber vial: 5 mL | 8/7/2024
LGC—Dr. Ehrenstorfer | Cannabinoids Mixture 14832 100 μg/mL in Acetonitrile w/0.5% ammonia +0.2% Formic acid | Amber ampule: 1 mL | 4/12/2024
LGC—Dr. Ehrenstorfer | Custom Hormone Mixture 14910 100 µg/mL in methanol | Pack: 5 amber amuples x 1 mL | 5/31/2024
LGC—Dr. Ehrenstorfer | Custom Pharmaceutical Mixture, 17331 100 ug/mL in Methanol | Box: 5 amber ampules, 1 mL each | 2/18/2025
LGC Clinical Diagnostics, Inc | TDM1 ab Bulk Level 1 | Glass volumetric flask, 3200 mL | 9/5/2024
LGC Clinical Diagnostics, Inc | TDM1 ab Bulk Level 2 | Glass volumetric flask, 3200 mL | 9/5/2024
LGC Clinical Diagnostics, Inc | TDM1 ab Bulk Level 3 | Glass volumetric flask, 3200 mL | 9/5/2024
LGC Clinical Diagnostics, Inc | TDM1 ab Bulk Level 4 | Glass volumetric flask, 3200 mL | 9/5/2024
LGC Clinical Diagnostics, Inc | TDM1 ab Bulk Level 5 | Glass volumetric flask, 3200 mL | 9/5/2024
LGC Clinical Diagnostics, Inc | TDM1 ab WrkBlk Level 1 | Glass volumetric flask, 200-8000 mL | 9/5/2024
LGC Clinical Diagnostics, Inc | TDM1 au Bulk Level 1 | Glass volumetric flask, 3200 mL | 9/5/2024
LGC Clinical Diagnostics, Inc | TDM1 au Bulk Level 2 | Glass volumetric flask, 3200 mL | 9/5/2024
LGC Clinical Diagnostics, Inc | TDM1 au Bulk Level 3 | Glass volumetric flask, 3200 mL | 9/5/2024
LGC Clinical Diagnostics, Inc | TDM1 au Bulk Level 4 | Glass volumetric flask, 3200 mL | 9/5/2024
LGC Clinical Diagnostics, Inc | TDM1 au Bulk Level 5 | Glass volumetric flask, 3200 mL | 9/5/2024
LGC Clinical Diagnostics, Inc | TDM1 au WrkBlk Level 1 | Glass volumetric flask, 200-8000 mL | 9/5/2024
LGC Clinical Diagnostics, Inc | TDM1 bc Bulk Level 1 | Glass volumetric flask, 3200 mL | 9/5/2024
LGC Clinical Diagnostics, Inc | TDM1 bc Bulk Level 2 | Glass volumetric flask, 3200 mL | 9/5/2024
LGC Clinical Diagnostics, Inc | TDM1 bc Bulk Level 3 | Glass volumetric flask, 3200 mL | 9/5/2024
LGC Clinical Diagnostics, Inc | TDM1 bc Bulk Level 4 | Glass volumetric flask, 3200 mL | 9/5/2024
LGC Clinical Diagnostics, Inc | TDM1 bc Bulk Level 5 | Glass volumetric flask, 3200 mL | 9/5/2024
LGC Clinical Diagnostics, Inc | TDM1 bc WrkBlk Level 1 | Glass volumetric flask, 200-8000 mL | 9/5/2024
LGC Clinical Diagnostics, Inc | TDM1 db Bulk Level 1 | Glass volumetric flask, 3200 mL | 9/5/2024
LGC Clinical Diagnostics, Inc | TDM1 db Bulk Level 2 | Glass volumetric flask, 3200 mL | 9/5/2024
LGC Clinical Diagnostics, Inc | TDM1 db Bulk Level 3 | Glass volumetric flask, 3200 mL | 9/5/2024
LGC Clinical Diagnostics, Inc | TDM1 db Bulk Level 4 | Glass volumetric flask, 3200 mL | 9/5/2024
LGC Clinical Diagnostics, Inc | TDM1 db Bulk Level 5 | Glass volumetric flask, 3200 mL | 9/5/2024
LGC Clinical Diagnostics, Inc | TDM1 db WrkBlk level 1 | Glass volumetric flask, 200-8000 mL | 9/5/2024
LGC Clinical Diagnostics, Inc | TDM1 ri GentC Set Bulk Level 1 | Glass volumetric flask, 3200 mL | 9/5/2024
LGC Clinical Diagnostics, Inc | TDM1 ri GentC Set Bulk Level 2 | Glass volumetric flask, 3200 mL | 9/5/2024
LGC Clinical Diagnostics, Inc | TDM1 ri GentC Set Bulk Level 3 | Glass volumetric flask, 3200 mL | 9/5/2024
LGC Clinical Diagnostics, Inc | TDM1 ri GentC Set Bulk Level 4 | Glass volumetric flask, 3200 mL | 9/5/2024
LGC Clinical Diagnostics, Inc | TDM1 ri GentC Set Bulk Level 5 | Glass volumetric flask, 3200 mL | 9/5/2024
LGC Clinical Diagnostics, Inc | TDM1 ri GentC Set WrkBlk Level 1 | Glass volumetric flask, 200-8000 mL | 9/5/2024
LGC Clinical Diagnostics, Inc | TDM1 ri TDM Set Bulk Level 1 | Glass volumetric flask, 3200 mL | 9/5/2024
LGC Clinical Diagnostics, Inc | TDM1 ri TDM Set Bulk Level 2 | Glass volumetric flask, 3200 mL | 9/5/2024
LGC Clinical Diagnostics, Inc | TDM1 ri TDM Set Bulk Level 3 | Glass volumetric flask, 3200 mL | 9/5/2024
LGC Clinical Diagnostics, Inc | TDM1 ri TDM Set Bulk Level 4 | Glass volumetric flask, 3200 mL | 9/5/2024
LGC Clinical Diagnostics, Inc | TDM1 ri TDM Set Bulk Level 5 | Glass volumetric flask, 3200 mL | 9/5/2024
LGC Clinical Diagnostics, Inc | TDM1 ri TDM Set WrkBlk Level 1 | Glass volumetric flask, 200-8000 mL | 9/5/2024
LGC Clinical Diagnostics, Inc | TDM1 vt Bulk Level 1 | Glass volumetric flask, 3200 mL | 9/5/2024
LGC Clinical Diagnostics, Inc | TDM1 vt Bulk Level 2 | Glass volumetric flask, 3200 mL | 9/5/2024
LGC Clinical Diagnostics, Inc | TDM1 vt Bulk Level 3 | Glass volumetric flask, 3200 mL | 9/5/2024
LGC Clinical Diagnostics, Inc | TDM1 vt Bulk Level 4 | Glass volumetric flask, 3200 mL | 9/5/2024
LGC Clinical Diagnostics, Inc | TDM1 vt Bulk Level 5 | Glass volumetric flask, 3200 mL | 9/5/2024
LGC Clinical Diagnostics, Inc | TDM1 vt WrkBlk Level 1 | Glass volumetric flask, 200-8000 mL | 9/5/2024
LGC Clinical Diagnostics, Inc | VALIDATE® TDM Calibration Verification 301ab Test Set | Set: 5 LDPE Boston Round dropper bottles, 3.1 mL each | 9/5/2024
LGC Clinical Diagnostics, Inc | VALIDATE® TDM Calibration Verification 301au Test Set | Set: 5 LDPE Boston Round dropper bottles, 3.1 mL each | 9/5/2024
LGC Clinical Diagnostics, Inc | VALIDATE® TDM Calibration Verification 301bc Test Set | Set: 5 LDPE Boston Round dropper bottles, 3.1 mL each | 9/5/2024
LGC Clinical Diagnostics, Inc | VALIDATE® TDM Calibration Verification 301db Test Set | Set: 5 LDPE Boston Round dropper bottles, 3.1 mL each | 9/5/2024
LGC Clinical Diagnostics, Inc | VALIDATE® TDM Calibration Verification 301ri only Test Set | Set: 5 LDPE Boston Round dropper bottles, 3.1 mL each | 9/5/2024
LGC Clinical Diagnostics, Inc | VALIDATE® TDM Calibration Verification 301ri Test Set | Set: 5 LDPE Boston Round dropper bottles, 3.1 mL each | 9/5/2024
LGC Clinical Diagnostics, Inc | VALIDATE® TDM Calibration Verification 301vt Test Set | Set: 5 LDPE Boston Round dropper bottles, 3.1 mL each | 9/5/2024
Lin-Zhi International | 6-Acetylmorphine DAU Calibrator, 6-Acetylmorphine, Cutoff Calibrator, Ref #0293 | Dropper bottle: 5 mL | 11/3/2023
Lin-Zhi International | 6-Acetylmorphine DAU Calibrator, 6-Acetylmorphine, Low Calibrator, Ref #0292 | Dropper bottle: 5 mL | 11/3/2023
Lin-Zhi International | 6-Acetylmorphine DAU Calibrator, 6-Acetylmorphine, Negative Calibrator, Ref #0299 | Dropper bottle: 5 mL | 11/3/2023
Lin-Zhi International | 6-Acetylmorphine DAU Control, 6-Acetylmorphine, High Calibrator, Ref #0295 | Dropper bottle: 5 mL | 11/3/2023
Lin-Zhi International | 6-Acetylmorphine DAU Control, 6-Acetylmorphine, Intermediate Calibrator, Ref #0294 | Dropper bottle: 5 mL | 11/3/2023
Lin-Zhi International | 6-Acetylmorphine DAU Control, 6-Acetylmorphine, Level 1 Control, Ref #0297 | Dropper bottle: 5 mL | 11/3/2023
Lin-Zhi International | 6-Acetylmorphine DAU Control, 6-Acetylmorphine, Level 2 Control, Ref #0298 | Dropper bottle: 5 mL | 11/3/2023
Lin-Zhi International | Fentanyl Control Set | Kit: 4 dropper bottles, 15 mL each | 1/15/2025
Lipomed Inc | Etizolam (1 mg/mL) | Glass ampule: 1 mL | 8/9/2023
Lipomed Inc | Flualprazolam (1 mg/mL) | Glass ampule: 1 mL | 8/9/2023
Microgenics Corporation | Accuracy Solution Kit Catalog number: 10013070 | Kit: 16 vial, 5 mL each; 1 vial, 60 mL; 2 vials, 10mL each | 2/25/2025
Microgenics Corporation | Alinity c Benzodiazepines Semiquant Calibrator Set, Catalog Number: 10027282/09P5202 | Kit: 4 vials, 2.9 mL each | 8/14/2024
Microgenics Corporation | Alinity c DOA MC I Controls, Catalog Number: 10024824/08 P6310 | Kit: 4 vials, 5.0 mL each | 8/14/2024
Microgenics Corporation | Alinity c DOA MC I Controls, Catalog Number: 10027284/08P6318 | Kit: 4 vials, 5.0 mL each | 8/14/2024
Microgenics Corporation | Alinity c DOA MC II Controls, Catalog Number: 10024825/08P6311 | Kit: 4 vials, 5.0 mL each | 8/14/2024
Microgenics Corporation | Alinity c DOA MC III Controls, Catalog Number: 10024826/08P6312 | Kit: 2 vials, 5.0 mL each | 8/14/2024
Microgenics Corporation | Alinity c DOA MC Qual Calibrator Kit 2, Catalog Number: 10026533/08P6302 | Kit: 1 vial, 2.9 mL | 8/14/2024
Microgenics Corporation | Alinity c DOA MC Qual Low Calibrator Kit 1, Catalog Number: 10026529/08P6301 | Kit: 1 vial, 2.9 mL | 8/14/2024
Microgenics Corporation | Alinity c DOA MC Semiquant Calibrator Kit, Catalog Number: 10026528/08P6303 | Kit: 4 vials, 2.9 mL | 8/14/2024
Microgenics Corporation | Alinity c Tox Controls Kit, Catalog Number: 10024287/08P6810 | Kit: 6 vials, 5.0 mL each | 8/14/2024
Microgenics Corporation | Alinity c Tox Qual Calibrator Kit, Catalog Number: 10024823/09P6501 | Kit: 6 vials, 2.9 mL each | 8/14/2024
Microgenics Corporation | Alinity c Tox Semiquant Calibrator Kit, Catalog Number: 10026534/09P6502 | Kit: 6 vials, 2.9 mL each | 8/14/2024
Microgenics Corporation | Architect DOA MC II Control Set, Catalog Number: 03L42-11 | Kit: 4 vials, 5.0 mL each | 8/14/2024
Microgenics Corporation | Architect DOA MC III Control Set, Catalog Number: 04P51-10 | Kit: 2 vials, 5.0 mL each | 8/14/2024
Microgenics Corporation | Architect Tox Calibrator 1, Catalog Number: 6L36-01 | Kit: 1 vial. 5 mL | 8/14/2024
Microgenics Corporation | Architect Tox Calibrator 2, Catalog Number: 6L36-02 | Kit: 1 vial. 5 mL | 8/14/2024
Microgenics Corporation | Architect Tox Calibrator 3, Catalog Number: 6L36-03 | Kit: 1 vial. 5 mL | 8/14/2024
Microgenics Corporation | Architect Tox Control, Catalog Number: 6L36-10 | Kit: 6 vials, 5.0 mL each | 8/14/2024
Microgenics Corporation | Buffer Pheno Reactintmdt, Catalog number: 0232086 | Plastic carboy: 50 L, 100 L | 1/24/2025
Microgenics Corporation | Buffer Pheno Reaction, Catalog number: 10016999 | Plastic carboy: 50 L, 100 L, 150 L | 1/24/2025
Microgenics Corporation | Cal Mfg Amph/XTC F, Catalog number: 1255 | Plastic bottle: 2 mL | 2/21/2025
Microgenics Corporation | CEDIA Buprenorphine I Spike Solution, Catalog number: 1007967 | Plastic or Glass bottle: 25 mL, 50 mL, 100 mL, 250 mL, 500 mL | 1/24/2025
Microgenics Corporation | CEDIA Multi-Drug Optional Controls, Catalog number: 100069 | Kit: 4 Plastic Droppers, 5 mL each | 12/17/2024
Microgenics Corporation | CEDIA Specialty Control Set, Catalog number: 1815440 | Kit: 6 Plastic Droppers, 5 mL each | 12/17/2024
Microgenics Corporation | DRI Fentanyl II Control | Kit: 4 Dropper vials, 10 mL each | 3/4/2025
Microgenics Corporation | DRI Fentanyl II Cutoff Calibrator | Kit: 2 Dropper vials, 10 mL each | 3/4/2025
Microgenics Corporation | DRI Oxazepam Spiking Solution, 1 mg/mL, Catalog number: 10007712 | Glass bottle: 25 mL | 1/24/2025
Microgenics Corporation | DRI Oxycodone Spiking Solution, 100,000 ng/mL, Catalog number: 10008310 | Plastic or Glass bottle: 100mL | 1/24/2025
Microgenics Corporation | MAS Benzoylecgonine Soln, 1 mg/mL Catalog number: 432 | Plastic or Glass bottle: 25 mL | 1/24/2025
Microgenics Corporation | MAS d-Methamphetamine Soln, 1 mg/mL Catalog number: 925 | Plastic or Glass bottle: 4 mL | 1/24/2025
Microgenics Corporation | MAS Nitrazepam Soln, 1 mg/mL Catalog number: 10013058 | Plastic or Glass bottle: 25 mL | 1/24/2025
Microgenics Corporation | MAS Omni CORE Level 1 | Vial: 5 mL | 3/21/2025
Microgenics Corporation | MAS Omni CORE Level 2 | Vial: 5 mL | 3/21/2025
Microgenics Corporation | MAS Omni CORE Level 3 | Vial: 5 mL | 3/21/2025
Microgenics Corporation | MAS PAR TDM Liquid Assayed Therapeutic Drug Control Level 1, Catalog number: PTD1-1001 | Kit: 6 Glass vials, 5 mL each | 12/17/2024
Microgenics Corporation | MAS PAR TDM Liquid Assayed Therapeutic Drug Control Level 2, Catalog number: PTD2-2002 | Kit: 6 Glass vials, 5 mL each | 12/17/2024
Microgenics Corporation | MAS PAR TDM Liquid Assayed Therapeutic Drug Control, Catalog number: PTD-S1 | Kit: 3 Glass vials, 5 mL each | 12/17/2024
Microgenics Corporation | MAS PCP Soln, 0.1 mg/mL Catalog number: 923 | Plastic or Glass bottle: 25 mL, 50 mL, 100 mL | 1/24/2025
Microgenics Corporation | MAS™ Omni·IMMUNE™ Max, Sample Pack, catalog number: OIMM-SP-R | Kit: 3 PET bottles, 4 mL each | 3/17/2025
Microgenics Corporation | MAS™ Omni·IMMUNE™ PRO Max, Sample Pack, catalog number: OPROM-SP-R | Kit: 3 PET bottles, 4 mL each | 3/17/2025
Microgenics Corporation | MAS™ Omni·CORE™ Max, Level 1, catalog number: OCRM-101 | Kit: 12 PET bottles, 4 mL each | 3/17/2025
Microgenics Corporation | MAS™ Omni·CORE™ Max, Level 2, Catalog number: OCRM-202 | Kit: 12 PET bottles, 4 mL each | 3/17/2025
Microgenics Corporation | MAS™ Omni·CORE™ Max, Level 3, catalog number: OCRM-303 | Kit: 12 PET bottles, 4 mL each | 3/17/2025
Microgenics Corporation | MAS™ Omni·CORE™ Max, Sample Pack, catalog number: OCRM-SP | Kit: 3 PET bottles, 4 mL each | 3/17/2025
Microgenics Corporation | MAS™ Omni·CORE™ Max, Sample Pack, catalog number: OCRM-SP-R | Kit: 3 PET bottles, 4 mL each | 3/17/2025
Microgenics Corporation | Phenobarbital Cal 2, 5.0 μg/mL Catalog number: 10016300 | Plastic bottle: 1 mL | 2/21/2025
Microgenics Corporation | Phenobarbital Cal 3, 10.0 μg/mL Catalog number: 10016300 | Plastic bottle: 1 mL | 2/21/2025
Microgenics Corporation | Phenobarbital Cal 4, 20.0 μg/mL Catalog number: 10016300 | Plastic bottle: 1 mL | 2/21/2025
Microgenics Corporation | Phenobarbital Cal 5, 40.0 μg/mL Catalog number: 10016300 | Plastic bottle: 1 mL | 2/21/2025
Microgenics Corporation | Phenobarbital Cal 6, 80.0 μg/mL Catalog number: 10016300 | Plastic bottle: 1 mL | 2/21/2025
Microgenics Corporation | Phenobarbital Ctrl L1, 15.0 μg/mL Catalog number: 10016300 | Plastic bottle: 1 mL | 2/21/2025
Microgenics Corporation | Phenobarbital Ctrl L3, 50.0 μg/mL Catalog number: 10016300 | Plastic bottle: 1 mL | 2/21/2025
Microgenics Corporation | TDM Core Serum Quantitation—Level 21, Catalog number: 10001615-L21 | Glass bottle: 250 mL, 500 mL | 2/21/2025
Microgenics Corporation | Alinity c DOA MC I Controls | Kit: 4 Amber glass bottles, 5 mL each | 11/14/2024
Microgenics Corporation | Alinity c DOA MC II Controls | Kit: 4 Amber glass bottles, 5 mL each | 11/14/2024
Microgenics Corporation | Alinity c DOA MC III Controls | Kit: 2 Amber glass bottles, 5 mL each | 11/14/2024
Microgenics Corporation | Alinity c DOA MC Qual Calibrator 2 Kit | 1 Amber glass bottle, 2.9 mL | 11/14/2024
Microgenics Corporation | Alinity c DOA MC Qual Low Calibrator 1 Kit | 1 Amber glass bottle, 2.9 mL | 11/14/2024
Microgenics Corporation | Alinity c DOA MC Semiquant Calibrator Kit | Kit: 4 Amber glass bottles, 2.9 mL each | 11/14/2024
Microgenics Corporation | Alinity c Phenobarbital Reagent Kit | Kit: 2 polypropylene bottles, 23.7 mL each, Kit: 2 polypropylene bottles, 9.3 mL each | 11/14/2024
Microgenics Corporation | Alinity c TDM Multiconstituent Calibrator | Kit: 6 Amber glass, 3 mL each | 10/3/2024
Microgenics Corporation | Alinity c TDM Multiconstituent Calibrator Kit | Kit: 6 Amber glass bottles, 3.0 mL each | 11/14/2024
Microgenics Corporation | Alinity c Tox Qual Calibrators | Kit: 6 amber glass bottles, 2.9 mL each | 11/14/2024
Microgenics Corporation | Alinity c Tox Controls | Kit: 6 amber glass bottles, 5 mL each | 11/14/2024
Microgenics Corporation | Alinity c Tox Semiquant Calibrators | Kit: 6 amber glass bottles, 2.9 mL each | 11/14/2024
Microgenics Corporation | Alinity c Benzodiazepines Semiquant Calibrator Kit | Kit: 4 Amber glass bottles, 2.9 mL each | 11/14/2024
Microgenics Corporation | Amphetamines/Ecstasy Mfg Cal Open | LDPE bottle, 2 mL | 1/31/2025
Microgenics Corporation | Buprenorphine B Mfg Cal | LDPE bottle, 2 mL | 2/7/2025
Microgenics Corporation | Buprenorphine C Mfg Cal | LDPE bottle, 2 mL | 2/7/2025
Microgenics Corporation | Buprenorphine D Mfg Cal | LDPE bottle, 2 mL | 2/7/2025
Microgenics Corporation | Buprenorphine E Mfg Cal | LDPE bottle, 2 mL | 2/7/2025
Microgenics Corporation | Buprenorphine F Mfg Cal | LDPE bottle, 2 mL | 2/7/2025
Microgenics Corporation | Buprenorphine G Mfg Cal | LDPE bottle, 2 mL | 2/7/2025
Microgenics Corporation | Buprenorphine H Mfg Cal | LDPE bottle, 2 mL | 2/7/2025
Microgenics Corporation | Buprenorphine Open Mfg Cal 1105 7400 | LDPE bottle, 2 mL | 2/7/2025
Microgenics Corporation | Cal Mfg Amph 20,000, Catalog number: 10007712 | Plastic bottle: 2 mL | 2/21/2025
Microgenics Corporation | Cal Opiate 1000ng BCI, Catalog number: 1603 | Glass bottle: 1.6-8 L; Plastic Bottle: 10 L | 3/8/2025
Microgenics Corporation | Cal Opiate 300ng BCI, Catalog number: 1601 | Glass bottle: 1.6-16 L; Plastic Bottle: 2-25 L | 3/8/2025
Microgenics Corporation | CEDIA Buprenorphine 20 ng/mL Calibrator, Catalog Number: 100243 | Kit: 1 Plastic Dropper, 5.0 mL | 10/24/2024
Microgenics Corporation | CEDIA Buprenorphine 5 ng/mL Calibrator, Catalog Number: 100242 | Kit: 1 Plastic Dropper, 5.0 mL | 10/24/2024
Microgenics Corporation | CEDIA Buprenorphine 50 ng/mL Calibrator, Catalog Number: 100244 | Kit: 1 Plastic Dropper, 5.0 mL | 10/24/2024
Microgenics Corporation | CEDIA Buprenorphine 75 ng/mL Calibrator, Catalog Number: 100245 | Kit: 1 Plastic Dropper, 5.0 mL | 10/24/2024
Microgenics Corporation | CEDIA Buprenorphine Controls, Catalog Number: 100246 | Kit: 4 Plastic droppers, 5 mL each | 10/18/2024
Microgenics Corporation | CEDIA Methadone Spike Solution, Catalog number: 1000302 | Plastic or Glass bottle: 25 mL, 50 mL, 100 mL | 1/24/2025
Microgenics Corporation | CEDIA Multi-Drug Calibrator, Primary Clinical Cutoffs, Catalog Number: 1730401 | Kit: 1 Plastic Dropper, 5.0 mL | 10/18/2024
Microgenics Corporation | CEDIA Multi-Drug Optional Cutoff Calibrator, Catalog Number: 100033 | Kit: 1 Plastic Dropper, 5.0 mL | 10/18/2024
Microgenics Corporation | Ctrl MD Clin Low AlqtdCtrl MD Clinical Hi Alqt, Catalog number: 10007727 | Glass bottle: 1.6-8 L; Plastic Bottle: 1-10 L | 3/8/2025
Microgenics Corporation | Ctrl MD Clinical Hi Alqt, Catalog number: 10007728 | Glass bottle: 1.6-8 L; Plastic Bottle: 1-5 L | 3/8/2025
Microgenics Corporation | Ctrl MD High BCI, Catalog number: 1554 | Glass bottle: 1.6-4 L | 3/8/2025
Microgenics Corporation | Ctrl MD High Bulk BCI, Catalog number: 1596 | Glass bottle: 1.6 | 3/8/2025
Microgenics Corporation | Ctrl MD Low BCI, Catalog number: 1552 | Glass bottle: 1.6-4 L | 3/8/2025
Microgenics Corporation | Ctrl MD Low Bulk BCI, Catalog number: 1590 | Glass bottle: 1.6-4 L | 3/8/2025
Microgenics Corporation | Ctrl Opiate 225ng BCI, Catalog number: 1605 | Glass bottle: 1.6-36 L; Plastic Bottle: 4-25 L | 3/8/2025
Microgenics Corporation | Ctrl Opiate 375ng BCI, Catalog number: 1607 | Glass bottle: 4-16 L; Plastic Bottle: 2-25 L | 3/8/2025
Microgenics Corporation | Daiichi Phenobarbital 16mg/mL Stock Solution | Bottle: 25 mL | 3/17/2025
Microgenics Corporation | DAU Clinical High Control Bulk | Kit: Glass bottles, 1 L, 2 L, 5 L, 10 L, 20 L, Plastic or Glass bottles, 5L, 10 L, 20 L | 1/31/2025
Microgenics Corporation | DAU Clinical Low Control Bulk | Kit: Glass bottles, 1 L, 2 L, 5 L, 10 L, 20 L, Plastic or Glass bottles, 5L, 10 L, 20 L, 25 L | 1/31/2025
Microgenics Corporation | DAU Primary High Control Bulk | Kit: Glass bottles, 1 L, 2 L, 5 L, 10 L, Plastic or Glass bottles, 5L, 10 L | 1/31/2025
Microgenics Corporation | DAU Primary Low Control Bulk | Kit: Glass bottles, 1 L, 2 L, 5 L, 10 L, 20 L, Plastic or Glass bottles, 5L, 10 L, 20 L | 1/31/2025
Microgenics Corporation | DAU Select High Control Bulk | Kit: Glass bottles, 1 L, 2 L, 5 L, 10 L, 20 L, 45 L, Plastic or Glass bottles, 10 L, 20 L, 25 L, 50 L, 100L | 1/31/2025
Microgenics Corporation | DAU Select Low Control Bulk | Kit: Glass bottles, 1 L, 2 L, 5 L, 10 L, 20 L, 45 L, Plastic or Glass bottles, 10 L, 20 L, 25 L, 50 L, 100L, 180 L | 1/31/2025
Microgenics Corporation | DAU Specialty High Control Bulk | Kit: Glass bottles, 1 L, 2 L, 5 L, 10 L, 20 L | 1/31/2025
Microgenics Corporation | DAU Specialty Low Control Bulk | Kit: Glass bottles, 1 L, 2 L, 5 L, 10 L, 20 L | 1/31/2025
Microgenics Corporation | DOA MC II Control Set | Kit: 4 amber glass bottles, 5.0 mL each | 11/14/2024
Microgenics Corporation | DOA MC III Control Set | Kit: 2 amber glass bottles, 5.0 mL each | 11/14/2024
Microgenics Corporation | MAS ChemTRAK H Liquid Assayed Chemistry Control, Catalog Number: CHA-SP | Kit: 3 Glass vials, 5 mL each | 10/24/2024
Microgenics Corporation | MAS ChemTRAK H Liquid Assayed Chemistry Control, Level 1, Catalog Number: 10014150 | Kit: 6 Glass vials, 2 mL each | 10/24/2024
Microgenics Corporation | MAS ChemTRAK H Liquid Assayed Chemistry Control, Level 1, Catalog Number: CHA-1 | Kit: 6 Glass vials, 5 mL each | 10/24/2024
Microgenics Corporation | MAS ChemTRAK H Liquid Assayed Chemistry Control, Level 2, Catalog Number: 10014151 | Kit: 6 Glass vials, 2 mL each | 10/24/2024
Microgenics Corporation | MAS ChemTRAK H Liquid Assayed Chemistry Control, Level 2, Catalog Number: CHA-2 | Kit: 6 Glass vials, 5 mL each | 10/24/2024
Microgenics Corporation | MAS ChemTRAK H Liquid Assayed Chemistry Control, Level 3, Catalog Number: 10014152 | Kit: 6 Glass vials, 2 mL each | 10/24/2024
Microgenics Corporation | MAS ChemTRAK H Liquid Assayed Chemistry Control, Level 3, Catalog Number: CHA-3 | Kit: 6 Glass vials, 5 mL each | 10/24/2024
Microgenics Corporation | MAS ChemTRAK H Liquid Unassayed Chemistry Control, Catalog Number: CHU-SP | Kit: 3 Glass vials, 15 mL each | 10/24/2024
Microgenics Corporation | MAS ChemTRAK H Liquid Unassayed Chemistry Control, Level 1, Catalog Number: CHU-1 | Kit: 10 Glass vials, 15 mL each | 10/24/2024
Microgenics Corporation | MAS ChemTRAK H Liquid Unassayed Chemistry Control, Level 2, Catalog Number: CHU-2 | Kit: 10 Glass vials, 15 mL each | 10/24/2024
Microgenics Corporation | MAS ChemTRAK H Liquid Unassayed Chemistry Control, Level 3, Catalog Number: CHU-3 | Kit: 10 Glass vials, 15 mL each | 10/24/2024
Microgenics Corporation | MAS Liquimmune Control Level 1, Catalog number: LIG-101 | Kit: 6 Glass vials, 5 mL each | 10/24/2024
Microgenics Corporation | MAS Liquimmune Control Level 2, Catalog number: LIG-202 | Kit: 6 Glass vials, 5 mL each | 10/24/2024
Microgenics Corporation | MAS Liquimmune Control Level 3, Catalog number: LIG-303 | Kit: 6 Glass vials, 5 mL each | 10/24/2024
Microgenics Corporation | MAS Liquimmune Control Level Sample Pack, Catalog number: LIG-S1 | Kit: 3 Glass vials, 5 mL each | 10/24/2024
Microgenics Corporation | MAS Liquimmune Control, Level 1, Catalog number: 10013876 | Kit: 6 Glass vials, 2 mL each | 10/24/2024
Microgenics Corporation | MAS Liquimmune Control, Level 2, Catalog number: 10013877 | Kit: 6 Glass vials, 2 mL each | 10/24/2024
Microgenics Corporation | MAS Liquimmune Control, Level 3, Catalog number: 10013878 | Kit: 6 Glass vials, 2 mL each | 10/24/2024
Microgenics Corporation | MAS OMNI CORE II Catalog number: OCRL-SP | MAS OMNI CORE II Catalog number: OCRL-SP | 12/17/2024
Microgenics Corporation | MAS OMNI CORE II, Level 1, Catalog number: OCRL-101 | MAS OMNI CORE II, Level 1, Catalog number: OCRL-101 | 12/17/2024
Microgenics Corporation | MAS OMNI CORE II, Level 2, Catalog number: OCRL-202 | MAS OMNI CORE II, Level 2, Catalog number: OCRL-202 | 12/17/2024
Microgenics Corporation | MAS OMNI CORE II, Level 3, Catalog number: OCRL-303 | MAS OMNI CORE II, Level 3, Catalog number: OCRL-303 | 12/17/2024
Microgenics Corporation | MAS PAR TDM Liquid Assayed Therapeutic Drug Control Level 3, Catalog number: PTD3-3003 | Kit: 6 Glass vials, 5 mL each | 12/17/2024
Microgenics Corporation | MAS™ Omni·CORE™ II, Sample Pack | Kit: 3 bottles, 5 mL each | 1/10/2025
Microgenics Corporation | MGC MD Calibrator 1, Bulk | Kit: Glass bottles, 1 L, 2 L, 5 L, 10 L, 20 L, Plastic or Glass bottles, 25 L | 1/31/2025
Microgenics Corporation | MGC MD Calibrator 2, Bulk | Kit: Glass bottles, 1 L, 2 L, 5 L, 10 L | 1/31/2025
Microgenics Corporation | MGC MD Calibrator 3, Bulk | Kit: Glass bottles, 1 L, 2 L, 5 L | 1/31/2025
Microgenics Corporation | MGC MD Calibrator 4, Bulk | Kit: Glass bottles, 1 L, 2 L, 5 L | 1/31/2025
Microgenics Corporation | Multi-Drug High Cal | Kit: 50 bottles, 5 mL each | 12/31/2024
Microgenics Corporation | Multi-Drug Intermediate Cal | Kit: 50 bottles, 5 mL each | 12/31/2024
Microgenics Corporation | Multi-Drug Secondary C/O Cal | Kit: 50 bottles, 5 mL each | 12/31/2024
Microgenics Corporation | Opiate Cal 150 ng/mL, Bulk | Kit: Glass bottles, 1 L, 2 L, 5 L, 10 L, 20 L, 45 L, Plastic or Glass bottles, 20 L, 25L, 50 L | 1/31/2025
Microgenics Corporation | Opiate Cal 500 ng/mL, Bulk | Kit: Glass bottles, 1 L, 2 L, 5 L, 10 L, 20 L, 45 L, Plastic or Glass bottles, 20 L, 25L, 50 L | 1/31/2025
Microgenics Corporation | PHENO ANTI REAG BULK PKGD | Kit: HDPE bottles, 30 mL, 125 mL, 1L, 2L, 4L, 10L and 20L | 12/31/2024
Microgenics Corporation | Phenobarbital B Mfg Cal | LDPE bottle, 2 mL | 2/7/2025
Microgenics Corporation | Phenobarbital Ctrl L2, 30.0 μg/mL Catalog number: 10016300 | Plastic bottle: 1 mL | 2/21/2025
Microgenics Corporation | Phenobarbital D Mfg Cal | LDPE bottle, 2 mL | 2/7/2025
Microgenics Corporation | Phenobarbital E Mfg Cal | LDPE bottle, 2 mL | 2/7/2025
Microgenics Corporation | Phenobarbital F Mfg Cal | LDPE bottle, 2 mL | 2/7/2025
Microgenics Corporation | Phenobarbital G Mfg Cal | LDPE bottle, 2 mL | 2/7/2025
Microgenics Corporation | Phenobarbital Open Mfg Cal | LDPE bottle, 2 mL | 2/7/2025
Microgenics Corporation | QMS Phenobarbital Stock Solution (1000 μg/mL), Catalog number: 10016300-Stock Solution | Glass bottle: 200 mL | 3/8/2025
Microgenics Corporation | Soln Methaqualone, Catalog number: 439 | Glass bottle: 20-50 mL, 50-95 mL | 3/8/2025
Microgenics Corporation | Tox Calibrators 1 | 1 amber glass bottle, 5.0 mL | 11/14/2024
Microgenics Corporation | Tox Calibrators 2 | 1 amber glass bottle, 5.0 mL | 11/14/2024
Microgenics Corporation | Tox Calibrators 3 | 1 amber glass bottle, 5.0 mL | 11/14/2024
Microgenics Corporation | Tox Controls | Kit: 6 amber glass bottles, 5.0 mL each | 11/14/2024
Microgenics Corporation | Phenobarbital C Mfg Cal | LDPE bottle, 2 mL | 2/7/2025
National Laboratory Certification Program | 000718A, 012905A, 055171A, 063438A, 068130A, 085316A, 121128A, 175711A, 192483A, 210253A, 217515A, 222244A, 248079A, 278646A, 325238A, 328497A, 354182A, 354246A, 355160A, 356320A, 363364A, 363757A, 380303A, 381668A, 387562A, 401037A, 408557A, 410499A, 415328A, 448496A, 449123A, 519251A, 519642A, 522376A, 547655A, 562034A, 570158A, 606065A, 622888A, 630470A, 639683A, 652305A, 653765A, 680431A, 680815A, 693633A, 694536A, 717152A, 721196A, 732369A, 741584A, 747266A, 747398A, 749408A, 755675A, 757987A, 771103A, 776617A, 783976A, 805349A, 811783A, 821798A, 828044A, 836281A, 836839A, 843676A, 844673A, 851522A, 851963A, 875122A, 884003A, 896624A, 907674A, 923237A, 928649A, 933498A, 954526A, 963965A, 965286A, 975329A | HDPE Bottle: 35 mL | 9/26/2024
National Laboratory Certification Program | 022041A, 574144A, 776093A, 236866A, 667335A, 122300A, 133243A, 582814A, 173210A, 494903A, 403344A, 967534A, 817917A, 583104A, 518975A, 705565A, 636277A, 687871A, 354608A, 529775A, 609079A, 408846A, 180641A, 367613A, 178246A, 826532A, 070432A, 918305A, 059949A, 905904A, 562665A, 698231A, 360083A, 596067A, 119181A, 485205A, 165152A, 499182A, 288618A, 962800A | HDPE Bottle: 35 mL | 9/26/2024
National Laboratory Certification Program | 029785A, 015754A, 316565A, 357398A, 548451A, 886582A | HDPE Bottle: 35 mL | 9/26/2024
National Laboratory Certification Program | 061784A, 194339A, 189661A, 551819A, 381364A, 492408A, 557693A, 914673A, 506399A, 889764A, 736655A, 790061A, 338396A, 055599A, 989048A, 466735A, 222621A, 490757A, 387326A, 896586A, 904430A, 555683A, 366996A, 650610A, 864763A, 396490A, 803238A, 198380A, 235827A, 626634A, 526057A, 910204A, 355372A, 968095A, 596033A, 436973A, 607863A, 979842A, 178683A, 362016A | HDPE Bottle: 35 mL | 9/26/2024
National Laboratory Certification Program | 064170B, 797653B, 412962B, 548217B, 244234B, 071176B, 184915B, 505167B, 168296B, 961418B, 143333B, 494612B, 061487B, 708316B, 969145B, 357095B, 325561B, 471657B, 142966B, 980261B, 689416B, 848926B, 736831B, 704297B, 574840B, 102054B, 120492B, 101697B, 487204B, 143294B, 211801B, 553318B, 598788B, 461245B, 899312B, 597506B, 636248B, 459922B, 434217B, 369407B | HDPE Bottle: 35 mL | 9/26/2024
National Laboratory Certification Program | 071896A, 738698A, 162758A, 628867A, 485966A, 381895A, 486488A, 621115A, 100418A, 560467A, 537730A, 675123A, 302000A, 319176A, 122942A, 760650A, 422079A, 174856A, 516231A, 418328A, 180664A, 212094A, 691136A, 634187A, 798650A, 607468A, 933752A, 309685A, 973745A, 631714A, 484426A, 491991A, 039010A, 742449A, 505428A, 193660A, 397174A, 916101A, 277264A, 901788A, 095788A, 254808A, 470171A, 348584A, 676643A, 456184A, 626407A, 972550A, 644831A, 462616A, 210020A, 684161A, 603702A, 070193A, 184527A, 668781A, 744400A, 666110A, 869799A, 361660A, 727426A, 343086A, 967674A, 677496A, 052349A, 882438A, 531211A, 842107A, 397149A, 546613A, 950308A, 412178A, 148031A, 281006A, 233765A, 086849A, 964212A, 285036A, 706582A, 921651A | HDPE Bottle: 35 mL | 9/26/2024
National Laboratory Certification Program | 088244A, 390852A, 767885A, 068525A, 255935A, 846250A, 735591A, 067657A, 906645A, 344553A, 263553A, 049657A, 060644A, 266076A, 674966A, 604279A, 800523A, 880495A, 256229A, 151789A, 521263A, 054872A, 807716A, 195465A, 629169A, 871819A, 372792A, 563962A, 327922A, 906703A, 794153A, 909053A, 677432A, 076545A, 271267A, 832254A, 339266A, 673154A, 760846A, 010754A | HDPE Bottle: 35 mL | 9/26/2024
National Laboratory Certification Program | 094116B, 293300B, 711918B, 206702B, 058773B, 086865B, 859092B, 083172B, 320107B, 511768B, 078198B, 224757B, 638817B, 102171B, 968285B, 061343B, 282275B, 108203B, 488884B, 565575B, 515142B, 872876B, 541620B, 392714B, 647098B, 545687B, 947015B, 763686B, 240956B, 720157B, 371719B, 729849B, 517531B, 866969B, 926288B, 829944B, 029886B, 476293B, 388676B, 377654B | HDPE Bottle: 35 mL | 9/26/2024
National Laboratory Certification Program | 119744B, 714619B, 617906B, 078526B, 545726B, 250445B, 023941B, 669653B, 450929B, 509333B, 765443B, 712504B, 746026B, 447405B, 282374B, 811202B, 027897B, 769393B, 850309B, 299596B, 155578B, 976835B, 568749B, 539185B, 591920B, 046272B, 974647B, 739331B, 779324B, 199132B, 874402B, 501559B, 707448B, 365793B, 014371B, 153174B, 194481B, 738028B, 702873B, 430691B | HDPE Bottle: 35 mL | 9/26/2024
National Laboratory Certification Program | 12666-137-1 | HDPE vial: 3 mL | 8/30/2024
National Laboratory Certification Program | 12666-137-2 | HDPE vial: 3 mL | 8/30/2024
National Laboratory Certification Program | 12666-137-3 | HDPE vial: 3 mL | 8/30/2024
National Laboratory Certification Program | 12666-137-4 | HDPE vial: 3 mL | 8/30/2024
National Laboratory Certification Program | 12666-138-50116 | HDPE Bottle: 35 mL | 9/26/2024
National Laboratory Certification Program | 12666-138-50117 | HDPE Bottle: 35 mL | 9/26/2024
National Laboratory Certification Program | 12666-138-50118 | HDPE Bottle: 35 mL | 9/26/2024
National Laboratory Certification Program | 12666-138-50119 | HDPE Bottle: 35 mL | 9/26/2024
National Laboratory Certification Program | 12666-138-50120 | HDPE Bottle: 35 mL | 9/26/2024
National Laboratory Certification Program | 12666-138-50121 | HDPE Bottle: 35 mL | 9/26/2024
National Laboratory Certification Program | 12666-138-50122 | HDPE Bottle: 35 mL | 9/26/2024
National Laboratory Certification Program | 12666-138-50123 | HDPE Bottle: 35 mL | 9/26/2024
National Laboratory Certification Program | 12666-138-50124 | HDPE Bottle: 35 mL | 9/26/2024
National Laboratory Certification Program | 12666-138-50125 | HDPE Bottle: 35 mL | 9/26/2024
National Laboratory Certification Program | 12666-138-50126 | HDPE Bottle: 35 mL | 9/26/2024
National Laboratory Certification Program | 12666-138-50127 | HDPE Bottle: 35 mL | 9/26/2024
National Laboratory Certification Program | 143577B, 799259B, 093385B, 121120B, 438445B, 471889B, 991482B, 560436B, 836494B, 539974B, 924798B, 514778B, 641654B, 147648B, 152331B, 356699B, 570667B, 965507B, 901785B, 135162B, 059452B, 256002B, 760044B, 734275B, 176441B, 684137B, 992293B, 874538B, 264824B, 926899B, 213753B, 760096B, 067995B, 508265B, 024058B, 036096B, 853550B, 353999B, 344790B, 319449B | HDPE Bottle: 35 mL | 9/26/2024
National Laboratory Certification Program | 195240A, 583132A, 798201A, 354003A, 343313A, 456082A, 295619A, 262262A, 551488A, 638235A, 261743A, 659970A, 452715A, 644740A, 262302A, 546894A, 266208A, 992334A, 011117A, 291553A, 382182A, 652636A, 810757A, 493373A, 837686A, 270696A, 005147A, 694928A, 685113A, 857447A, 877303A, 098929A, 724951A, 811385A, 929113A, 056468A, 415085A, 280862A, 311761A, 875578A | HDPE Bottle: 35 mL | 9/26/2024
National Laboratory Certification Program | 199520A, 094981A, 322415A, 856139A, 431145A, 659912A, 942470A, 926998A, 452327A, 623295A, 382796A, 295745A, 929287A, 756595A, 124067A, 709458A, 468807A, 865610A, 636066A, 508274A, 441193A, 647996A, 007783A, 732696A, 766812A, 101606A, 188098A, 250596A, 723373A, 331958A, 655064A, 146544A, 065838A, 921011A, 103522A, 860803A, 933625A, 420134A, 343593A, 062577A, 292077A, 235404A, 541106A, 551787A, 570886A, 425638A, 075016A, 576222A, 759335A, 675646A, 541882A, 118515A, 019289A, 174413A, 374752A, 503427A, 536203A, 775106A, 598921A, 906865A, 473428A, 230039A, 796412A, 789095A, 884553A, 538050A, 557987A, 225378A, 399430A, 673730A, 433914A, 616604A, 047330A, 594539A, 086065A, 051332A, 723643A, 099292A, 867669A, 862270A | HDPE Bottle: 35 mL | 9/26/2024
National Laboratory Certification Program | 205692A, 947645A, 561795A, 868710A, 895563A, 311983A, 684123A, 577895A, 677176A, 085339A, 451281A, 600437A, 095991A, 120950A, 212630A, 182631A, 133511A, 494828A, 116226A, 438460A, 879618A, 549558A, 963202A, 066725A, 127635A, 966618A, 461241A, 141443A, 061160A, 443286A, 852760A, 653120A, 636117A, 281034A, 249657A, 465677A, 324641A, 835960A, 039915A, 582170A, 032940A, 506950A, 629038A, 578845A, 668140A, 120799A, 656572A, 203936A, 759329A, 252866A, 214259A, 930199A, 693853A, 975852A, 814744A, 595529A, 435299A, 472832A, 060720A, 992323A, 492399A, 847678A, 658737A, 537709A, 547528A, 434153A, 764180A, 512856A, 736913A, 161889A, 846940A, 131176A, 453625A, 391821A, 037501A, 908110A, 213626A, 649773A, 775467A, 943366A | HDPE Bottle: 35 mL | 9/26/2024
National Laboratory Certification Program | 208697A, 958664A, 665411A, 525201A, 944352A, 317706A, 076997A, 789313A, 039045A, 518163A, 874328A, 707605A, 981698A, 337020A, 789572A, 651667A, 165169A, 169817A, 150597A, 846114A, 978071A, 009046A, 193892A, 329614A, 397050A, 733497A, 061486A, 560885A, 911337A, 063750A, 516680A, 795600A, 193172A, 366754A, 093631A, 221085A, 565141A, 302113A, 857199A, 335331A | HDPE Bottle: 35 mL | 9/26/2024
National Laboratory Certification Program | 213539B, 849833B, 736932B, 269990B, 559402B, 151254B, 573727B, 706633B, 918997B, 928989B, 639569B, 415429B, 924360B, 655446B, 606345B, 042867B, 076302B, 658286B, 324872B, 756652B, 358497B, 697763B, 486870B, 685073B, 968034B, 794563B, 316013B, 640387B, 994323B, 946440B, 819193B, 637565B, 085291B, 310301B, 251180B, 820740B, 581333B, 824906B, 519913B, 063500B | HDPE Bottle: 35 mL | 9/26/2024
National Laboratory Certification Program | 216598B, 511557B, 129873B, 984529B, 791433B, 910329B, 215984B, 919950B, 545898B, 464547B, 425834B, 741229B, 046563B, 867100B, 086018B, 357686B, 514656B, 275065B, 526444B, 654570B, 013035B, 508619B, 408970B, 415631B, 849142B, 248594B, 985171B, 908129B, 059598B, 448175B, 924282B, 643199B, 362562B, 807526B, 247387B, 285719B, 053769B, 153415B, 052574B, 052922B | HDPE Bottle: 35 mL | 9/26/2024
National Laboratory Certification Program | 220918A, 801943A, 058750A, 057923A, 173734A, 848934A, 027801A, 251961A, 952140A, 244386A, 865185A, 548476A, 757993A, 388102A, 642628A, 380665A, 964586A, 978731A, 068770A, 438998A, 748624A, 238146A, 373755A, 701857A, 383049A, 648224A, 139929A, 516257A, 147923A, 077702A, 600061A, 736555A, 142864A, 394947A, 824932A, 934376A, 692499A, 377413A, 634076A, 283111A | HDPE Bottle: 35 mL | 9/26/2024
National Laboratory Certification Program | 234633B, 063632B, 042542B, 415938B, 423019B, 481728B, 164443B, 043122B, 182585B, 942405B, 599964B, 833373B, 654815B, 989848B, 234123B, 434914B, 591198B, 139151B, 655393B, 160632B, 601388B, 598847B, 361333B, 997285B, 368094B, 221654B, 178107B, 270868B, 910224B, 295255B, 719350B, 101064B, 835606B, 264147B, 304977B, 135684B, 565253B, 640734B, 732726B, 732057B | HDPE Bottle: 35 mL | 9/26/2024
National Laboratory Certification Program | 234841A, 686901A, 497014A, 584045A, 135220A, 031423A, 135199A, 287937A, 510562A, 618064A, 824570A, 523425A, 492133A, 678635A, 886050A, 056382A, 849263A, 439797A, 801458A, 634414A, 451369A, 021709A, 852517A, 050423A, 193273A, 434154A, 205976A, 292909A, 111547A, 588991A, 495191A, 728492A, 894995A, 672391A, 239398A, 536999A, 718102A, 303526A, 504703A, 356615A | HDPE Bottle: 35 mL | 9/26/2024
National Laboratory Certification Program | 235226A, 031501A, 908819A, 667349A, 240456A, 553253A, 262737A, 476080A, 697307A, 782987A, 360488A, 459877A, 244962A, 459785A, 244595A, 180257A, 696614A, 584291A, 853534A, 134309A, 002583A, 727444A, 424460A, 234159A, 685630A, 830219A, 617429A, 800499A, 205237A, 996549A, 004901A, 719589A, 997721A, 980196A, 476463A, 078158A, 244578A, 108081A, 757403A, 170063A | HDPE Bottle: 35 mL | 9/26/2024
National Laboratory Certification Program | 238827A, 713504A, 334914A, 738751A, 304789A, 690442A, 534737A, 739550A, 359253A, 049100A, 807777A, 493363A, 078776A, 220749A, 757113A, 831970A, 255711A, 156692A, 959464A, 652661A, 652377A, 978738A, 814437A, 408037A, 842941A, 363931A, 270858A, 843299A, 225213A, 151466A, 833355A, 526739A, 382514A, 801679A, 874345A, 123168A, 847772A, 712155A, 387484A, 771334A | HDPE Bottle: 35 mL | 9/26/2024
National Laboratory Certification Program | 248102B, 225880B, 991115B, 564129B, 801575B, 351367B, 167845B, 274621B, 935230B, 492227B, 821096B, 256953B, 164998B, 936724B, 266692B, 505693B, 213378B, 598379B, 706366B, 395035B, 485667B, 500569B, 434517B, 293429B, 218660B, 991321B, 166433B, 447133B, 159166B, 253134B, 695451B, 205553B, 438265B, 997389B, 407101B, 390643B, 429460B, 102719B, 258239B, 081403B | HDPE Bottle: 35 mL | 9/26/2024
National Laboratory Certification Program | 251317A, 085429A, 631672A, 567133A, 160346A, 571038A | HDPE Bottle: 35 mL | 9/26/2024
National Laboratory Certification Program | 267445B, 083600B, 270242B, 080350B, 189119B, 460788B, 321596B, 389795B, 142499B, 263158B, 869786B, 481704B, 417703B, 996614B, 901544B, 823781B, 913995B, 272803B, 329979B, 730982B, 269804B, 561411B, 181191B, 999602B, 030439B, 606741B, 952469B, 894968B, 409934B, 422201B, 252076B, 151145B, 195376B, 005113B, 302961B, 648446B, 346220B, 993603B, 284039B, 659901B | HDPE Bottle: 35 mL | 9/26/2024
National Laboratory Certification Program | 269236B, 635539B, 645427B, 598623B, 565834B, 412129B, 064548B, 422262B, 966190B, 948255B, 892986B, 201068B, 595557B, 163589B, 382191B, 879855B, 992157B, 159473B, 351375B, 345887B, 019611B, 447783B, 122839B, 515141B, 994305B, 097267B, 651778B, 239079B, 463034B, 050232B, 623767B, 198710B, 758350B, 729010B, 898522B, 562481B, 885074B, 477698B, 800906B, 486195B | HDPE Bottle: 35 mL | 9/26/2024
National Laboratory Certification Program | 270273A, 920402A, 898537A, 525995A, 074757A, 533870A | HDPE Bottle: 35 mL | 9/26/2024
National Laboratory Certification Program | 280225B, 903186B, 515891B, 703161B, 536950B, 987785B, 599297B, 121517B, 155176B, 251861B, 411589B, 284451B, 435991B, 291044B, 956274B, 118987B, 215969B, 906209B, 488138B, 395963B, 954769B, 942414B, 154061B, 088409B, 236936B, 361460B, 110573B, 674298B, 538435B, 944128B, 197648B, 486630B, 121170B, 581820B, 969606B, 815833B, 043957B, 567342B, 837642B, 148438B | HDPE Bottle: 35 mL | 9/26/2024
National Laboratory Certification Program | 305205A, 924568A, 574861A, 091545A, 222641A, 507037A, 378915A, 799350A, 078648A, 607260A, 871950A, 298947A, 151508A, 375433A, 248263A, 325842A, 654744A, 368993A, 881677A, 528635A, 772325A, 552937A, 017415A, 672532A, 299078A, 707245A, 261816A, 510831A, 052007A, 680106A, 845519A, 704455A, 899343A, 174600A, 008652A, 392481A, 474155A, 718700A, 014954A, 574000A, 931359A, 141795A, 665919A, 812384A, 374834A, 403003A, 124868A, 396697A, 575804A, 726119A, 705250A, 194106A, 455846A, 166203A, 079705A, 305892A, 807980A, 818027A, 409846A, 642986A, 845322A, 197358A, 277002A, 987619A, 492911A, 521358A, 461204A, 424404A, 431784A, 692158A, 912640A, 677616A, 140328A, 741009A, 624048A, 635483A, 248738A, 044302A, 292856A, 693807A, 644946A, 170313A, 116077A, 445331A, 410936A, 452272A, 520942A, 839348A, 587861A, 364866A, 941560A, 505146A, 814148A, 556418A, 653915A, 391647A, 497705A, 131588A, 914101A, 545108A, 174717A, 452072A, 826421A, 052530A, 354363A, 851170A, 569432A, 675213A, 109726A, 967708A, 777433A, 216538A, 006246A, 101764A, 184261A, 078429A, 366075A, 378232A, 242676A, 333276A | HDPE Bottle: 35 mL | 9/26/2024
National Laboratory Certification Program | 328318B, 658418B, 741696B, 483925B, 717800B, 599516B, 682981B, 429666B, 673499B, 741103B, 405827B, 156681B, 460238B, 144499B, 776102B, 137370B, 411010B, 003508B, 422392B, 772293B, 386378B, 695642B, 766665B, 613922B, 977632B, 457684B, 709248B, 917255B, 904298B, 805678B, 416272B, 923565B, 799115B, 108259B, 310564B, 390011B, 004897B, 825167B, 605563B, 296176B | HDPE Bottle: 35 mL | 9/26/2024
National Laboratory Certification Program | 330134B, 820997B, 972709B, 093910B, 168744B, 126626B, 919252B, 615375B, 112889B, 792519B, 856940B, 878648B, 417834B, 725101B, 031429B, 050628B, 221525B, 845524B, 094572B, 666403B, 818434B, 332692B, 672222B, 794075B, 358298B, 431858B, 523348B, 144518B, 231695B, 735019B, 947530B, 532648B, 458327B, 652951B, 322233B, 048270B, 550195B, 486311B, 358118B, 344962B | HDPE Bottle: 35 mL | 9/26/2024
National Laboratory Certification Program | 338071B, 064825B, 805660B, 283460B, 114780B, 793452B, 706960B, 890744B, 793780B, 738817B, 891721B, 317564B, 433943B, 706984B, 623035B, 438792B, 232976B, 613841B, 047895B, 317928B, 355230B, 285377B, 548584B, 893246B, 113285B, 765228B, 792518B, 747696B, 682245B, 319987B, 496399B, 565573B, 897469B, 929907B, 879616B, 395623B, 092927B, 044458B, 181085B, 885669B | HDPE Bottle: 35 mL | 9/26/2024
National Laboratory Certification Program | 339271A, 017612A, 072852A, 427340A, 237442A, 826714A | HDPE Bottle: 35 mL | 9/26/2024
National Laboratory Certification Program | 344382A, 899856A, 610378A, 363819A, 536531A, 989518A, 573298A, 705158A, 520485A, 579396A, 225383A, 771170A, 380225A, 567161A, 609254A, 321306A, 404053A, 597933A, 428386A, 933764A, 940596A, 612222A, 694392A, 300298A, 271961A, 916008A, 830416A, 849047A, 021941A, 770126A, 726795A, 734216A, 069719A, 521375A, 043524A, 583734A, 989067A, 061255A, 858801A, 415302A | HDPE Bottle: 35 mL | 9/26/2024
National Laboratory Certification Program | 354167B, 139880B, 207844B, 451329B, 239294B, 890966B, 039273B, 423270B, 095815B, 810080B, 836308B, 009969B, 862462B, 814488B, 106875B, 290350B, 411496B, 843550B, 079168B, 749199B, 058112B, 569820B, 922487B, 606779B, 512065B, 277793B, 682131B, 804816B, 010978B, 517970B, 402366B, 904445B, 680250B, 421326B, 799045B, 796423B, 038045B, 744598B, 789740B, 697653B | HDPE Bottle: 35 mL | 9/26/2024
National Laboratory Certification Program | 364237A, 871321A, 155458A, 189540A, 916154A, 020376A, 993918A, 844746A, 926890A, 770022A, 200113A, 040014A, 089368A, 968372A, 329202A, 050769A, 917538A, 295716A, 851668A, 778593A, 555590A, 782957A, 779770A, 821202A, 814435A, 329225A, 836964A, 410732A, 103053A, 388991A, 083442A, 181350A, 002351A, 303657A, 641302A, 206431A, 168599A, 101381A, 472444A, 929958A | HDPE Bottle: 35 mL | 9/26/2024
National Laboratory Certification Program | 382083A, 948773A, 174246A, 776054A, 374081A, 599225A, 731417A, 171365A, 577048A, 547689A, 498920A, 006523A, 159494A, 606309A, 137721A, 943041A, 914381A, 856018A, 702053A, 795801A, 166847A, 388556A, 285142A, 629136A, 309282A, 632165A, 127284A, 160923A, 152888A, 443335A, 926664A, 531138A, 219567A, 991768A, 570469A, 852567A, 525996A, 456480A, 108337A, 960380A | HDPE Bottle: 35 mL | 9/26/2024
National Laboratory Certification Program | 384063A, 976238A, 065225A, 033858A, 473112A, 219016A, 735286A, 331560A, 237453A, 193219A, 766123A, 815704A, 131597A, 403310A, 733319A, 004090A, 527923A, 774704A, 315910A, 289536A, 131899A, 527435A, 060560A, 556475A, 734940A, 152244A, 044790A, 363907A, 275190A, 752752A, 457237A, 206422A, 069371A, 036353A, 524930A, 010022A, 880633A, 302292A, 780678A, 724207A | HDPE Bottle: 35 mL | 9/26/2024
National Laboratory Certification Program | 385024A, 606281A, 617225A, 685513A, 366326A, 662075A, 067365A, 363029A, 286531A, 005660A, 406841A, 640466A, 352344A, 872410A, 432043A, 210970A, 708388A, 822163A, 991662A, 542942A, 584902A, 008437A, 720057A, 000348A, 369267A, 300435A, 458210A, 222047A, 612432A, 939739A, 672761A, 979645A, 328975A, 846179A, 206349A, 955517A, 040481A, 628774A, 268944A, 373463A | HDPE Bottle: 35 mL | 9/26/2024
National Laboratory Certification Program | 389504B, 038684B, 403905B, 449522B, 418600B, 658956B, 749112B, 077442B, 443505B, 435959B, 870866B, 534579B, 171892B, 409215B, 879375B, 132613B, 419578B, 027363B, 651179B, 389971B, 681629B, 321616B, 992641B, 361204B, 858597B, 038408B, 688320B, 777651B, 148862B, 904981B, 053631B, 233527B, 192479B, 520014B, 194085B, 486558B, 549414B, 478068B, 404311B, 513466B | HDPE Bottle: 35 mL | 9/26/2024
National Laboratory Certification Program | 395466A, 273290A, 856456A, 297857A, 640702A, 420026A, 973661A, 615561A, 560322A, 600718A, 267904A, 735140A, 091660A, 210641A, 159028A, 536278A, 850022A, 194060A, 067268A, 244651A, 958214A, 820854A, 744431A, 793155A, 886676A, 033108A, 965182A, 799207A, 711401A, 075680A, 610688A, 541866A, 747074A, 252805A, 035131A, 770217A, 869817A, 585298A, 972655A, 649192A | HDPE Bottle: 35 mL | 9/26/2024
National Laboratory Certification Program | 396686A, 937563A, 562704A, 290552A, 280994A, 280286A, 276604A, 625763A, 144999A, 020516A, 279188A, 691263A, 832556A, 552096A, 961012A, 957415A, 789968A, 695966A, 129925A, 922385A, 320230A, 498902A, 827692A, 952114A, 933762A, 245039A, 080778A, 991785A, 443845A, 671541A, 799781A, 540787A, 797074A, 015920A, 351471A, 852391A, 842353A, 013274A, 777556A, 441133A | HDPE Bottle: 35 mL | 9/26/2024
National Laboratory Certification Program | 405664A, 067437A, 418938A, 852121A, 563445A, 781129A | HDPE Bottle: 35 mL | 9/26/2024
National Laboratory Certification Program | 409383A, 137119A, 369769A, 552199A, 377041A, 090118A, 545765A, 082758A, 291679A, 544938A, 339392A, 832733A, 175369A, 342327A, 671066A, 987026A, 267761A, 628130A, 339855A, 391502A, 902020A, 072481A, 339265A, 193979A, 538995A, 349770A, 446543A, 555868A, 924272A, 096791A, 206861A, 760519A, 019384A, 468732A, 063049A, 851716A, 248011A, 556284A, 795677A, 224152A | HDPE Bottle: 35 mL | 9/26/2024
National Laboratory Certification Program | 410082A, 055080A, 051735A, 492193A, 033125A, 735417A, 182197A, 811543A, 387382A, 806305A, 771328A, 411813A, 005198A, 313322A, 607871A, 570613A, 569554A, 996975A, 194891A, 952288A, 484655A, 694372A, 871528A, 843098A, 532148A, 445605A, 926855A, 746240A, 586515A, 824569A, 412960A, 098009A, 713503A, 533029A, 444866A, 028764A, 770443A, 239106A, 169593A, 026052A | HDPE Bottle: 35 mL | 9/26/2024
National Laboratory Certification Program | 415752A, 648968A, 168572A, 758495A, 812285A, 276780A, 349725A, 214936A, 925237A, 404054A, 669061A, 823300A, 431947A, 290548A, 136299A, 780514A, 740748A, 353440A, 551563A, 672474A, 541532A, 662655A, 838311A, 321958A, 768519A, 330339A, 561711A, 192270A, 758266A, 637111A, 407222A, 130090A, 469728A, 055908A, 092031A, 641185A, 382345A, 017475A, 227121A, 423638A | HDPE Bottle: 35 mL | 9/26/2024
National Laboratory Certification Program | 421599A, 718906A, 805113A, 970351A, 947287A, 797855A, 760376A, 508768A, 072847A, 542771A, 269239A, 309836A, 521692A, 700912A, 867476A, 121163A, 550904A, 877894A, 512214A, 648986A, 566575A, 945969A, 809178A, 465352A, 578983A, 429305A, 075420A, 934144A, 743027A, 127186A, 894657A, 027427A, 408971A, 264669A, 439592A, 134808A, 596992A, 924033A, 742016A, 398226A, 416854A, 359146A, 426284A, 906877A, 577758A, 489967A, 791391A, 942962A, 944837A, 207742A, 567127A, 900851A, 326456A, 776087A, 543415A, 021952A, 075598A, 586760A, 167094A, 087383A, 602718A, 235254A, 690452A, 732872A, 318451A, 645834A, 477632A, 479481A, 927358A, 252565A, 444806A, 848110A, 397866A, 585429A, 922038A, 971378A, 982884A, 519992A, 494966A, 931262A | HDPE Bottle: 35 mL | 9/26/2024
National Laboratory Certification Program | 433237A, 443175A, 138062A, 200301A, 358944A, 142559A, 397578A, 253912A, 246761A, 318617A, 180175A, 000519A, 055378A, 899834A, 645198A, 359930A, 172363A, 806018A, 827025A, 374474A, 892580A, 598073A, 196699A, 000806A, 720081A, 057715A, 231785A, 073149A, 830336A, 745368A, 645353A, 767710A, 845341A, 500728A, 260425A, 979247A, 241846A, 289766A, 761019A, 529824A | HDPE Bottle: 35 mL | 9/26/2024
National Laboratory Certification Program | 445689A, 059226A, 720400A, 156603A, 392846A, 867132A, 767469A, 277340A, 479810A, 379555A, 773287A, 330400A, 527790A, 857861A, 966960A, 317125A, 859992A, 726599A, 406081A, 522045A, 677873A, 809605A, 476493A, 331305A, 621271A, 759189A, 414311A, 900920A, 989788A, 210404A, 528174A, 879809A, 324506A, 904980A, 551185A, 085143A, 543418A, 247277A, 532448A, 621985A | HDPE Bottle: 35 mL | 9/26/2024
National Laboratory Certification Program | 453164A, 625024A, 750548A, 722931A, 759883A, 786365A, 724878A, 162605A, 393428A, 341180A, 842084A, 524094A, 321298A, 893449A, 622920A, 999487A, 877122A, 846862A, 582923A, 607833A, 420011A, 324266A, 234165A, 363482A, 057365A, 060485A, 062471A, 538556A, 954046A, 763566A, 074558A, 474845A, 165851A, 604880A, 202782A, 180142A, 935828A, 486891A, 673971A, 858392A | HDPE Bottle: 35 mL | 9/26/2024
National Laboratory Certification Program | 457290A, 585133A, 621255A, 963013A, 522378A, 801211A, 626932A, 808133A, 106640A, 813489A, 916421A, 953739A, 041734A, 549715A, 236713A, 428672A, 691182A, 363319A, 689184A, 950763A, 490461A, 191244A, 221267A, 805428A, 720265A, 616941A, 305242A, 402272A, 696783A, 582560A, 162319A, 104781A, 416225A, 355989A, 009091A, 845116A, 755383A, 028025A, 909347A, 500865A | HDPE Bottle: 35 mL | 9/26/2024
National Laboratory Certification Program | 459223A, 103080A, 988769A, 783475A, 528828A, 544224A, 900556A, 471477A, 277751A, 083259A, 574350A, 815550A, 267293A, 835306A, 101375A, 604918A, 390113A, 900872A, 775907A, 519167A, 525951A, 539726A, 843758A, 173733A, 576569A, 699878A, 165852A, 448926A, 531381A, 750173A, 302833A, 844290A, 878986A, 247973A, 732125A, 609241A, 343479A, 228751A, 632608A, 567028A | HDPE Bottle: 35 mL | 9/26/2024
National Laboratory Certification Program | 465370A, 190044A, 676072A, 335926A, 771391A, 178103A, 569709A, 196142A, 915781A, 871922A, 655563A, 006333A, 105904A, 565820A, 747246A, 043535A, 888489A, 569907A, 504211A, 777489A, 237612A, 465013A, 756475A, 182322A, 332255A, 473681A, 454528A, 245209A, 271257A, 554078A, 787801A, 735918A, 261097A, 413922A, 579318A, 357350A, 069155A, 766655A, 558174A, 558018A | HDPE Bottle: 35 mL | 9/26/2024
National Laboratory Certification Program | 465821B, 303354B, 926227B, 866606B, 949407B, 918032B, 236577B, 347183B, 901037B, 530254B, 087840B, 319781B, 145109B, 110905B, 081642B, 910018B, 720403B, 759992B, 576347B, 420063B, 415362B, 919092B, 365273B, 615675B, 908858B, 381318B, 218080B, 859879B, 840017B, 142331B, 397666B, 026523B, 131357B, 096982B, 990436B, 937660B, 885097B, 356935B, 649588B, 055631B | HDPE Bottle: 35 mL | 9/26/2024
National Laboratory Certification Program | 490805B, 040895B, 735510B, 966157B, 408532B, 177631B, 765818B, 634285B, 596135B, 270304B, 975809B, 545079B, 664832B, 455754B, 994109B, 478592B, 292327B, 127720B, 054527B, 463950B, 727844B, 568843B, 567483B, 771869B, 504841B, 384676B, 567566B, 578866B, 857073B, 492772B, 859722B, 944543B, 209488B, 683911B, 848327B, 034485B, 153926B, 046872B, 615712B, 738030B | HDPE Bottle: 35 mL | 9/26/2024
National Laboratory Certification Program | 496885A, 467575A, 208577A, 114727A, 684697A, 292847A, 911893A, 046896A, 683861A, 568333A, 867863A, 371044A, 496345A, 210848A, 323358A, 153856A, 671328A, 203743A, 105905A, 747934A, 397312A, 841675A, 353211A, 597469A, 997060A, 025955A, 574141A, 875416A, 524182A, 255027A, 440852A, 575555A, 044159A, 577027A, 477220A, 442452A, 361751A, 001067A, 212923A, 340312A, 793122A, 257484A, 089407A, 797381A, 055325A, 649946A, 739048A, 368191A, 921125A, 128338A, 417194A, 442164A, 092424A, 002362A, 952157A, 129750A, 656900A, 204748A, 215117A, 647760A, 275061A, 177307A, 271090A, 268068A, 213765A, 265318A, 363540A, 915824A, 839471A, 663935A, 196876A, 000096A, 889022A, 238958A, 929991A, 473051A, 676899A, 103540A, 108199A, 632206A | HDPE Bottle: 35 mL | 9/26/2024
National Laboratory Certification Program | 497439A, 516906A, 490240A, 196978A, 095838A, 947798A, 980911A, 489751A, 017095A, 470486A, 025281A, 514506A, 231063A, 912132A, 152093A, 594069A, 547300A, 415707A, 269944A, 303175A, 953226A, 525601A, 920349A, 203781A, 427155A, 804957A, 872149A, 518322A, 761128A, 176828A, 272806A, 877542A, 494060A, 418604A, 311756A, 415948A, 080398A, 788865A, 464873A, 454030A | HDPE Bottle: 35 mL | 9/26/2024
National Laboratory Certification Program | 516260B, 734096B, 718735B, 955813B, 541796B, 272103B, 634517B, 898179B, 517235B, 154309B, 772462B, 049803B, 467731B, 010009B, 809809B, 033437B, 950356B, 387136B, 646263B, 798961B, 272989B, 044963B, 156784B, 776672B, 628922B, 251129B, 073204B, 752102B, 434713B, 585583B, 622419B, 687017B, 463557B, 237783B, 702543B, 559441B, 266690B, 231125B, 532160B, 940774B | HDPE Bottle: 35 mL | 9/26/2024
National Laboratory Certification Program | 522897A, 961598A, 182080A, 952431A, 788220A, 611599A, 424155A, 605745A, 250728A, 184777A, 569227A, 929830A, 917292A, 863394A, 766135A, 307740A, 736801A, 421620A, 068907A, 918600A, 883631A, 801946A, 517743A, 930706A, 344533A, 923348A, 413974A, 585433A, 965939A, 650417A, 472617A, 075207A, 267124A, 383401A, 214216A, 497242A, 846449A, 534068A, 659020A, 802859A | HDPE Bottle: 35 mL | 9/26/2024
National Laboratory Certification Program | 523925A, 467152A, 069674A, 343150A, 083404A, 914828A, 797309A, 205943A, 541453A, 303036A, 695585A, 967368A, 376600A, 841285A, 094737A, 113806A, 919087A, 507535A, 492826A, 632144A, 291300A, 905692A, 214599A, 091097A, 834755A, 116161A, 363422A, 330163A, 047562A, 859024A, 045949A, 955634A, 194833A, 847751A, 110501A, 051328A, 343223A, 953926A, 036549A, 727064A | HDPE Bottle: 35 mL | 9/26/2024
National Laboratory Certification Program | 537084A, 170561A, 622141A, 725545A, 603023A, 251970A, 775159A, 071056A, 819475A, 626210A, 393137A, 953491A, 368050A, 985675A, 073904A, 946734A, 904085A, 704025A, 819561A, 840009A, 638237A, 775499A, 515364A, 504751A, 805251A, 105445A, 790574A, 496222A, 664114A, 919263A, 464192A, 389926A, 754882A, 383464A, 382863A, 995784A, 435966A, 139303A, 592564A, 414435A | HDPE Bottle: 35 mL | 9/26/2024
National Laboratory Certification Program | 563063A, 043319A, 523760A, 187184A, 907164A, 656370A, 624273A, 357032A, 071854A, 166195A, 104361A, 087452A, 242488A, 739548A, 929511A, 505407A, 924819A, 090574A, 672713A, 154407A, 664422A, 514252A, 015881A, 197947A, 934315A, 579156A, 419132A, 933738A, 952162A, 797221A, 302093A, 411934A, 920288A, 190412A, 895805A, 520302A, 309826A, 009602A, 255467A, 517094A | HDPE Bottle: 35 mL | 9/26/2024
National Laboratory Certification Program | 563532A, 705550A, 610240A, 861710A, 836164A, 561580A | HDPE Bottle: 35 mL | 9/26/2024
National Laboratory Certification Program | 563846A, 602975A, 874362A, 798040A, 925071A, 615346A, 544372A, 435116A, 742733A, 175864A, 665713A, 869490A, 825735A, 679083A, 886070A, 862060A, 962423A, 626414A, 977493A, 910027A, 336213A, 090720A, 362106A, 245813A, 888988A, 953008A, 937363A, 728382A, 774520A, 753309A, 980968A, 748703A, 474826A, 863568A, 788165A, 025921A, 474100A, 356664A, 912178A, 626573A | HDPE Bottle: 35 mL | 9/26/2024
National Laboratory Certification Program | 579454A, 290031A, 835514A, 492957A, 772621A, 787390A | HDPE Bottle: 35 mL | 9/26/2024
National Laboratory Certification Program | 582298B, 781988B, 153566B, 853318B, 506120B, 527710B, 329414B, 496296B, 335104B, 012775B, 736358B, 597101B, 918135B, 073054B, 104048B, 267021B, 980207B, 228292B, 926426B, 100208B, 608757B, 327445B, 381564B, 389253B, 043905B, 775986B, 414042B, 604407B, 418082B, 471849B, 370957B, 204332B, 103377B, 229347B, 792140B, 572362B, 098139B, 350358B, 179431B, 023912B | HDPE Bottle: 35 mL | 9/26/2024
National Laboratory Certification Program | 589100B, 856381B, 810293B, 725251B, 464908B, 464928B, 073186B, 008493B, 115895B, 279910B, 007433B, 507434B, 733259B, 799345B, 472500B, 290914B, 212083B, 593112B, 150101B, 828096B, 220366B, 724674B, 726382B, 117565B, 614319B, 550047B, 507725B, 971857B, 668220B, 858424B, 370318B, 192464B, 400271B, 055457B, 747119B, 818560B, 610242B, 633967B, 095571B, 388220B | HDPE Bottle: 35 mL | 9/26/2024
National Laboratory Certification Program | 609902A, 546534A, 889953A, 810424A, 781323A, 149638A, 983466A, 025814A, 311924A, 155935A, 705258A, 429274A, 047130A, 536853A, 857741A, 338288A, 753952A, 505078A, 045168A, 810225A, 232977A, 659437A, 408353A, 201999A, 950563A, 259899A, 385723A, 376260A, 869580A, 377619A, 033385A, 776776A, 935691A, 378058A, 579569A, 186212A, 961008A, 220933A, 767887A, 111721A | HDPE Bottle: 35 mL | 9/26/2024
National Laboratory Certification Program | 611862B, 382729B, 399562B, 212228B, 845729B, 811612B, 710275B, 115257B, 085650B, 054776B, 195410B, 725018B, 818494B, 709075B, 735297B, 080303B, 687405B, 855660B, 421334B, 840784B, 787495B, 579225B, 952700B, 451180B, 485824B, 226145B, 799020B, 390372B, 000587B, 574668B, 017184B, 843794B, 679202B, 613408B, 239659B, 890707B, 728272B, 489418B, 525592B, 066349B | HDPE Bottle: 35 mL | 9/26/2024
National Laboratory Certification Program | 632952A, 048631A, 422336A, 115270A, 078787A, 440137A | HDPE Bottle: 35 mL | 9/26/2024
National Laboratory Certification Program | 638508B, 454250B, 846395B, 992883B, 776828B, 439894B, 028356B, 830554B, 428473B, 254217B, 749079B, 250607B, 907591B, 112925B, 911019B, 467147B, 458258B, 466617B, 330022B, 591107B, 417321B, 573826B, 531087B, 625198B, 541976B, 292984B, 974554B, 775432B, 408585B, 969286B, 141510B, 647523B, 829921B, 898650B, 787906B, 246056B, 879460B, 415453B, 953930B, 375142B | HDPE Bottle: 35 mL | 9/26/2024
National Laboratory Certification Program | 648454B, 727008B, 951124B, 133287B, 558627B, 406406B, 339659B, 780360B, 310280B, 213575B, 021272B, 366564B, 361151B, 465756B, 896803B, 608505B, 017120B, 999497B, 604125B, 745406B, 249450B, 542417B, 879896B, 782232B, 897791B, 677082B, 274900B, 808551B, 125879B, 945822B, 375479B, 033167B, 358898B, 289869B, 933725B, 551836B, 982591B, 654020B, 894882B, 467723B | HDPE Bottle: 35 mL | 9/26/2024
National Laboratory Certification Program | 653229A, 669672A, 864663A, 592926A, 833276A, 979812A, 680496A, 458571A, 456875A, 719828A, 579306A, 676149A, 878564A, 813188A, 329353A, 934653A, 104833A, 676090A, 074352A, 007431A, 639482A, 013896A, 106965A, 471703A, 999057A, 827276A, 293572A, 323327A, 013878A, 956847A, 134887A, 733723A, 007798A, 605732A, 429964A, 109462A, 227541A, 959374A, 061737A, 511938A | HDPE Bottle: 35 mL | 9/26/2024
National Laboratory Certification Program | 666586A, 180120A, 884805A, 122475A, 556659A, 326966A | HDPE Bottle: 35 mL | 9/26/2024
National Laboratory Certification Program | 673073A, 208756A, 758401A, 482749A, 857169A, 096721A | HDPE Bottle: 35 mL | 9/26/2024
National Laboratory Certification Program | 681057A, 338579A, 942716A, 882314A, 888456A, 693124A, 648839A, 618305A, 588590A, 587551A, 026677A, 265340A, 777370A, 476633A, 146657A, 315994A, 741585A, 107867A, 521815A, 650879A, 191502A, 737163A, 584247A, 326399A, 920620A, 083015A, 260235A, 425876A, 224461A, 391818A, 622174A, 131829A, 519954A, 954067A, 563190A, 394804A, 453034A, 208313A, 468748A, 960312A | HDPE Bottle: 35 mL | 9/26/2024
National Laboratory Certification Program | 690418A, 012867A, 370298A, 649445A, 956073A, 221355A, 158685A, 031057A, 966613A, 190677A, 464198A, 558355A, 340350A, 167284A, 021561A, 088956A, 576129A, 948243A, 068106A, 882125A, 052761A, 338949A, 664793A, 929028A, 678775A, 598808A, 370837A, 610746A, 097456A, 372354A, 106371A, 278934A, 338257A, 289330A, 524353A, 847750A, 437913A, 560057A, 180882A, 709537A | HDPE Bottle: 35 mL | 9/26/2024
National Laboratory Certification Program | 707841A, 186776A, 358509A, 614227A, 892846A, 924361A, 273103A, 801357A, 456701A, 065962A, 346229A, 867447A, 050342A, 474661A, 065346A, 427716A, 334331A, 285760A, 111876A, 241391A, 019606A, 528376A, 022340A, 386743A, 602374A, 226852A, 417929A, 274904A, 933304A, 760206A, 600592A, 290178A, 566965A, 049971A, 475058A, 188093A, 040181A, 137745A, 369345A, 614453A | HDPE Bottle: 35 mL | 9/26/2024
National Laboratory Certification Program | 715040B, 437724B, 781092B, 106740B, 579956B, 005922B, 020086B, 287145B, 411358B, 946769B, 162062B, 834037B, 119231B, 156248B, 262813B, 407916B, 193631B, 909761B, 521442B, 144510B, 369337B, 763841B, 890413B, 611046B, 813885B, 649347B, 192093B, 705956B, 614146B, 177463B, 923604B, 224174B, 981147B, 924733B, 600995B, 699675B, 410271B, 500980B, 702830B, 044634B | HDPE Bottle: 35 mL | 9/26/2024
National Laboratory Certification Program | 724326B, 897161B, 104349B, 008467B, 371462B, 516192B, 493370B, 119118B, 799391B, 736479B, 198511B, 625233B, 254965B, 985936B, 574323B, 080367B, 010948B, 891992B, 283825B, 521256B, 224103B, 974107B, 649524B, 300588B, 308316B, 350650B, 291247B, 065604B, 937885B, 238570B, 430231B, 477858B, 524507B, 303687B, 959929B, 403666B, 061829B, 036204B, 456743B, 371793B | HDPE Bottle: 35 mL | 9/26/2024
National Laboratory Certification Program | 724485A, 285750A, 324198A, 153222A, 632180A, 345491A, 983550A, 846333A, 578161A, 392424A, 972444A, 085729A, 034283A, 966600A, 557627A, 412927A, 258397A, 142207A, 821820A, 216717A, 719385A, 188572A, 358808A, 793168A, 669986A, 491230A, 409322A, 688522A, 987330A, 153425A, 365779A, 647472A, 158714A, 787663A, 210019A, 569523A, 960747A, 165725A, 751680A, 866396A | HDPE Bottle: 35 mL | 9/26/2024
National Laboratory Certification Program | 724608B, 347506B, 460245B, 127909B, 266266B, 203807B, 168785B, 967561B, 145315B, 703251B, 062924B, 467289B, 336282B, 792180B, 834097B, 345872B, 077011B, 774566B, 770245B, 068560B, 626078B, 904820B, 000537B, 480607B, 467542B, 915330B, 060384B, 774972B, 574457B, 033555B, 811099B, 785252B, 364450B, 209218B, 416119B, 477570B, 815169B, 713686B, 776577B, 030416B | HDPE Bottle: 35 mL | 9/26/2024
National Laboratory Certification Program | 728754B, 842901B, 247415B, 551358B, 329223B, 952032B, 216284B, 662661B, 053661B, 456267B, 744412B, 424415B, 655419B, 206563B, 459480B, 764143B, 753961B, 414268B, 780698B, 780816B, 631254B, 830134B, 878185B, 141784B, 839352B, 016994B, 794185B, 585546B, 191870B, 682161B, 849126B, 948506B, 535656B, 106231B, 497288B, 534593B, 988172B, 583517B, 447445B, 982698B | HDPE Bottle: 35 mL | 9/26/2024
National Laboratory Certification Program | 729977A, 238365A, 430260A, 653038A, 568611A, 801265A, 900563A, 286428A, 568046A, 342334A, 119158A, 914860A, 269535A, 836787A, 302513A, 170239A, 362967A, 654109A, 082356A, 158412A, 421510A, 038819A, 983158A, 202975A, 191047A, 429031A, 136146A, 128936A, 863717A, 455126A, 157124A, 002353A, 249797A, 244327A, 074639A, 882940A, 650130A, 625969A, 515823A, 080107A | HDPE Bottle: 35 mL | 9/26/2024
National Laboratory Certification Program | 730787A, 603801A, 181703A, 445621A, 747005A, 880488A, 969033A, 164271A, 182020A, 028636A, 568864A, 672233A, 382002A, 516739A, 185628A, 866790A, 104586A, 895010A, 649481A, 391546A, 646135A, 967788A, 491256A, 977472A, 937077A, 614175A, 502054A, 049396A, 031074A, 791115A, 401930A, 371486A, 861705A, 306872A, 595387A, 289267A, 995915A, 328631A, 873620A, 528099A | HDPE Bottle: 35 mL | 9/26/2024
National Laboratory Certification Program | 748802A, 596687A, 210979A, 449064A, 956215A, 348646A, 530151A, 857021A, 303411A, 606279A, 087684A, 643572A, 641487A, 423195A, 735838A, 466398A, 440007A, 320850A, 241796A, 933809A, 171455A, 705349A, 160431A, 388238A, 028744A, 457601A, 612704A, 971507A, 145246A, 971839A, 436907A, 918791A, 858255A, 390298A, 686543A, 043895A, 083890A, 022239A, 425209A, 109957A | HDPE Bottle: 35 mL | 9/26/2024
National Laboratory Certification Program | 759126A, 943009A, 681268A, 912517A, 393408A, 430730A, 677309A, 572260A, 180417A, 756532A, 377971A, 358786A, 493930A, 085993A, 874527A, 519660A, 791379A, 980061A, 015516A, 492232A, 330844A, 115238A, 445437A, 445881A, 631072A, 820780A, 605523A, 912930A, 070925A, 306547A, 976475A, 910754A, 149515A, 331064A, 576808A, 461748A, 969489A, 909466A, 324191A, 186426A | HDPE Bottle: 35 mL | 9/26/2024
National Laboratory Certification Program | 764507B, 683818B, 843042B, 618067B, 017009B, 091724B, 438655B, 410834B, 325590B, 366387B, 346450B, 937452B, 138036B, 708945B, 407281B, 635339B, 404281B, 016718B, 165834B, 356098B, 530649B, 297610B, 581654B, 354943B, 961800B, 619362B, 365377B, 811914B, 137948B, 638762B, 614415B, 078705B, 460445B, 181397B, 458518B, 649605B, 949160B, 732615B, 969593B, 982110B | HDPE Bottle: 35 mL | 9/26/2024
National Laboratory Certification Program | 771784A, 476359A, 027514A, 759715A, 529027A, 134216A, 199026A, 302197A, 990414A, 139652A, 286862A, 392898A, 870434A, 040690A, 601308A, 691793A, 121076A, 182366A, 452330A, 846731A, 103724A, 286618A, 496020A, 777680A, 417664A, 262578A, 623102A, 868679A, 062906A, 389853A, 404467A, 539739A, 508104A, 224658A, 557605A, 950145A, 631586A, 022576A, 354431A, 831509A | HDPE Bottle: 35 mL | 9/26/2024
National Laboratory Certification Program | 776633A, 725686A, 362503A, 577932A, 006247A, 632205A, 252580A, 871598A, 816430A, 570760A, 763996A, 201800A, 463900A, 324925A, 915067A, 558362A, 557537A, 289066A, 472881A, 665102A, 628132A, 793753A, 751842A, 761674A, 049567A, 078190A, 770327A, 923408A, 332055A, 738504A, 408670A, 604689A, 563122A, 559473A, 574828A, 378813A, 552076A, 595726A, 661665A, 867826A | HDPE Bottle: 35 mL | 9/26/2024
National Laboratory Certification Program | 779378A, 333561A, 483368A, 042534A, 511829A, 632632A | HDPE Bottle: 35 mL | 9/26/2024
National Laboratory Certification Program | 790908B, 700865B, 618561B, 436848B, 110684B, 633021B, 029216B, 843326B, 640381B, 103438B, 494648B, 543405B, 904172B, 265731B, 123233B, 974694B, 266159B, 882688B, 984560B, 861213B, 913802B, 187576B, 657150B, 592511B, 345058B, 435192B, 214465B, 116070B, 677455B, 097377B, 426781B, 927973B, 727805B, 663512B, 374622B, 013139B, 570400B, 225862B, 139993B, 963626B | HDPE Bottle: 35 mL | 9/26/2024
National Laboratory Certification Program | 809226A, 340888A, 201852A, 288667A, 565709A, 485723A, 973706A, 965332A, 170023A, 581808A, 214318A, 433185A, 743075A, 355284A, 171810A, 046388A, 761330A, 439139A, 627093A, 196883A, 135335A, 368282A, 888972A, 225743A, 142075A, 056978A, 946952A, 930417A, 037930A, 720504A, 464720A, 660845A, 530420A, 890235A, 812843A, 969363A, 452681A, 225642A, 140258A, 966887A | HDPE Bottle: 35 mL | 9/26/2024
National Laboratory Certification Program | 819548A, 295405A, 227739A, 138330A, 658174A, 053659A, 110641A, 233046A, 706944A, 689427A, 302096A, 309615A, 009301A, 817298A, 058203A, 369295A, 667899A, 168718A, 549241A, 664865A, 195932A, 295297A, 622349A, 886422A, 143858A, 890947A, 137612A, 880785A, 168245A, 417592A, 621238A, 641016A, 459075A, 646228A, 993569A, 638999A, 945479A, 768138A, 532614A, 374764A | HDPE Bottle: 35 mL | 9/26/2024
National Laboratory Certification Program | 825396B, 950805B, 234520B, 116370B, 742435B, 651616B, 096414B, 336848B, 032764B, 239824B, 719012B, 775479B, 958768B, 494880B, 983008B, 287637B, 495479B, 294991B, 901948B, 811150B, 582678B, 531907B, 635823B, 823178B, 984295B, 539145B, 094635B, 360548B, 657361B, 625863B, 728054B, 240122B, 176809B, 248933B, 446787B, 219648B, 239881B, 565689B, 411013B, 366412B | HDPE Bottle: 35 mL | 9/26/2024
National Laboratory Certification Program | 838506B, 344945B, 317164B, 803379B, 169380B, 413721B, 367527B, 180500B, 288413B, 435680B, 224303B, 698723B, 941672B, 011692B, 124529B, 111179B, 551324B, 871504B, 055764B, 510067B, 480589B, 991815B, 584380B, 389513B, 866060B, 967287B, 402233B, 526768B, 323408B, 649349B, 847982B, 616399B, 402017B, 179518B, 655409B, 232940B, 993653B, 053488B, 315145B, 934774B | HDPE Bottle: 35 mL | 9/26/2024
National Laboratory Certification Program | 853786A, 790243A, 844540A, 365687A, 023932A, 470458A | HDPE Bottle: 35 mL | 9/26/2024
National Laboratory Certification Program | 864665B, 344188B, 959552B, 793816B, 291716B, 179631B, 968321B, 837132B, 563472B, 178946B, 382897B, 303358B, 235534B, 064820B, 980408B, 106327B, 996721B, 783736B, 831338B, 610217B, 098855B, 955853B, 642866B, 272321B, 629595B, 442364B, 065908B, 434770B, 499701B, 074448B, 062654B, 435075B, 627867B, 964869B, 433984B, 424309B, 176957B, 893861B, 994885B, 285603B | HDPE Bottle: 35 mL | 9/26/2024
National Laboratory Certification Program | 892000B, 474316B, 093458B, 833358B, 534981B, 628972B, 160567B, 655293B, 337026B, 640167B, 858663B, 077968B, 982532B, 039974B, 172962B, 891211B, 306047B, 336388B, 989433B, 782124B, 354237B, 474281B, 806280B, 672819B, 618772B, 177675B, 206625B, 456475B, 450668B, 252670B, 637202B, 157703B, 016929B, 200977B, 277304B, 521950B, 207670B, 708698B, 245804B, 683412B | HDPE Bottle: 35 mL | 9/26/2024
National Laboratory Certification Program | 897739A, 988105A, 153170A, 847183A, 012288A, 312392A, 021668A, 690253A, 966448A, 641910A, 948878A, 920431A, 667246A, 957677A, 228056A, 503825A, 645090A, 347576A, 728094A, 516019A, 923058A, 280543A, 136759A, 986326A, 315565A, 976998A, 154175A, 120073A, 825204A, 856375A, 990540A, 903401A, 657656A, 315143A, 154923A, 206369A, 525684A, 290880A, 051376A, 291574A, 206854A, 841765A, 529407A, 690326A, 925901A, 311305A, 483453A, 229199A, 814921A, 202707A, 946493A, 946505A, 569111A, 108753A, 308842A, 953126A, 016995A, 497067A, 865670A, 050721A, 777333A, 837977A, 757151A, 477108A, 004599A, 035692A, 235128A, 686359A, 265873A, 246112A, 383809A, 134694A, 303691A, 114862A, 912954A, 103706A, 881644A, 299067A, 364848A, 171261A | HDPE Bottle: 35 mL | 9/26/2024
National Laboratory Certification Program | 954995A, 613795A, 305673A, 311712A, 307615A, 151835A, 478413A, 206548A, 123189A, 629068A, 196200A, 219662A, 385481A, 974648A, 368692A, 057088A, 071104A, 660765A, 267415A, 565786A, 772470A, 557837A, 791861A, 484733A, 005145A, 492890A, 936976A, 507080A, 114526A, 584336A, 886724A, 357274A, 946296A, 428174A, 491945A, 712122A, 337575A, 602568A, 928620A, 411873A | HDPE Bottle: 35 mL | 9/26/2024
National Laboratory Certification Program | 959376B, 019792B, 130817B, 807985B, 947662B, 543041B, 635892B, 396301B, 830123B, 161325B, 790594B, 564852B, 571203B, 054639B, 537835B, 229529B, 485655B, 019273B, 612161B, 212555B, 224189B, 642806B, 990109B, 031171B, 092907B, 366482B, 967797B, 970169B, 144983B, 775923B, 913552B, 087929B, 003901B, 007732B, 424712B, 428047B, 383494B, 232560B, 936223B, 343046B | HDPE Bottle: 35 mL | 9/26/2024
National Laboratory Certification Program | 962303B, 120901B, 026758B, 816954B, 405601B, 307693B, 363538B, 572968B, 299465B, 183743B, 624001B, 628632B, 796959B, 013356B, 886752B, 045780B, 451201B, 449956B, 565625B, 102225B, 496603B, 804517B, 909185B, 731881B, 298747B, 268746B, 726272B, 932484B, 688766B, 997256B, 413582B, 693410B, 718763B, 428596B, 996651B, 866018B, 263402B, 465327B, 955185B, 798596B | HDPE Bottle: 35 mL | 9/26/2024
National Laboratory Certification Program | 980368B, 601316B, 039655B, 574923B, 644569B, 585311B, 127607B, 643457B, 134297B, 055307B, 086913B, 361914B, 879207B, 963554B, 063636B, 799163B, 223430B, 986230B, 078778B, 866735B, 515031B, 642478B, 918053B, 066583B, 547746B, 699235B, 565419B, 695026B, 323649B, 626280B, 053206B, 237589B, 544391B, 276483B, 623827B, 074928B, 554583B, 419866B, 573419B, 378969B | HDPE Bottle: 35 mL | 9/26/2024
National Laboratory Certification Program | 985613B, 522340B, 533478B, 827795B, 861897B, 100319B, 860745B, 119375B, 138626B, 836623B, 514657B, 540502B, 590127B, 686883B, 630816B, 150704B, 757526B, 362501B, 252703B, 199543B, 298473B, 988656B, 428450B, 457098B, 169167B, 510576B, 174867B, 371183B, 720530B, 089813B, 899425B, 442652B, 082163B, 831685B, 684925B, 276395B, 097840B, 783205B, 451147B, 171755B | HDPE Bottle: 35 mL | 9/26/2024
National Laboratory Certification Program | 986744B, 809210B, 614360B, 906979B, 083546B, 595197B, 653316B, 528017B, 939186B, 511054B, 063194B, 822236B, 758353B, 738602B, 928446B, 687633B, 973248B, 916354B, 511044B, 321470B, 238090B, 369102B, 587045B, 117713B, 304575B, 315476B, 778984B, 622369B | HDPE Bottle: 35 mL | 9/26/2024
National Laboratory Certification Program | 986744B, 809210B, 614360B, 906979B, 083546B, 595197B, 653316B, 528017B, 939186B, 511054B, 063194B, 822236B, 758353B, 738602B, 928446B, 687633B, 973248B, 916354B, 511044B, 321470B, 238090B, 369102B, 587045B, 117713B, 304575B, 315476B, 778984B, 622369B, 624055B, 541197B, 886106B, 262964B, 965548B, 770693B, 738910B, 332499B, 903820B, 224031B, 531075B, 561753B | HDPE Bottle: 35 mL | 9/26/2024
National Laboratory Certification Program | 996624B, 649500B, 175969B, 093180B, 346927B, 572584B, 698551B, 523667B, 759860B, 532918B, 910303B, 715889B, 870513B, 021328B, 271917B, 025204B, 741464B, 765634B, 136554B, 544667B, 390793B, 514914B, 185338B, 590023B, 428459B, 534460B, 216431B, 641435B | HDPE Bottle: 35 mL | 9/26/2024
National Laboratory Certification Program | 996624B, 649500B, 175969B, 093180B, 346927B, 572584B, 698551B, 523667B, 759860B, 532918B, 910303B, 715889B, 870513B, 021328B, 271917B, 025204B, 741464B, 765634B, 136554B, 544667B, 390793B, 514914B, 185338B, 590023B, 428459B, 534460B, 216431B, 641435B | HDPE Bottle: 35 mL | 9/26/2024
National Laboratory Certification Program | 996624B, 649500B, 175969B, 093180B, 346927B, 572584B, 698551B, 523667B, 759860B, 532918B, 910303B, 715889B, 870513B, 021328B, 271917B, 025204B, 741464B, 765634B, 136554B, 544667B, 390793B, 514914B, 185338B, 590023B, 428459B, 534460B, 216431B, 641435B, 324434B, 829171B, 087368B, 013113B, 138141B, 774911B, 788568B, 851541B, 629983B, 147013B, 863055B, 793202B | HDPE Bottle: 35 mL | 9/26/2024
National Laboratory Certification Program | 000718A, 012905A, 055171A, 063438A, 068130A, 085316A, 121128A, 175711A, 192483A, 210253A, 217515A, 222244A, 248079A, 278646A, 325238A, 328497A, 354182A, 354246A, 355160A, 356320A, 363364A, 363757A, 380303A, 381668A, 387562A, 401037A, 408557A, 410499A, 415328A, 448496A, 449123A, 519251A, 519642A, 522376A, 547655A, 562034A, 570158A, 606065A, 622888A, 630470A, 639683A, 652305A, 653765A, 680431A, 680815A, 693633A, 694536A, 717152A, 721196A, 732369A, 741584A, 747266A, 747398A, 749408A, 755675A, 757987A, 771103A, 776617A, 783976A, 805349A, 811783A, 821798A, 828044A, 836281A, 836839A, 843676A, 844673A, 851522A, 851963A, 875122A, 884003A, 896624A, 907674A, 923237A, 928649A, 933498A, 954526A, 963965A, 965286A, 975329A | HDPE Bottle: 35 mL | 9/26/2024
o2si smart solutions | North Charleston | Sports Supplement Adulterant Solution | Amber Glass, 1mL | 10/29/2024
o2si smart solutions | North Charleston | Weight Loss Adulterant Solution | Amber Glass, 1mL | 10/29/2024
Research Triangle Institute | 070656A, 305445A, 640404A, 461711A, 097722A, 591336A, 171617A, 500137A, 393854A, 837252A, 231882A, 735325A, 220209A, 110171A, 652579A, 627869A, 261468A, 421502A, 332751A, 384813A, 196435A | HDPE bottle: 35 mL | 11/9/2023
Research Triangle Institute | 999013A, 312215A, 734432A, 262784A, 582502A, 123434A, 033560A, 223771A, 049840A, 721033A, 794610A, 252497A, 222402A, 241916A | HDPE bottle: 35 mL | 11/9/2023
Research Triangle Institute | U6653, U6645, U6202, U6631, U6279, U6870, U6744, U6095, U6950, U6245, U6007, U6416, U6040, U6881, U6269, U6036, U6748, U6819, U6525, U6982, U6766, U6087, U6160, U6013, U6139, U6849, U6810, U6308, U6390, U6156 | HDPE bottles: 25 mL | 5/6/2024
Research Triangle Institute | U7551, U7354, U7887, U7560, U7561, U7495, U7332, U7622, U7635, U7938, U7527, U7932, U7574, U7147, U7983, U7218, U7866, U7797, U7434, U7235, U7215, U7425, U7629, U7223, U7595, U7856, U7105, U7840, U7925, U7086 | HDPE bottles: 25 mL | 5/6/2024
Restek Corporation | (6aR, 9R)-Δ10-THC Standard (1000 µg/mL in Acetonitrile) | Glass ampule: 1.3 mL | 2/2/2024
Restek Corporation | 9(S)-Δ6a, 10a-THC Standard (1000 µg/mL in Acetonitrile) | Glass ampule: 1.3 mL | 2/2/2024
Restek Corporation | 9R-HHC Standard (1000 µg/mL in Acetonitrile) | Glass ampule: 1.3 mL | 2/2/2024
Restek Corporation | 9S-HHC Standard (1000 µg/mL in Acetonitrile) | Glass ampule: 1.3 mL | 2/2/2024
Restek Corporation | Cannabinoids 11 (250) Standard | Glass ampoule: 1.3 mL | 1/30/2025
Restek Corporation | Custom Cannabinoids Acids 6 Standard | Custom Cannabinoids Acids 6 Standard | 4/3/2024
Restek Corporation | Custom EDC Standard #1 100 µg/mL | Glass ampule: 1.3 mL | 4/19/2024
Restek Corporation | Custom EDC Standard #2 50 µg/mL | Glass ampule: 1.3 mL | 4/19/2024
Restek Corporation | Custom Hormones #1 Standard | Glass ampoule: 1.3 mL | 6/18/2024
Restek Corporation | Custom Phenoxyacetic acid Herbs 1 Standard | Glass ampoule: 1.3 mL | 9/27/2024
Restek Corporation | Custom Tramadol HCl Standard 1000 µg/mL | Glass ampule: 1.3 mL | 6/3/2024
Restek Corporation | Exo-THC Standard (1000 µg/mL in Methanol) | Glass ampule: 1.3 mL | 2/2/2024
Restek Corporation | OF24-01 | HDPE vials: 3 mL | 1/31/2024
Restek Corporation | OF24-02 | HDPE vials: 3 mL | 1/31/2024
Restek Corporation | OF24-03 | HDPE vials: 3 mL | 1/31/2024
Restek Corporation | OF24-04 | HDPE vials: 3 mL | 1/31/2024
Restek Corporation | OF24-05 | HDPE vials: 3 mL | 1/31/2024
Restek Corporation | OF24-06 | HDPE vials: 3 mL | 1/31/2024
Restek Corporation | OF24-07 | HDPE vials: 3 mL | 1/31/2024
Restek Corporation | OF24-08 | HDPE vials: 3 mL | 1/31/2024
Restek Corporation | OF24-09 | HDPE vials: 3 mL | 1/31/2024
Restek Corporation | OF24-10 | HDPE vials: 3 mL | 1/31/2024
Restek Corporation | OF24-11 | HDPE vials: 3 mL | 1/31/2024
Restek Corporation | OF24-12 | HDPE vials: 3 mL | 1/31/2024
Restek Corporation | OF24-13 | HDPE vials: 3 mL | 1/31/2024
Restek Corporation | OF24-14 | HDPE vials: 3 mL | 1/31/2024
Restek Corporation | OF24-15 | HDPE vials: 3 mL | 1/31/2024
Restek Corporation | Δ8-THC-O-Acetate Standard (1000 µg/mL in Acetonitrile) | Glass ampule: 1.3 mL | 2/2/2024
Restek Corporation | Δ8-THC-O-Acetate Standard (1000 µg/mL in Acetonitrile) #34155 | Glass ampule: 1.3 mL | 2/2/2024
Restek Corporation | Δ9-THC-O-Acetate Standard (1000 µg/mL in Acetonitrile) | Glass ampule: 1.3 mL | 2/2/2024
Restek Corporation | Δ9-THC-O-Acetate Standard (1000 µg/mL in Acetonitrile) #34154 | Glass ampule: 1.3 mL | 2/2/2024
Revvity | AlphaLISA Testosterone (100 µM) AL324S | Polypropylene micro tube: 0.21 mL | 10/31/2023
Revvity | Androst-4-ene-3,17-dione, [1β-3H(N)]—Exempt Chemical Preparation, NET926250UC (250 µCi) | Nensure Vial: 0.25 mL | 10/31/2023
Revvity | Dihydrotestosterone, [1,2,4,5,6,7-3H(N)]—Exempt Chemical Preparation, NET453001MC (1 mCi) | Nensure Vial: 1.0 mL | 10/31/2023
Revvity | Dihydrotestosterone, [1,2,4,5,6,7-3H(N)]—Exempt Chemical Preparation, NET453250MC (250 µCi) | Nensure Vial: 0.25 mL | 10/31/2023
Revvity | Dihydrotestosterone, [4-14C]—Exempt Chemical Preparation, NET1121250UC (250 µCi) | Nensure Vial: 0.25 mL | 10/31/2023
Revvity | Flunitrazepam, [methyl-3H]—Exempt Chemical Preparation, NET567250UC (250 µCi) | Nensure Vial: 0.25 mL | 10/31/2023
Revvity | Lysergic acid diethylamide, [N-methyl-3H]—Exempt Chemical Preparation, NET638250UC (250 µCi) | Nensure Vial: 0.25 mL | 10/31/2023
Revvity | Methyltrienolone, [17α-methyl-3H]-, (R1881) Exempt Chemical Preparation, NET590250UC (250 µCi) | Nensure Vial: 0.25 mL | 10/31/2023
Revvity | Pentazocine, [ring-1,3-3H]—Exempt Chemical Preparation, NET1056001MC (1 mCi) | Nensure Vial: 1.0 mL | 10/31/2023
Revvity | Pentazocine, [ring-1,3-3H]—Exempt Chemical Preparation, NET1056250UC (250 µCi) | Nensure Vial: 0.25 mL | 10/31/2023
Revvity | TCP, [piperidyl-3,4-3H(N)]—Exempt Chemical Preparation, NET886250UC (250 µCi) | Nensure Vial: 0.25 mL | 10/31/2023
Revvity | Testosterone, [1,2,6,7-3H]—Exempt Chemical Preparation, NET370001MC (1 mCi) | Nensure Vial: 1.0 mL | 10/31/2023
Revvity | Testosterone, [1,2,6,7-3H]—Exempt Chemical Preparation, NET370250UC (250 mCi) | Nensure Vial: 0.25 mL | 10/31/2023
Revvity | Testosterone, [4-14C]—Exempt Chemical Preparation, NEC101050UC (50 µCi) | Nensure Vial: 1.5 mL | 10/31/2023
Roche Diagnostics | CalSet iTDMA cobas i | Plastic Reagent bottle: 2 bottles, 21 mL each | 5/1/2024
Roche Diagnostics | CalSet iTDMA cobas I Ref 09590331160 | HDPE Bottle: 16 bottles, 2.5 mL each | 2/13/2025
Roche Diagnostics | Control Set iCSTDMA cobas I | HDPE Bottle: 16 bottles, 2.5 mL each | 9/18/2024
Roche Diagnostics | ControlSet iCSTDMA cobas i Ref 09495495160 | HDPE Bottles: 16 bottles, 2.5 mL each | 2/13/2025
Roche Diagnostics | iAED2 Antiepileptic 2, Ref 09495495160 | Glass bottle: 14.65 mL Plastic Reagent bottle: 2 bottles, 21 mL each | 2/13/2025
Roche Diagnostics | iAED2 Antiepileptic 2, Ref 09495495529 | Glass bottle: 14.65 mL | 5/1/2024
RTI International | Occasion 1 Sample 1 | HDPE vial: 5 mL | 7/16/2024
RTI International | Occasion 1 Sample 2 | HDPE vial: 5 mL | 7/16/2024
RTI International | Occasion 1 Sample 3 | HDPE vial: 5 mL | 7/16/2024
RTI International | Occasion 1 Sample 4 | HDPE vial: 5 mL | 7/16/2024
RTI International | Occasion 1 Sample 5 | HDPE vial: 5 mL | 7/16/2024
RTI International | Occasion 1 Sample 6 | HDPE vial: 5 mL | 7/16/2024
RTI International | Occasion 2 Sample 2 | HDPE vial: 5 mL | 7/16/2024
RTI International | Occasion 2 Sample 3 | HDPE vial: 5 mL | 7/16/2024
RTI International | Occasion 2 Sample 4 | HDPE vial: 5 mL | 7/16/2024
RTI International | Occasion 2 Sample 5 | HDPE vial: 5 mL | 7/16/2024
RTI International | Occasion 2 Sample 6 | HDPE vial: 5 mL | 7/16/2024
Technopath Clinical Diagnostics | Multichem MS TDMs Level 1 | Plastic bottle: 12 bottles, 4.5 mL each | 2/25/2025
Technopath Clinical Diagnostics | Multichem MS TDMS Level 1 Ref 09922571529 | HDPE Bottle: 16 bottles, 2.5 mL each | 5/1/2024
Technopath Clinical Diagnostics | Multichem MS TDMs Level 2 | Plastic bottle: 12 bottles, 4.5 mL each | 2/25/2025
Technopath Clinical Diagnostics | Multichem MS TDMS Level 2 09922580529 | Plastic Bottle: 12 bottles, 4.5 mL each | 9/18/2024
Thermo Fisher Scientific | Alinity Anti-Tg Calibrators J09P3401/ 09P3401 | Kit: 6 HDPE Plastic Vials, 3 mL each | 10/10/2024
Thermo Fisher Scientific | Alinity Anti-Tg Control Kit J02K46-10/ 02K46-10 | Kit: 2 LDPE Plastic Vials, 4 mL each | 10/10/2024
Thermo Fisher Scientific | Alinity Anti-Tg Control Kit J09P3410/ 09P3410 | Kit: 2 LDPE Plastic Vials, 4 mL each | 10/10/2024
Thermo Fisher Scientific | Alinity Anti-TPO Calibrators J09P3501/ 09P35-01 | Kit: 6 HDPE Plastic Vials, 3 mL each | 10/10/2024
Thermo Fisher Scientific | Alinity Anti-TPO Control Kit J09P3510/ 09P3510 | Kit: 2 HDPE Plastic Vials, 4 mL each | 10/10/2024
Thermo Fisher Scientific | Alinity BRAHMS PCT Calibrator J01R1801/ 01R1801 | HDPE Bottle: 2.0 mL | 10/10/2024
Thermo Fisher Scientific | Anti-Tg Master Calibrators JY2K46(A-F)95 | Kit: 6 LDPE Plastic Vials, 4 mL each | 10/15/2024
Thermo Fisher Scientific | Anti-Tg Panel 1, 2, 3 and 6 JY2K46P195 JY2K46P295 JY2K46P395 JY2K46P695 | Kit: 4 Polypropylene Vials, 1 mL each | 10/15/2024
Thermo Fisher Scientific | Anti-TPO Master Calibrators JY2K47(A-F)95 | Kit: 6 LDPE Plastic Vials, 4 mL each | 10/15/2024
Thermo Fisher Scientific | Anti-TPO Panel 1, 2 and 3 JY2K47P195 JY2K47P295 JY2K47P395 | Kit: 3 Polypropylene Vials, 1 mL each | 10/15/2024
Thermo Fisher Scientific | Architect Anti-Tg Calibrators J02K46-01/ 02K46-01 | Kit: 6 LDPE Plastic Vials, 4 mL each | 10/10/2024
Thermo Fisher Scientific | Architect Anti-Tg Control Kit J02K46-10/02K46-10 | Kit: 2 LDPE Plastic Vials, 4 mL each | 11/7/2024
Thermo Fisher Scientific | Architect Anti-TPO Calibrators J02K47-01/ 02K47-01 | Kit: 6 LDPE Plastic Vials, 4 mL each | 10/10/2024
Thermo Fisher Scientific | Architect Anti-TPO Control Kit J02K47-10/ 02K47-10 | Kit: 2 LDPE Plastic Vials, 4 mL each | 10/10/2024
Thermo Fisher Scientific | Architect PCT Calibrators J06P22-01/ 06P22-01 | Kit: 6 LDPE Plastic Vials, 2 mL each | 10/10/2024
Thermo Fisher Scientific | CK-MB Panel 1 and 2 JY2K42P195 JY2K42P295 | Kit: 2 Polypropylene Vials, 1 mL each | 10/15/2024
Thermo Fisher Scientific | Kontact Pool J250312 | PETG Vial, 10 mL | 10/15/2024
Thermo Fisher Scientific | Kontact J250312 | PETG Vial, 10 mL | 11/7/2024
Thermo Fisher Scientific | Kontact (JC300312) | PETG Vial, 10 mL | 12/17/2024
Thermo Fisher Scientific | PCT Panel 1, 3, 4 and 5 JY6P22P195 JY6P22P395 JY6P22P495 JY6P22P595 | Kit: 4 Polypropylene Vials, 1 mL each | 10/15/2024
Thermo Fisher Scientific | PCT Primary Calibrator A JY6P22A95 | Kit: 81 LDPE Bottles, 4 mL each | 10/15/2024

The Assistant Administrator has found that each of the compounds, mixtures, and preparations described in Chart II, below, is not consistent with the criteria stated in 21 U.S.C. 811(g)(3)(B) and in 21 CFR 1308.23. Accordingly, the Assistant Administrator has determined that the chemical preparations or mixtures generally described in Chart II, below, and specifically described in the application materials received by DEA, are not exempt from application of any part of the CSA or from application of any part of the CFR, with regard to the requested exemption pursuant to 21 CFR 1308.23, as of the date that was provided in the determination letters to the individual requesters.

Chart II
Supplier name | Product name | Form | Application date
Absolute Standards, Inc | Alprazolam PT, 1-1000 µg/mL, in Methanol | Glass ampoule: 1 mL | 7/30/2024
Absolute Standards, Inc | Alprazolam, 1000 ug/mL, in Methanol | Glass ampoule: 1 mL | 6/21/2024
Absolute Standards, Inc | Alprazolam-D5 PT, 1-1000 ug/mL, in Methanol | Glass ampoule: 1 mL | 7/30/2024
Absolute Standards, Inc | Clonazepam PT, 1-1000 µg/mL, in Methanol | Glass ampoule: 1 mL | 7/30/2024
Absolute Standards, Inc | Clonazepam-D4 PT, 1-1000 ug/mL, in Methanol | Glass ampoule: 1 mL | 7/30/2024
Absolute Standards, Inc | Fentanyl, 1000 ug/mL, in Methanol | Glass ampoule: 1 mL | 6/21/2024
Absolute Standards, Inc | Fentanyl-D5, 1000 ug/mL, in Methanol | Glass ampoule: 1 mL | 6/21/2024
Absolute Standards, Inc | Lorazepam PT, 1-1000 ug/mL, in Acetonitrile | Glass ampoule: 1 mL | 7/30/2024
Absolute Standards, Inc | Lysergic acid diethylamide (LSD) PT, 1-100 ug/mL, in Acetonitrile | Glass ampoule: 1 mL | 12/6/2024
Absolute Standards, Inc | Lysergic acid diethylamide (LSD) PT, 1-1000 ug/mL, in Acetonitrile | Glass ampoule: 1 mL | 7/30/2024
Absolute Standards, Inc | Lysergic acid diethylamide-D3 (LSD-D3) PT, 1-100 ug/mL, in Acetonitrile | Glass ampoule: 1 mL | 12/6/2024
Absolute Standards, Inc | Lysergic acid diethylamide-D3 (LSD-D3) PT, 1-1000 ug/mL, in Acetonitrile | Glass ampoule: 1 mL | 7/30/2024
Absolute Standards, Inc | Triazolam PT, 1-1000 ug/mL, in Methanol | Glass ampoule: 1 mL | 7/30/2024
Biochemical Diagnostics, Inc | Detectabuse Custom Liquid Control Urine, MC287 | Glass vial/Plastic bottle: 5 mL, 10 mL, 20 mL, 25 mL, 50 mL | 11/8/2023
Cayman Chemical Company | Emergent Drug Panel—Internal Standard | 96-well plate; individual removable tube wells, alpha-numeric labels; 0.75 mL each | 4/30/2024
Cayman Chemical Company | Phytocannabinoid Mixture California Potency (CRM) 1 mg/ml ea in Acetonitrile | Glass ampule: 1.0 mL | 11/21/2023
Cliniqa Corporation | 80 µg/mL Phenobarbital, and non-controlled substances in human serum | Vial/Bottle: 2,000 ml | 1/12/2024
Cliniqa Corporation | MCC Level 6, Part: 86052 | Vial/Bottle: 2,000 ml | 1/12/2024
LGC Clinical Diagnostics, Inc | TDM1 ab WrkBlk Level 5 | Glass volumetric flask, 200-8000 mL | 9/5/2024
LGC Clinical Diagnostics, Inc | TDM1 au WrkBlk Level 5 | Glass volumetric flask, 200-8000 mL | 9/5/2024
LGC Clinical Diagnostics, Inc | TDM1 bc WrkBlk Level 5 | Glass volumetric flask, 200-8000 mL | 9/5/2024
LGC Clinical Diagnostics, Inc | TDM1 db WrkBlk level 5 | Glass volumetric flask, 200-8000 mL | 9/5/2024
LGC Clinical Diagnostics, Inc | TDM1 ri GentC Set WrkBlk Level 5 | Glass volumetric flask, 200-8000 mL | 9/5/2024
LGC Clinical Diagnostics, Inc | TDM1 ri TDM Set WrkBlk Level 5 | Glass volumetric flask, 200-8000 mL | 9/5/2024
LGC Clinical Diagnostics, Inc | TDM1 vt WrkBlk Level 5 | Glass volumetric flask, 200-8000 mL | 9/5/2024
Microgenics Corporation | Abaxis Thyroxine (T4) Antibody/Substrate Reagent, Catalog number: 10010877 | Kit: bottles, 1 L, 20 L | 2/14/2025
Microgenics Corporation | Buffer T Up Enz/Conj, Catalog number: 0814 | Plastic Carboyr: 20 L, 25 L, 50L, 100L | 2/21/2025
Microgenics Corporation | Buffer T4 Ab/Sub, Catalog number: 0462 | Plastic tank: 1000 L, 1500 L | 2/21/2025
Microgenics Corporation | Cal Opiate 1000ng BCI, Catalog number: 1603 | Glass bottle: 16-36 L; Plastic Bottle: 20-40 L | 3/8/2025
Microgenics Corporation | Cal Opiate 300ng BCI, Catalog number: 1601 | Glass bottle: 36 L; Plastic Bottle: 43 L | 3/8/2025
Microgenics Corporation | CEDIA Buprenorphine I Spike Solution, Catalog number: 1007967 | Plastic or Glass bottle: 1000 mL, 2000 mL | 1/24/2025
Microgenics Corporation | CEDIA Methadone Spike Solution, Catalog number: 1000302 | Plastic or Glass bottle: 250 mL, 300 mL | 1/24/2025
Microgenics Corporation | Ctrl MD Clin Low AlqtdCtrl MD Clinical Hi Alqt, Catalog number: 10007727 | Glass bottle: 16-36 L; Plastic Bottle: 20-105 L | 3/8/2025
Microgenics Corporation | Ctrl MD Clinical Hi Alqt, Catalog number: 10007728 | Glass bottle: 16-36 L; Plastic Bottle: 10-105 L | 3/8/2025
Microgenics Corporation | Ctrl MD High BCI, Catalog number: 1554 | Glass bottle: 4-36 L; Plastic Bottle: 5-100 L | 3/8/2025
Microgenics Corporation | Ctrl MD High Bulk BCI, Catalog number: 1596 | Glass bottle: 4-36 L; Plastic Bottle: 5-80 L | 3/8/2025
Microgenics Corporation | Ctrl MD Low BCI, Catalog number: 1552 | Glass bottle: 8-36 L; Plastic Bottle: 5-105 L | 3/8/2025
Microgenics Corporation | Ctrl MD Low Bulk BCI, Catalog number: 1590 | Glass bottle: 8-36 L; Plastic Bottle: 10-105 L | 3/8/2025
Microgenics Corporation | Ctrl Opiate 225ng BCI, Catalog number: 1605 | Plastic Bottle: 50-60 L | 3/8/2025
Microgenics Corporation | Ctrl Opiate 375ng BCI, Catalog number: 1607 | Glass bottle: 36 L; Plastic Bottle: 50-680 L | 3/8/2025
Microgenics Corporation | Daiichi Phenobarbital 16mg/mL Stock Solution | Bottle: 50-110 mL | 3/17/2025
Microgenics Corporation | DAU Clinical High Control Bulk | Kit: Glass bottles, 45 L, Plastic or Glass bottles, 25 L, 50 L, 100L, 180 L | 1/31/2025
Microgenics Corporation | DAU Clinical Low Control Bulk | Kit: Glass bottles, 45 L, Plastic or Glass bottles, 50 L, 100L, 180 L | 1/31/2025
Microgenics Corporation | DAU Primary High Control Bulk | Kit: Glass bottles, 20 L, 45 L, Plastic or Glass bottles, 20 L, 25 L, 50 L, 100L, 180 L | 1/31/2025
Microgenics Corporation | DAU Primary Low Control Bulk | Kit: Glass bottles, 45 L, Plastic or Glass bottles, 25 L, 50 L, 100L, 180 L | 1/31/2025
Microgenics Corporation | DAU Select High Control Bulk | Kit: Plastic or Glass bottles, 180 L, 300L | 1/31/2025
Microgenics Corporation | DAU Select Low Control Bulk | Plastic or Glass bottles, 300L | 1/31/2025
Microgenics Corporation | DAU Specialty High Control Bulk | Kit: Glass bottles, 45 L, Plastic or Glass bottles, 50 L, 100 L | 1/31/2025
Microgenics Corporation | DAU Specialty Low Control Bulk | Kit: Glass bottles, 45 L, Plastic or Glass bottles, 50 L, 100 L | 1/31/2025
Microgenics Corporation | DRI Diazepam Spiking Solution, 1 mg/mL, Catalog number: 1255 | Plastic or Glass bottle: 25 mL, 50 mL, 100 mL | 1/24/2025
Microgenics Corporation | DRI Oxazepam Spiking Solution, 1 mg/mL, Catalog number: 0451 | Glass bottle: 100mL, 250 mL | 1/24/2025
Microgenics Corporation | DRI Oxazepam Spiking Solution, 1 mg/mL, Catalog number: 10007712 | Glass bottle: 50 mL, 100 mL | 1/24/2025
Microgenics Corporation | DRI Oxycodone Spiking Solution, 100,000 ng/mL, Catalog number: 10008310 | Plastic or Glass bottle: 250 mL, 500 mL, 800 mL | 1/24/2025
Microgenics Corporation | DRI Thyroxine (T4) Assay, Catalog number: 0454 | Bottle, 100 mL | 2/14/2025
Microgenics Corporation | DRI Thyroxine (T4) Assay, Catalog number: 10013070 | Bottle, 500 mL | 2/14/2025
Microgenics Corporation | DRI T-Uptake Assay, Catalog number: 0723 | Bottle, 100 mL | 2/14/2025
Microgenics Corporation | MAS Barb Solution 5mg/mL, Catalog number: 10007710 | Glass bottle, 50 mL | 2/14/2025
Microgenics Corporation | MAS Benzoylecgonine Soln, 1 mg/mL Catalog number: 432 | Plastic or Glass bottle: 50 mL, 100 mL, 250 mL, 500 mL, 700 mL | 1/24/2025
Microgenics Corporation | MAS d-Methamphetamine Soln, 1 mg/mL Catalog number: 925 | Plastic or Glass bottle: 25 mL, 50 mL, 100 mL, 250 mL, 500 mL, 1000 mL, 2000 mL, 2500 mL | 1/24/2025
Microgenics Corporation | MAS Methadone Soln, 1 mg/mL Catalog number: 924 | Plastic or Glass bottle: 25 mL, 50 mL, 100 mL, 250 mL, 500 mL, 950 mL | 1/24/2025
Microgenics Corporation | MAS Morphine Solution 1 mg/mL Catalog number: 00434 | Kit: Glass bottles, 250 mL, 500 mL, 1 L, 2 L | 2/14/2025
Microgenics Corporation | MAS Nitrazepam Soln, 1 mg/mL Catalog number: 10013058 | Plastic or Glass bottle: 50 mL, 100 mL, 250 mL, 400 mL | 1/24/2025
Microgenics Corporation | MAS Nordiazepam Stock Soln, Catalog number: 431 | Kit: Glass bottles, 50mL, 100 mL, 250 mL, 500 mL, 1L, 2L | 2/14/2025
Microgenics Corporation | MAS Oxazepam Soln, 1 mg/mL Catalog number: 10013059 | Plastic or Glass bottle: 50 mL, 100 mL, 250 mL, 500 mL | 1/24/2025
Microgenics Corporation | MAS Oxycodone Soln, 1 mg/mL Catalog number: 10013065 | Plastic or Glass bottle: 50 mL, 100 mL, 250 mL 500 mL, 700 mL | 1/24/2025
Microgenics Corporation | MAS PCP Soln, 0.1 mg/mL Catalog number: 923 | Plastic or Glass bottle: 250 mL, 500 mL, 870 mL | 1/24/2025
Microgenics Corporation | MAS Phenobarbital Soln, 50 mg/mL Catalog number: 418 | Plastic or Glass bottle: 50 mL, 100 mL, 250 mL, 500 mL, 1000 mL, 2000 mL, 2500 mL | 1/24/2025
Microgenics Corporation | MAS Phenobarbital Stock Soln, Catalog number: 745 | Kit: Glass bottles, 50 mL, 100 mL, 250 mL, 500 mL, 1 L, 2 L, 5L | 2/14/2025
Microgenics Corporation | MAS PPX Solution 5mg/mL, Catalog number: 0453 | Glass bottle, 100 mL | 2/14/2025
Microgenics Corporation | MAS PPX Solution 5mg/mL, Catalog number: 10007722 | Kit: Glass bottles, 50 mL, 100 mL | 2/14/2025
Microgenics Corporation | MAS Propoxyphene Stock Soln, Catalog number: 920 | Kit: Glass bottles, 100 mL, 250 mL, 500 mL | 2/14/2025
Microgenics Corporation | MAS Secobarbital Solution 5mg/mL Catalog number: 0450 | Glass bottle, 100 mL | 2/14/2025
Microgenics Corporation | MAS Secobarbital Stock Soln, Catalog number: 921 | Kit: Glass bottles, 250 mL, 500 mL | 2/14/2025
Microgenics Corporation | MAS Testosterone Stock Soln, Catalog number: 748 | Kit: Glass bottles, 1 L, 2 L | 2/14/2025
Microgenics Corporation | MGC MD Calibrator 1, Bulk | Kit: Glass bottles, 45 L, Plastic or Glass bottles, 50 L, 100L, 180 L | 1/31/2025
Microgenics Corporation | MGC MD Calibrator 2, Bulk | Kit: Glass bottles, 20 L, 45 L, Plastic or Glass bottles, 50 L, 100L | 1/31/2025
Microgenics Corporation | MGC MD Calibrator 3, Bulk | Kit: Glass bottles, 10 L, 20 L, 45 L, Plastic or Glass bottles, 20 L, 25 L, 50L, 100 L | 1/31/2025
Microgenics Corporation | MGC MD Calibrator 4, Bulk | Kit: Glass bottles, 10 L, 20 L, 45 L, Plastic or Glass bottles, 20 L, 25 L, 50L, 100 L | 1/31/2025
Restek Corporation | Cannabinoids 11 (1000) Standard | Glass ampoule: 1.3 mL | 1/30/2025
Roche Diagnostics | Control Set iCSTDMA cobas I | HDPE Bottle: 16 bottles, 2.5 mL each | 5/1/2024
Technopath Clinical Diagnostics | Multichem MS TDMS Level 2 09922580529 | Plastic Bottle: 12 bottles, 4.5 mL each | 5/1/2024
Thermo Fisher Scientific | Kontact Pool, Catalog Number: JB350308 | HDPE Tank: 30 L | 11/6/2024
Thermo Fisher Scientific | Kontact Reagent Bulk | HDPE Tank, 10 L | 2/19/2025
Thermo Fisher Scientific | PCT Reference Calibrator A JY6P22AREF | Kit: 529 LDPE Bottles, 4.42 mL each | 11/7/2024
Thermo Fisher Scientific | PCT Reference Calibrator A JY6P22AREF | Kit: 529 LDPE Bottle, 4.42 mL each | 10/23/2024

Opportunity for Comment

Pursuant to 21 CFR 1308.23(e), any interested person may submit written comments on or objections to any chemical preparation in this order that has been approved or denied as exempt. If any comments or objections raise significant issues regarding any finding of fact or conclusion of law upon which this order is based, the Assistant Administrator will immediately suspend the effectiveness of any applicable part of this order until she may reconsider the application in light of the comments and objections filed. Thereafter, the Assistant Administrator shall reinstate, revoke, or amend his original order as she determines appropriate.

Approved Exempt Chemical Preparations Are Posted on DEA's Website

A list of all current exemptions, including those listed in this order, is available on DEA's website at http://www.DEAdiversion.usdoj.gov/schedules/exempt/exempt_chemlist.pdf. The dates of applications of all current exemptions are posted for easy reference.

Thomas Prevoznik,
Assistant Administrator.

[FR Doc. 2025-12198 Filed 6-30-25; 8:45 am]

BILLING CODE 4410-09-P